DEPARTMENT OF THE INTERIOR

Fish and Wildlife Service

50 CFR Part 17

RIN 1018-AU85

Endangered and Threatened Wildlife and Plants; Designation of Critical Habitat for the Flatwoods Salamander

AGENCY: Fish and Wildlife Service, Interior.

ACTION: Proposed rule.

SUMMARY: We, the U.S. Fish and Wildlife Service (Service), propose to designate critical habitat for the flatwoods salamander (Ambystoma cingulatum) pursuant to the Endangered Species Act of 1973, as amended (Act). In total, approximately 31,428 acres (ac) (12,719 hectares (ha)) fall within the boundaries of the proposed critical habitat designation. The proposed critical habitat is located in Baker, Calhoun, Franklin, Holmes, Jackson, Jefferson, Liberty, Santa Rosa, Wakulla, Walton, and Washington Counties in Florida; Baker and Miller Counties in Georgia; and Berkeley, Charleston, and Jasper Counties in South Carolina.

DATES: We will accept comments from all interested parties until April 9, 2007. We must receive requests for public hearings, in writing, at the address shown in the ADDRESSES section by March 26, 2007.

ADDRESSES: If you wish to comment, you may submit your comments and materials concerning this proposal by any one of several methods:

1. You may send by U.S. mail or hand-deliver written comments and information to Ray Aycock, Field Supervisor, U.S. Fish and Wildlife Service, Mississippi Fish and Wildlife Office, 6578 Dogwood View Pkwy, Jackson, MS 39213.

2. You may send comments by electronic mail (e-mail) to linda_laclaire@fws.gov. Please see the Public Comments Solicited section below for file format and other information about electronic filing.

3. You may fax your comments to 601/965-4340.

4. You may go to the Federal eRulemaking Portal: http://www.regulations.gov. Follow the instructions for submitting comments.

Comments and materials received, as well as supporting documentation used in the preparation of this proposed rule, will be available for public inspection, by appointment, during normal business hours at the Mississippi Fish and Wildlife Office (address above).

FOR FURTHER INFORMATION CONTACT: Ray Aycock, Field Supervisor, Mississippi Fish and Wildlife Office (address above) (telephone: 601/965-4900; facsimile: 601/965-4340). Persons who use a telecommunications device for the deaf (TDD) may call the Federal Information Relay Service (FIRS) at 800-877-8339, 7 days a week and 24 hours a day.

SUPPLEMENTARY INFORMATION:

Public Comments Solicited

We intend that any final action resulting from this proposal will be as accurate and as effective as possible. Therefore, comments or suggestions from the public, other concerned governmental agencies, the scientific community, industry, or any other interested party concerning this proposed rule are hereby solicited. Comments particularly are sought concerning:

(1) The reasons any habitat should or should not be determined to be critical habitat as provided by section 4 of the Act (16 U.S.C. 1531 et seq.), including whether the benefit of designation will outweigh any threats to the species caused by designation;

(2) Specific information on the amount and distribution of flatwoods salamander habitat, what areas should be included in the designations that were occupied at the time of listing that contain the features that are essential for the conservation of the species and why and what areas that were not occupied at the time of listing but are essential to the conservation of the species and why;

(3) Land use designations and current or planned activities in the subject areas and their possible impacts on proposed critical habitat;

(4) Any foreseeable economic, national security, or other potential impacts resulting from the proposed designation and, in particular, any impacts on small entities;

(5) The adequacy of forest management plans and programs for Francis Marion, Osceola, and Apalachicola National Forests with respect to providing protection and conservation for the flatwoods salamander; and

(6) Whether our approach to designating critical habitat could be improved or modified in any way to provide for greater public participation and understanding, or to assist us in accommodating public concerns and comments.

If you wish to comment, you may submit your comments and materials concerning this proposal by any one of several methods (see ADDRESSES section). Please submit Internet comments to linda_laclaire@fws.gov. Please include “Attn: flatwoods salamander” in your e-mail subject header and your name and return address in the body of your message. If you do not receive a confirmation from the system that we have received your Internet message, contact us directly by calling our Mississippi Fish and Wildlife Office at phone number 601/965-4900.

Our practice is to make comments, including names and home addresses of respondents, available for public review during regular business hours. Individual respondents may request that we withhold their names and home addresses, etc., but if you wish us to consider withholding this information, you must state this prominently at the beginning of your comments. In addition, you must present rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Role of Critical Habitat in Actual Practice of Administering and Implementing the Act

Attention to and protection of habitat is paramount to successful conservation actions. The role that designation of critical habitat plays in protecting habitat of listed species, however, is often misunderstood. As discussed in more detail below in the discussion of exclusions under the Act's section 4(b)(2), there are significant limitations on the regulatory effect of designation under Act's section 7(a)(2). In brief, (1) designation provides additional protection to habitat only where there is a federal nexus; (2) the protection is relevant only when, in the absence of designation, destruction or adverse modification of the critical habitat would in fact take place (in other words, other statutory or regulatory protections, policies, or other factors relevant to agency decision-making would not prevent the destruction or adverse modification); and (3) designation of critical habitat triggers the prohibition of destruction or adverse modification of that habitat, but it does not require specific actions to restore or improve habitat.

Currently, only 476 species, or 36 percent of the 1,311 listed species in the United States under the jurisdiction of the Service, have designated critical habitat. We address the habitat needs of all 1,311 listed species through conservation mechanisms such as listing, section 7 consultations, the section 4 recovery planning process, the section 9 protective prohibitions of unauthorized take, section 6 funding to the States, the section 10 incidental take permit process, and cooperative, nonregulatory efforts with private landowners. The Service believes that it is these measures may make the difference between extinction and survival for many species.

In considering exclusions of areas proposed for designation, we evaluated the benefits of designation in light of Gifford Pinchot Task Force v. United States Fish and Wildlife Service, 378 F. 3d 1059 (9th Cir 2004) (hereinafter Gifford Pinchot). In that case, the Ninth Circuit invalidated the Service's regulation defining “destruction or adverse modification of critical habitat.” In response, on December 9, 2004, the Director issued guidance to be considered in making section 7 adverse modification determinations. This proposed critical habitat designation does not use the invalidated regulation in our consideration of the benefits of including areas. The Service will carefully manage future consultations that analyze impacts to designated critical habitat, particularly those that appear to be resulting in an adverse modification determination. Such consultations will be reviewed by the Regional Office prior to finalizing to ensure that an adequate analysis has been conducted that is informed by the Director's guidance.

On the other hand, to the extent that designation of critical habitat provides protection, that protection can come at significant social and economic cost. In addition, the mere administrative process of designation of critical habitat is expensive, time-consuming, and controversial. The current statutory framework of critical habitat, combined with past judicial interpretations of the statute, make critical habitat the subject of excessive litigation. As a result, critical habitat designations are driven by litigation and courts rather than biology, and made at a time and under a time frame that limits our ability to obtain and evaluate the scientific and other information required to make the designation most meaningful.

In light of these circumstances, the Service believes that additional agency discretion would allow our focus to return to those actions that provide the greatest benefit to the species most in need of protection.

Procedural and Resource Difficulties in Designating Critical Habitat

We have been inundated with lawsuits for our failure to designate critical habitat, and we face a growing number of lawsuits challenging critical habitat determinations once they are made. These lawsuits have subjected the Service to an ever-increasing series of court orders and court-approved settlement agreements, compliance with which now consumes nearly the entire listing program budget. This leaves the Service with little ability to prioritize its activities to direct scarce listing resources to the listing program actions with the most biologically urgent species conservation needs.

The consequence of the critical habitat litigation activity is that limited listing funds are used to defend active lawsuits, to respond to Notices of Intent (NOIs) to sue relative to critical habitat, and to comply with the growing number of adverse court orders. As a result, listing petition responses, the Service's own proposals to list critically imperiled species, and final listing determinations on existing proposals are all significantly delayed.

The accelerated schedules of court-ordered designations have left the Service with limited ability to provide for public participation or to ensure a defect-free rulemaking process before making decisions on listing and critical habitat proposals, due to the risks associated with noncompliance with judicially imposed deadlines. This in turn fosters a second round of litigation in which those who fear adverse impacts from critical habitat designations challenge those designations. The cycle of litigation appears endless, and is very expensive, thus diverting resources from conservation actions that may provide relatively more benefit to imperiled species.

The costs resulting from the designation include legal costs, the cost of preparation and publication of the designation, the analysis of the economic effects and the cost of requesting and responding to public comment, and in some cases the costs of compliance with the National Environmental Policy Act (NEPA; 42 U.S.C. 4371 et seq.). These costs, which are not required for many other conservation actions, directly reduce the funds available for direct and tangible conservation actions.

Background

It is our intent to discuss only those topics directly relevant to the designation of critical habitat in this proposed rule. For more information on the flatwoods salamander, refer to the final listing rule published in the Federal Register on April 1, 1999 (64 FR 15691).

Previous Federal Actions

The flatwoods salamander (Ambystoma cingulatum) was listed as threatened on April 1, 1999 (64 FR 15691). At that time, we found that designation of critical habitat for the flatwoods salamander was not prudent because such designation would not be beneficial and may increase threats to the species. On April 1, 2005, Center for Biological Diversity, Wild South, and Florida Biodiversity Project filed a lawsuit against the Secretary of the Interior alleging failure to designate critical habitat for the flatwoods salamander. In a court-approved settlement agreement, we agreed to reevaluate the need for critical habitat for the species and if prudent submit a proposed designation of critical habitat to the Federal Register by January 30, 2007.

Critical Habitat

Critical habitat is defined in section 3 of the Act as—(i) the specific areas within the geographical area occupied by a species, at the time it is listed in accordance with the Act, on which are found those physical or biological features (I) essential to the conservation of the species and (II) that may require special management considerations or protection; and (ii) specific areas outside the geographical area occupied by a species at the time it is listed, upon a determination that such areas are essential for the conservation of the species. Conservation, as defined under section 3 of the Act, means to use and the use of all methods and procedures that are necessary to bring any endangered species or threatened species to the point at which the measures provided pursuant to the Act are no longer necessary. Such methods and procedures include, but are not limited to, all activities associated with scientific resources management such as research, census, law enforcement, habitat acquisition and maintenance, propagation, live trapping, and transplantation, and, in the extraordinary case where population pressures within a given ecosystem cannot be otherwise relieved, may include regulated taking.

Critical habitat receives protection under section 7 of the Act through the prohibition against destruction or adverse modification of critical habitat with regard to actions carried out, funded, or authorized by a Federal agency. Section 7 requires consultation on Federal actions that are likely to result in the destruction or adverse modification of critical habitat. The designation of critical habitat does not affect land ownership or establish a refuge, wilderness, reserve, preserve, or other conservation area. Such designation does not allow government or public access to private lands. Section 7 is a purely protective measure and does not require implementation of restoration, recovery, or enhancement measures.

To be included in a critical habitat designation, the habitat within the area occupied by the species must first have features that are essential to the conservation of the species. Critical habitat designations identify, to the extent known using the best scientific data available, habitat areas that provide essential life cycle needs of the species (i.e., areas on which are found the primary constituent elements, as defined at 50 CFR 424.12(b)).

Habitat occupied at the time of listing may be included in critical habitat only if the essential features thereon may require special management or protection. Thus, we do not include areas where existing management is sufficient to conserve the species. (As discussed below, such areas may also be excluded from critical habitat pursuant to section 4(b)(2)). Accordingly, when the best available scientific data do not demonstrate that the conservation needs of the species require additional areas, we will not designate critical habitat in areas outside the geographical area occupied by the species at the time of listing. An area currently occupied by the species but not known to have been occupied at the time of listing will likely, but not always, be essential to the conservation of the species and, therefore, typically included in the critical habitat designation.

The Service's Policy on Information Standards Under the Endangered Species Act, published in the Federal Register on July 1, 1994 (59 FR 34271), and Section 515 of the Treasury and General Government Appropriations Act for Fiscal Year 2001 (Pub. L. 106-554; H.R. 5658) and the associated Information Quality Guidelines issued by the Service provide criteria, establish procedures, and provide guidance to ensure that decisions made by the Service represent the best scientific data available. They require Service biologists, to the extent consistent with the Act and with the use of the best scientific data available, to use primary and original sources of information as the basis for recommendations to designate critical habitat. When determining which areas are critical habitat, a primary source of information is generally the listing package for the species. Additional information sources include the recovery plan for the species, articles in peer-reviewed journals, conservation plans developed by States and counties, scientific status surveys and studies, biological assessments, or other unpublished materials and expert opinion or personal knowledge. All information is used in accordance with the provisions of Section 515 of the Treasury and General Government Appropriations Act for Fiscal Year 2001 (Pub. L. 106-554; H.R. 5658) and the associated Information Quality Guidelines issued by the Service.

Section 4 of the Act requires that we designate critical habitat on the basis of the best scientific data available. Habitat is often dynamic, and species may move from one area to another over time. Furthermore, we recognize that designation of critical habitat may not include all of the habitat areas that may eventually be determined to be necessary for the recovery of the species. For these reasons, critical habitat designations do not signal that habitat outside the designation is unimportant or may not be required for recovery.

Areas that support populations, but are outside the critical habitat designation, will continue to be subject to conservation actions implemented under section 7(a)(1) of the Act and to the regulatory protections afforded by the section 7(a)(2) jeopardy standard, as determined on the basis of the best available information at the time of the action. Federally funded or permitted projects affecting listed species outside their designated critical habitat areas may still result in jeopardy findings in some cases. Similarly, critical habitat designations made on the basis of the best available information at the time of designation will not control the direction and substance of future recovery plans, habitat conservation plans, or other species conservation planning efforts if new information available to these planning efforts calls for a different outcome.

Methods

As required by section 4(b)(2) of the Act, we use the best scientific data available in determining areas that contain the features that are essential to the conservation of the flatwoods salamander. This includes information from the proposed listing rule (62 FR 65787), final listing rule (64 FR 15691), site visits, soil and species map coverages, and data compiled in the Florida, Georgia, and South Carolina Natural Heritage databases. We do not propose any areas outside the geographical area presently occupied by the species.

We also reviewed the available information pertaining to historical and current distribution, ecology, life history, and habitat requirements of the flatwoods salamander. This material included data in reports submitted by biologists holding section 10(a)(1)(A) recovery permits; research published in peer-reviewed scientific publications; museum records; technical reports and unpublished field observations by Service, State and other experienced biologists; additional notes and communications with qualified biologists or experts; and regional Geographic Information System (GIS) coverages.

Primary Constituent Elements

In accordance with section 3(5)(A)(i) of the Act and regulations at 50 CFR 424.12, in determining which areas to propose as critical habitat, we consider those physical and biological features that are essential to the conservation of the species (PCEs), and within areas occupied by the species at the time of listing, those PCES that may require special management considerations and protection. These include, but are not limited to, space for individual and population growth and for normal behavior; food, water, air, light, minerals, or other nutritional or physiological requirements; cover or shelter; sites for breeding, reproduction, and rearing (or development) of offspring; and habitats that are protected from disturbance or are representative of the historic geographical and ecological distributions of a species.

The specific PCEs required for the flatwoods salamander are derived from the biological needs of the flatwoods salamander as described below and in the final listing rule (64 FR 15691).

Space for Individual and Population Growth and Normal Behavior

The flatwoods salamander is a terrestrial species of the longleaf pine ecosystem. Flatwoods salamanders spend most of their lives underground, and occur in forested habitat consisting of fire-maintained, open-canopied, flatwoods and savannas dominated by longleaf pine (Pinus palustris), with naturally-occurring slash pine (P. elliotti) in wetter areas. Historically, fire-tolerant longleaf pine dominated the uplands, whereas slash pine, being less fire-tolerant, was confined principally to wetlands, wetland edges, and the wetter portions of pine flatwoods. Means et al. (1996, pp. 434-435) summarized the natural distribution of slash pine in reference to the flatwoods salamander and concluded that natural slash pine habitats constituted only a minor fraction of the species' upland habitat. Much of the original flatwoods habitat has been converted to pine (often slash pine) plantations and become a closed-canopy forest unsuitable as habitat for the flatwoods salamander. Nevertheless, flatwoods salamanders do occur on some slash and loblolly pine (P. taeda) plantation sites. The extent of habitat degradation has been variable among pine plantations. On some plantations, the original hydrology, ground cover, and soil structure have been less severely altered, and these are the areas where remnant flatwoods salamander populations still occur.

Pine flatwoods and savannas are typically characterized by low, flat topography, and relatively poorly-drained, acidic, sandy soil that becomes seasonally saturated. In the past, this ecosystem was characterized by open pine woodlands maintained by frequent fires. Naturally ignited by lightning during spring and early summer, these flatwoods historically burned at intervals ranging from 1 to 4 years (discussion in Clewell 1989, p. 226). In some areas, such as southwest Georgia, the topography of pine flatwoods can vary from nearly flat to gently-rolling hills. The groundcover of the pine flatwoods/savanna ecosystem is typically dominated by wiregrass (Aristida stricta [= A. beyrichiana] Kesler et al. 2003, p. 9) in the Gulf Coastal Plain, which is often joined or replaced by dropseed (Sporobolus spp.) in the Atlantic Coastal Plain. Many other herbaceous plants are found in the groundcover and plant diversity is usually very high.

During the breeding season, adult flatwoods salamanders leave their subterranean retreats and migrate to breeding sites during rains associated with passing cold fronts. Throughout their range, the salamanders breed at ephemeral (seasonally-flooded) isolated ponds (not connected to other water bodies) embedded within the mesic (moderate moisture) to intermediate-mesic flatwoods/savanna communities occupied by post-larval and adult salamanders (Palis and Means 2005, pp. 608-609. There are some variations in vegetation, geology, and soils among geographic areas within the range of the salamander (most notably, differences between the Gulf Coast and Atlantic Coastal Plain communities); however, basic characteristics are fairly similar throughout. Both forested uplands and isolated wetlands (See further discussion of isolated wetlands in section “Sites for breeding, reproduction, and rearing of offspring,” below) are needed to provide space for individual and population growth and normal behavior.

The distance between the wetland breeding and upland terrestrial habitats of post-larval and adult salamanders can vary considerably. According to Ashton (1992), flatwoods salamanders have been documented up to 5,576 ft (1,700 m) from breeding ponds. In the final listing rule, however, the Service used an estimate of 1,476 feet (ft) (450 meters (m)) as the radius of a flatwoods salamander's principal activity area around a breeding pond based on research summarized in Semlitsch (1998, pp. 1115-1117) on this species and other species in its genus (U. S. Fish and Wildlife Service 1999, p. 15697).

Food, Water, Air, Light, or Other Nutritional or Physiological Requirements

It is assumed that flatwoods salamanders eat small invertebrates that share their fossorial (underground) habitat. Records exist of earthworms that have been found in the stomachs of dissected adults (Goin 1950, p. 314). Larval flatwoods salmanders most likely prey on a variety of aquatic invertebrates and perhaps small vertebrates such as other amphibian larvae (Palis and Means 2005, p. 608). Data from a recent study of larval food habits found that freshwater crustaceans dominated stomach contents of preserved, wild-caught individuals from Florida and South Carolina (Whiles et al. 2004, p. 208). This likely indicates a preference for freshwater crustaceans, or perhaps is an indication that these invertebrates are the most abundant or most easily captured prey in breeding ponds.

Within the pine uplands, a diverse and abundant herbaceous layer consisting of native species is important to maintain the prey base for adult flatwoods salamanders. Wetland water quality is important to maintain the aquatic invertebrate fauna eaten by larval salamanders. An unpolluted wetland with water free of sediment, pesticides, herbicides, and the chemicals associated with road runoff, is important to maintain the aquatic invertebrate fauna eaten by larval salamanders.

Cover or Shelter

At wetland sites, developing larval flatwoods salamanders hide in submerged herbaceous vegetation during the day (Palis and Means 2005, p. 608) as protection from predators. Thus, an abundant herbaceous community in these ponds is important for cover.

Generally, flatwoods salamander breeding pond and upland habitats are separated by an ecotone (area of transitional habitat) through which salamanders must move during pre- and post-breeding events (Palis 1997, p. 58). The graminaceous (grass-like) ecotone represents a distinct habitat type and studies of migratory success in salamanders have demonstrated its importance to population survival (Rothermel 2004, pp. 1544-1545).

Post-larval and adult flatwoods salamanders occupy upland flatwoods sites where they live underground in crayfish burrows, root channels, or burrows of their own making (Goin 1950, p. 311; Neill 1951, p. 765; Mount 1975, pp. 98-99; Ashton and Ashton 2005, pp. 63, 65, 68-71). The occurrence of these below-ground habitats is dependent upon protection of the soil structure within flatwoods salamander terrestrial sites.

Sites for Breeding, Reproduction, and Rearing of Offspring

Adult flatwoods salamanders move from the uplands to breed in ponds that are typically acidic, tannin-stained, isolated, ephemeral wetlands (marsh-like depressions) (Palis 1997, p. 53, 58; Safer 2001, p. 5, 12). Breeding occurs from late September to December when ponds flood due to rainy weather associated with cold fronts. If rainfall is insufficient to result in adequate pond flooding, breeding may not occur or, if larvae do develop, they may die before metamorphosis. Egg development from deposition to hatching occurs in approximately 2 weeks, but eggs do not hatch until they are inundated (Palis 1995, p. 352, 353). Larval salamanders usually metamorphose in March or April after an 11-to-18-week larval period (Palis 1995, p. 352). Ponds dry shortly thereafter. A cycle of filling and drying is essential for maintaining the appropriate habitat conditions of these wetlands.

The overstory within breeding ponds is typically dominated by pond cypress (Taxodium ascendens [=T. distichum var. imbricarium; Lickey and Walker 2002, p. 131)], blackgum (Nyssa sylvatica var. biflora), and slash pine (Palis 1997, p. 58, 59). An open midstory is often present as well and dominant species include the myrtle-leaved holly (Illex myrtifolia) and other shrubs and small trees (Palis 1997, p. 58, 59). When they are dry, breeding ponds burn naturally due to periodic wildfires, especially during late spring and summer. Depending on canopy closure and midstory, the herbaceous groundcover of breeding sites can vary considerably (Palis 1997, p. 58, 59). However, flatwoods salamander larvae are typically found in those portions of breeding sites containing abundant herbaceous vegetation. The ground cover is dominated by graminaceous species. The floor of breeding sites generally consists of relatively firm mud with little or no peat. Burrows of crayfish (genus Procambarus, principally) are a common feature of flatwoods salamander breeding sites. Breeding sites are typically encircled by a bunchgrass (wiregrass or dropseed)—dominated graminaceous ecotone (see discussion of ecotone, above). Small fish, such as pygmy sunfishes (Elassoma spp.), mosquitofish (Gambusia holbrookii), and banded sunfish (Enneacanthus obesus) may be present, but large predaceous species are absent (Palis 1997, p. 58, 60).

Primary Constituent Elements for the Flatwoods Salamander

Pursuant to our regulations, we are required to identify the known physical and biological features essential to the conservation of the flatwoods salamander (PCEs). Based on our current knowledge of the life history, biology, and ecology of the species and the requirements of the habitat to sustain the essential life history functions of the species, we have determined that the flatwoods salamander's PCEs are:

1. Breeding habitat. Small (generally <1 to 10 acres (ac) (<0.4 to 4.0 hectares (ha)), acidic, depressional standing bodies of freshwater (wetlands) that:

(a) are seasonally flooded by rainfall in late fall or early winter and dry in late spring or early summer;

(b) are geographically isolated from other water bodies;

(c) occur within pine-flatwoods/savanna communities;

(d) are dominated by grasses and grass-like species in the ground layer and overstories of pond cypress, blackgum, and slash pine.

(e) have a relatively open canopy, necessary to maintain the herbaceous component which serves as cover for flatwoods salamander larvae and their aquatic invertebrate prey; and

(f) typically have a burrowing crayfish fauna, but, due to periodic drying, the breeding ponds typically lack large, predatory fish (e.g., Lepomis (sunfish), Micropterus (bass), Amia calva (bowfin)).

2. Non-breeding habitat. Upland pine flatwoods/savanna habitat that is open, mesic woodland maintained by frequent fires and that:

(a) is within 1,500 ft (457 m) of adjacent and accessible breeding ponds;

(b) contains crayfish burrows or other underground habitat that the flatwoods salamander depends upon for food, shelter, and protection from the elements and predation;

(c) has an organic hardpan in the soil profile, which inhibits subsurface water penetration and typically results in moist soils with water often at or near the surface under normal conditions; and

(d) often has wiregrasses as the dominant grasses in the abundant herbaceous ground cover, which supports the rich herbivorous invertebrates that serve as a food source for the flatwoods salamander.

3. Dispersal habitat. Upland habitat areas between non-breeding and breeding habitat that allows for salamander movement between such sites and that is characterized by:

(a) a mix of vegetation types representing a transition between wetland and upland vegetation (ecotone);

(b) an open canopy and abundant native herbaceous species; and

(c) moist soils as described in PCE 2, and underground structure, such as deep litter cover or burrows that provide shelter for salamanders during seasonal movements.

This proposed designation is designed for the conservation of those areas containing PCEs necessary to support the life history functions that were the basis for the proposal. Each of the areas proposed as critical habitat in this rule have been determined to contain all PCEs of the flatwoods salamander.

Criteria Used To Identify Critical Habitat

As required by section 4(b)(1)(A) of the Act, we used the best scientific data available in determining areas that contain the features that are essential to the conservation of the flatwoods salamander. This includes information from the proposed listing rule (62 FR 65787), final listing rule (64 FR 15691), site visits, soil and species map coverages, and data compiled in the Florida, Georgia, and South Carolina Natural Heritage databases. We propose to designate no areas outside the geographical area presently occupied by the species.

We have also reviewed available information that pertains to the habitat requirements of this species. This material included data in reports submitted by biologists holding section 10(a)(1)(A) permits; research published in peer-reviewed scientific publications; museum records, technical reports and unpublished field observations by Service, State, and other experienced biologists; management plans written by State biologists; State grant reports; additional notes and communications with qualified biologists or experts; and regional GIS coverages.

In proposing to designate critical habitat for the flatwoods salamander, we selected areas occupied at the time of listing based on the best scientific data available that possess those physical and biological features essential to the conservation of the species that may require special management considerations or protection. In addition, we included two areas subsequently identified as occupied and essential to the conservation of the species. We found that the two newer (post-listing) occurrence records were in close proximity to areas already known to support the flatwoods salamander. We identified proposed critical habitat units that were occupied at the time of listing based on: (1) Presence of the defined PCEs; (2) density of flatwoods salamander occurrences; and (3) kind, amount, and quality of habitat associated with those occurrences. We identified proposed critical habitat units that were not occupied at the time of listing based on: (1) Density of flatwoods salamander occurrences; (2) kind, amount, and quality of habitat associated with those occurrences; and (3) a determination that these areas are essential to the conservation of the species.

According to Ashton (1992), flatwoods salamanders have been documented up to 5,576 ft (1,700 m) from breeding ponds. However, in the final listing rule, we determined that a radius of 1,476 ft (450 m) from the wetland edge would protect the majority of the salamander population (U.S. Fish and Wildlife Service 1999, p. 15697). Thus, the radius of 450 m was used to delineate critical habitat boundaries around breeding ponds, and proposed critical habitat areas separated by over 450 m were considered separate units or subunits.

We considered the following criteria in the selection of areas that contain the essential features for the flatwoods salamander and focused on designating units: (1) Throughout the current geographic and ecological distribution of the species; (2) that retain or provide for connectivity between breeding sites that allows for the continued existence of viable and essential metapopulations (populations at individual ponds that interbreed over time), despite fluctuations in the status of subpopulations; (3) that possess large continuous blocks of occupied habitat, representing source populations and/or unique ecological characteristics; and (4) that contain sufficient upland habitat around each breeding location to allow for sufficient survival and recruitment to maintain a breeding population over the long term. The lands proposed as critical habitat collectively contain small, and in some cases, isolated, populations of the species. These small populations are at a high risk of extinction due to stochastic events and human-induced threats such as urban/agricultural development and habitat degradation due to fire suppression and hydrological alterations. Thus, we believe all lands proposed as critical habitat are essential for the persistence and conservation of the flatwoods salamander and meet the criteria as set forth above.

We used the final listing rule to establish those areas occupied at the time of listing. All other areas proposed for critical habitat designation were based on occupancy data collected since listing. The currently occupied habitat of the flatwoods salamander is highly localized and fragmented. Due to several drought events, post-listing observations of salamanders have been made at breeding ponds in only a small portion of their occupied range and no population estimates are currently available. As with many rare species, especially pond-breeding amphibians with fossorial adult life stages, detection probabilities are low even in “normal” weather years (Bailey et al. 2004, p. 2463-2464). Flatwoods salamanders are particularly susceptible to drought, as breeding cannot occur if breeding ponds do not receive adequate rainfall. We know that isolated populations, including those of the flatwoods salamander, are highly susceptible to stochastic events. Thus, we have determined that all but one of the areas occupied at the time of listing contain the features essential to the conservation of the species and that the two units occupied since the time of listing are essential to the conservation of the species.

All occurrence records for sites currently known to be occupied, typically a breeding pond, were initially plotted on maps using ArcMap (Environmental Systems Research Institute, Inc.), a computer GIS program. The critical habitat units were then delineated by creating approximate areas for the units by screen-digitizing polygons (map units) using ArcMap. For ease of application in creating polygons, the original 1,476 ft (450 m) radius estimate used to generate the habitat occupied by a flatwoods salamander population was rounded up to 1,500 ft (457 m). Polygons were created by overlaying the flatwoods salamander occurrence locations, extant-at-time-of-listing and subsequent-to-listing, with radius buffers of 1,500 ft (457 m). The area circumscribed by a circle of this radius would be 162 ac (66 ha) and this area was used as a starting point to delineate the amount of wetland and upland habitat occupied by salamanders at each occurrence and containing the features essential to their conservation (PCEs).

Once the polygons were completed, they were overlaid on aerial photography. The aerial photography was analyzed to verify the occurrence of PCEs and their distribution within the polygons. Research on ambystomatid salamanders indicates that they need high terrestrial survival or immigration to persist (Taylor et al. 2005, p. 799). Thus, a flatwoods salamander population requires a sufficient amount of terrestrial habitat to ensure survival of adults in upland habitat, or immigration of juveniles to the population is needed from nearby breeding ponds. For this reason, if metapopulation structure was indicated by polygons which overlapped or were in immediate proximity to each other, polygons were combined to create areas containing multiple ponds connected to each other by upland habitat corridors. Additionally, we adjusted individual unit boundaries based on presence or absence of the PCEs.

When determining proposed critical habitat boundaries, we made every effort to avoid including developed areas such as buildings, paved areas, and other structures that lack PCEs for the flatwoods salamander. The scale of the maps prepared under the parameters for publication within the Code of Federal Regulations may not reflect the exclusion of such developed areas. However, any such structures and the land under them inadvertently left inside critical habitat boundaries shown on the maps of this proposed rule have been excluded by text in the proposed rule and are not proposed for designation as critical habitat. Therefore, Federal actions limited to these areas would not trigger section 7 consultation, unless they affect the species or primary constituent elements in adjacent critical habitat.

We are proposing to designate critical habitat on lands that we have determined were occupied at the time of listing and that contain sufficient PCEs to support life history functions essential for the conservation of the species. In addition we are proposing to designate two areas that were not known to be occupied at the time of listing (they occur within the same geographical area and were discovered after 1999), and have been determined to be essential to the conservation of the species. All lands proposed for designation contain all PCEs and support multiple flatwoods salamander life processes.

Section 10(a)(1)(B) of the Act authorizes us to issue permits for the take of listed species incidental to otherwise lawful activities. An incidental take permit application must be supported by a habitat conservation plan (HCP) that identifies conservation measures that the permittee agrees to implement to minimize and mitigate the impacts on the species by the requested incidental take. We often exclude non-Federal public lands and private lands that are covered by an existing operative HCP from designated critical habitat because the benefits of exclusion outweigh the benefits of inclusion as discussed in section 4(b)(2) of the Act. Currently, there are no existing or proposed HCPs for the flatwoods salamander, and as a result no exclusions are being proposed based on such an analysis.

Special Management Considerations or Protections

When designating critical habitat, we assess whether the areas determined to be occupied at the time of listing and contain the primary constituent elements that may require special management considerations or protections. Threats to those features that define the primary constituent elements for the flatwoods salamander include the direct and indirect impacts of land use conversions, primarily urban development and conversion to agriculture and pine plantations; stump removal and other soil-disturbing activities which destroy the below-ground structure within forest soils; fire suppression and low fire frequencies; wetland destruction and degradation; and stochastic effects of drought or floods. Specific details regarding these threats can be found in the proposed listing rule (62 FR 65787) and final listing rule (64 FR 15691). Due to one or more of the threats described above, and as discussed in more detail in the individual unit descriptions below, we find that all areas known to be occupied at the time of listing that we are proposing for designation as critical habitat contain PCEs that may require special management considerations or protections to ensure the conservation of the flatwoods salamander.

Proposed Critical Habitat Designation

We are proposing 16 flatwoods salamander critical habitat units, some of which are divided into subunits (for a total 45 units/subunits). The critical habitat units described below constitute our best current assessment of areas determined to be occupied at the time of listing containing the primary constituent elements that may require special management, and those additional areas that were not known to be occupied at the time of listing but were found to be essential to the conservation of the flatwoods salamander.

Table 1.—Proposed Critical Habitat Units Occupied at the Time of Listing, Currently Occupied But Were Not Known To Be Occupied at the Time of Listing, or Unoccupied
Unit | Occupied at time of listing | Currently occupied (but not known to be occupied at the time of listing) | Unoccupied
Florida Units
FL-1, Subunit A | X
FL-1, Subunit B | X
FL-2, Subunit A | X
FL-2, Subunit B | X
FL-3, Subunit A | X
FL-3, Subunit B | X
FL-3, Subunit C | X
FL-4 | X
FL-5, Subunit A | X
FL-5, Subunit B | X
FL-6, Subunit A | X
FL-6, Subunit B | X
FL-6, Subunit B | X
FL-7, Subunit A | X
FL-7, Subunit B | X
FL-7, Subunit C | X
FL-8, Subunit A | X
FL-8, Subunit B | X
FL-8, Subunit C | X
FL-9, Subunit A | X
FL-9, Subunit B | X
FL-9, Subunit C | X
FL-9, Subunit D | X
FL-9, Subunit E | X
FL-9, Subunit F | X
FL-9, Subunit G | X
FL-9, Subunit H | X
FL-9, Subunit I |  | X
FL-9, Subunit J |  | X
FL-9, Subunit K | X
FL-10 | X
FL-11, Subunit A | X
FL-11, Subunit B | X
FL-11, Subunit C | X
FL-11, Subunit D | X
FL-11, Subunit E | X
FL-12, Subunit A | X
FL-12, Subunit B | X
Georgia Units
GA-1, Subunit A | X
GA-1, Subunit B | X
GA-1, Subunit C | X
South Carolina Units
SC-1 | X
SC-2 | X
SC-3 | X
SC-4 | X

The total area with features essential to the conservation of the flatwoods salamander and other areas essential for the species' conservation is 43,202 ac (17, 484 ha). Of this, 31,428 ac (12,719 ha) are being proposed for critical habitat. The total area not proposed for critical habitat is 11,774 ac (4,765 ha). This includes 9,867 ac (3,993 ha) of Department of Defense (DoD) lands with INRMPs exempted under section 4(a)(3), and approximately 1,907 ac of land within St. Marks National Wildlife Refuge which do not meet the definition of critical habitat under section 3(5)(A). Table 2 below provides the approximate area (ac/ha) determined to meet the definition of critical habitat for the flatwoods salamander and area (ac/ha) being exempted from or not included in the final critical habitat designation, by State.

Table 2.—Area (in ac/ha) Determined To Meet the Definition of Critical Habitat for the Flatwoods Salamander Containing the PCEs That May Require Special Management (Definitional Area) and Area Being Exempted From or Not Included in the Final Critical Habitat Designation (Area Not Included in Proposed Designation), by State
State | Definitional area (ac/ha) | Area not included in proposed designation (ac/ha)
Florida | 29,689 ac (12,015 ha) | 6,491 ac (2,627 ha).
Georgia | 609 ac (247 ha) | 5,283 ac (2,138 ha).
South Carolina | 1,130 ac (457 ha) |
Totals | 31,428 ac (12,719 ha) | 11,774 ac (4,765 ha).

The approximate area (ac/ha) encompassed within each proposed critical habitat unit is shown in Table 3.

Table 3.—Critical Habitat Units Proposed for the Flatwoods Salamander (Area Estimates Reflect All Land Within Critical Habitat Unit Boundaries)
Unit | Federal ac (ha) | State ac (ha) | Local ac (ha) | Private ac (ha) | Total ac (ha)
Florida Units
FL-1, Subunit A |  | 180 ac (73 ha) | 4 ac (2 ha) | 6 ac (2 ha) | 190 ac (77 ha).
FL-1, Subunit B |  | 133 ac (54 ha) |  | 29 ac (12 ha) | 162 ac (66 ha).
FL-2, Subunit A |  |  |  | 162 ac (66 ha) | 162 ac (66 ha).
FL-2, Subunit B |  | 32 ac (13 ha) |  | 131 ac (53 ha) | 163 ac (66 ha).
FL-3, Subunit A |  |  |  | 148 ac (60 ha) | 148 ac (60 ha).
FL-3, Subunit B |  |  | 26 ac (11 ha) | 42 ac (17 ha) | 68 ac (28 ha).
FL-3, Subunit C |  |  | 13 ac (5 ha) | 165 ac (67 ha) | 178 ac (72 ha).
FL-4 |  | 162 ac (66 ha) |  |  | 162 ac (66 ha).
FL-5, Subunit A |  |  |  | 213 ac (86 ha) | 213 ac (86 ha).
FL-5, Subunit B |  | 162 ac (66 ha) |  |  | 162 ac (66 ha).
FL-6, Subunit A |  |  |  | 162 ac (66 ha) | 162 ac (66 ha).
FL-6, Subunit B |  | 14 ac (6 ha) |  | 148 ac (60 ha) | 162 ac (66 ha).
FL-6, Subunit C |  |  |  | 165 ac (67 ha) | 165 ac (67 ha).
FL-7, Subunit A |  |  |  | 157 ac (64 ha) | 157 ac (64 ha).
FL-7, Subunit B |  |  |  | 358 ac (145 ha) | 358 ac (145 ha).
FL-7, Subunit C |  |  |  | 244 ac (99 ha) | 244 ac (99 ha).
FL-8, Subunit A |  |  |  | 162 ac (66 ha) | 162 ac (66 ha).
FL-8, Subunit B |  |  |  | 162 ac (66 ha) | 162 ac (66 ha).
FL-8, Subunit C |  |  |  | 162 ac (66 ha) | 162 ac (66 ha).
FL-9, Subunit A |  |  |  | 162 ac (66 ha) | 162 ac (66 ha).
FL-9, Subunit B | 2,846 ac (1,152 ha) |  |  | 511 ac (207 ha) | 3,357 ac (1,359 ha).
FL-9, Subunit C | 1,084 ac (439 ha) |  |  | 32 ac (13 ha) | 1,116 ac (452 ha).
FL-9, Subunit D | 333 ac (135 ha) |  |  |  | 333 ac (135 ha).
FL-9, Subunit E | 1739 ac (704 ha) |  |  | 51 ac (21 ha) | 1,790 ac (725 ha).
FL-9, Subunit F | 4,969 ac (2,011 ha) |  |  | 231 ac (94 ha) | 5,200 ac (2,105 ha).
FL-9, Subunit G | 258 ac (104 ha) |  |  |  | 258 ac (104 ha).
FL-9, Subunit H | 8,176 ac (3,309 ha) |  |  | 305 ac (123 ha) | 8,481 ac (3,432 ha).
FL-9, Subunit I | 1,209 ac (489 ha) | 46 ac (19 ha) |  |  | 1,255 ac (508 ha).
FL-9, Subunit J | 312 ac (126 ha) |  |  |  | 312 ac (126 ha).
FL-9, Subunit K | 802 ac (325 ha) |  |  | 7 ac (3 ha) | 809 ac (328 ha).
FL-10 |  | 162 ac (66 ha) |  |  | 162 ac (66 ha).
FL-11, Subunit A |  |  |  | 919 ac (372 ha) | 919 ac (372 ha).
FL-11, Subunit B |  |  |  | 162 ac (66 ha) | 162 ac (66 ha).
FL-11, Subunit C |  |  |  | 435 ac (176 ha) | 435 ac (176 ha).
FL-11, Subunit D |  |  |  | 162 ac (66 ha) | 162 ac (66 ha).
FL-11, Subunit E |  | 85 ac (34 ha) |  | 78 ac (32 ha) | 163 ac (66 ha).
FL-12, Subunit A | 1,109 ac (449 ha) |  |  |  | 1,109 ac (449 ha).
FL-12, Subunit B |  |  |  | 162 ac (66 ha) | 162 ac (66 ha).
Georgia Units
GA-1, Subunit A |  |  |  | 163 ac (66 ha) | 163 ac (66 ha).
GA-1, Subunit A |  |  |  | 269 ac (109 ha) | 269 ac (109 ha).
GA-1, Subunit C |  |  |  | 177 ac (72 ha) | 177 ac (72 ha).
South Carolina Units
SC-1 |  |  |  | 163 ac (66 ha) | 163 ac (66 ha).
SC-2 |  |  |  | 183 ac (74 ha) | 183 ac (74 ha).
SC-3 | 622 ac (252 ha) |  |  |  | 622 ac (252 ha).
SC-4 |  | 162 ac (66 ha) |  |  | 162 ac (66 ha).
Totals | 23,459 ac (9,494 ha) | 1,138 ac (461 ha) | 43 ac (17 ha) | 6,788 ac (2,747 ha) | 31,428 ac (12,719 ha).

We present below brief descriptions of all units, and reasons why they meet the definition of critical habitat for the flatwoods salamander, including reasons why these PCEs require special management considerations or protections. Generally, the units are listed in order geographically west to east and south to north. The precise boundaries of each unit are described below as UTM coordinates (see Proposed Regulation Promulgation section).

Florida Critical Habitat Units (FL)

There are 12 Florida units, some of which are further subdivided into subunits (for a total of 38 units/subunits), comprising 29,689 ac (12,015 ha) across 11 counties of Florida. All units/subunits meet the definition of critical habitat based on the discussion above and all units contain all PCEs or for those units not occupied at listing, are essential to the conservation of the species. Of these, 36 units/subunits (28,122 ac (11,381 ha)) were known to be occupied at the time of listing and are currently occupied and two subunits (FL-9, Subunit I and FL-9, Subunit J), comprising 1,567 ac (634 ha), were not known to be occupied at the time of listing, but are currently occupied. The two subunits found to be occupied since listing are essential for the conservation of the species as they exist as part of a matrix of ponds within and adjacent to the Apalachicola National Forest, and their loss would negatively affect the long-term survival of this metapopulation, which is the largest existing metapopulation and is vital to the recovery of the species.

The western- and southern-most known occurrences of the flatwoods salamander are represented by populations in Florida.

Unit FL-1

Unit FL-1 is comprised of two subunits totaling 352 ac (143 ha) on Garcon Point in Santa Rosa County, Florida. Within FL-1, 180 acres (73 ha) consist of State land in the Garcon Point Water Management Area managed by the Northwest Florida Water Management District (NWFLWMD), 133 ac (54 ha) are on the Yellow River Marsh State Buffer Preserve (managed in part by the State of Florida/Department of Environmental Protection), 35 ac (14 ha) are in private ownership, and 4 ac (2 ha) are owned by the Santa Rosa Bay Bridge Authority.

Unit FL-1, Subunit A

Unit FL-1, Subunit A encompasses 190 ac (77 ha) on Garcon Point in Santa Rosa County, Florida. Garcon Point is a peninsula that extends into an embayment of the Gulf of Mexico near Pensacola, Florida. Within this unit, 180 acres (73 ha) consist of State land in the Garcon Point Water Management Area managed by the Northwest Florida Water Management District (NWFLWMD), 6 ac (2 ha) are in private ownership, and 4 ac (2 ha) are owned by the Santa Rosa Bay Bridge Authority. This currently occupied unit is located adjacent to Hwy. 191 within an extensive wet prairie. Since the majority of this currently occupied unit is owned by NWFLWMD, it is likely protected from direct agricultural and urban development; however, threats remain to the flatwoods salamander and its habitat that may require special management of the PCEs. They include the potential for fire suppression and potential hydrologic changes resulting from the adjacent highway that could alter the ecology of the breeding pond and surrounding terrestrial habitat. Ditches associated with highways can drain water from a site and result in ponds with shorter hydroperiods and drier terrestrial habitat. Alternatively, ditches can connect isolated wetlands with permanent water sites that increase the hydroperiod of ponds and facilitate the introduction of predaceous fish into breeding ponds. In addition, run-off from highways can introduce toxic chemicals into breeding sites.

Subunit B

Unit FL-1, Subunit B encompasses 162 ac (66 ha) in Santa Rosa County, Florida. Within this unit, 133 ac (54 ha) are on the Yellow River Marsh State Buffer Preserve (managed in part by the State of Florida/Department of Environmental Protection) and 29 ac (12 ha) are on private land. This currently occupied unit is also on Garcon Point, northeast of Subunit A. This area is bisected by Hwy. 191 which crosses an extensive wet prairie. Areas of this unit owned by the State of Florida are likely protected from direct agricultural and urban development; however, threats remain to the flatwoods salamander and its habitat that may require special management of the PCEs. They include the potential for fire suppression and potential hydrologic changes resulting from highways or other actions that could alter the ecology of the breeding pond and surrounding terrestrial habitat.

Unit FL-2

Unit FL-2 is comprised of two subunits encompassing 325 acres (132 ha) in Santa Rosa County, Florida. Within FL-2, there are 32 ac (13 ha) on State land managed by NWFLWMD and 293 acres (119 ha) are in private ownership.

Subunit A

Unit FL-2, Subunit A encompasses 162 acres (66 ha) on private land in Santa Rosa County, Florida. This currently occupied unit is located northeast of Milton, Florida. Threats to the flatwoods salamander and its habitat that may require special management of the PCEs include potential detrimental alterations in forestry practices that could destroy the below-ground soils structure, potential hydrological alterations to the habitat, and the potential for fire suppression.

Subunit B

Unit FL-2, Subunit B encompasses 163 ac (66 ha) in Santa Rosa County, Florida. Within this unit, there are 32 ac (13 ha) on State land managed by NWFLWMD and 131 acres (53 ha) on private land. This currently occupied unit is located south of Interstate 10 and near the Santa Rosa/Okaloosa County border. A small county road bisects the unit and a powerline crosses the eastern edge of the breeding pond. Threats to the flatwoods salamander and its habitat that may require special management of the PCEs include the potential for fire suppression, potential detrimental alterations in forestry practices that could destroy the below-ground soil structure, and potential hydrologic changes resulting from the road and powerline that could alter the ecology of the breeding pond and surrounding terrestrial habitat.

Unit FL-3

Unit FL-3 is comprised of three subunits encompassing 394 acres (178 ha) in Santa Rosa County, Florida. Within FL-3, 355 ac (144 ha) are on private land, 26 ac (11 ha) are on property owned by the Santa Rosa County School Board, and 13 ac (5 ha) are owned by Santa Rosa County.

Subunit A

Unit FL-3, Subunit A encompasses 148 acres (60 ha) on private land in Santa Rosa County, Florida. This currently occupied unit is located near a rapidly developing section of Hwy. 98 between Navarre and Gulf Breeze, Florida. Threats to the flatwoods salamander and its habitat that may require special management of the PCEs include the potential for fire suppression, potential detrimental alterations in forestry practices that could destroy the below-ground soils structure, potential hydrologic changes resulting from the highway that could alter the ecology of the breeding pond and surrounding terrestrial habitat, and potential habitat destruction due to urban and commercial development nearby.

Subunit B

Unit FL-3, Subunit B encompasses 68 ac (28 ha) in Santa Rosa County, Florida. Within this unit, 42 ac (17 ha) are on private land and 26 ac (11 ha) are on property owned by the Santa Rosa County School Board. This currently occupied unit is located near a rapidly developing section of Hwy. 98 between Navarre and Gulf Breeze, Florida. Threats to the flatwoods salamander and its habitat that may require special management of the PCEs include the potential for fire suppression, potential detrimental alterations in forestry practices that could destroy the below-ground soils structure, potential hydrologic changes resulting from adjacent roads that could alter the ecology of the breeding pond and surrounding terrestrial habitat, and future habitat destruction due to urban and commercial development.

Subunit C

Unit FL-3, Subunit C encompasses 178 ac (72 ha) in Santa Rosa County, Florida. Within this unit, 165 ac (67 ha) are on private land and 13 ac (5 ha) are owned by Santa Rosa County. This currently occupied unit is located near a rapidly developing section of Hwy. 98 east of Navarre, Florida. Threats to the flatwoods salamander and its habitat that may require special management of the PCEs include the potential for fire suppression, potential detrimental alterations in forestry practices that could destroy the below-ground soils structure, potential hydrologic changes resulting from adjacent roads that could alter the ecology of the breeding pond and surrounding terrestrial habitat, and future habitat destruction due to urban and commercial development.

Unit FL-4

Unit FL-4 encompasses 162 ac (66 ha) on the Point Washington State Forest (managed by the State of Florida/Division of Forestry), Walton County, Florida. Since the lands located in this unit are owned by the State of Florida, they are likely protected from direct agricultural and urban development; however, threats remain to the flatwoods salamander and its habitat that may require special management of the PCEs. They include the potential for fire suppression and potential detrimental alterations in forestry practices that could destroy the below-ground soil structure.

Unit FL-5

Unit FL-5 is comprised of two subunits encompassing 375 ac (152 ha) in Walton and Washington Counties, Florida. Within FL-5, 213 ac (86 ha) on private land in Walton County, Florida, and 162 ac (66 ha) are located on Pine Log State Forest (managed by the state of Florida/Division of Forestry) in Washington County, Florida.

Subunit A

Unit FL-5, Subunit A encompasses 213 ac (86 ha) on private land in Walton County, Florida. This currently occupied unit is bisected by Hwy. 81 near Bruce, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Subunit B

Unit FL-5, Subunit B encompasses 162 ac (66 ha) on Pine Log State Forest (managed by the State of Florida/Division of Forestry) in Washington County, Florida. Since the lands located in this unit are owned by the State of Florida, they are likely protected from direct agricultural and urban development; however, threats remain to the flatwoods salamander and its habitat that may require special management of the PCEs. They include the potential for fire suppression and potential detrimental alterations in forestry practices that could destroy the below-ground soil structure.

Unit FL-6

Unit FL-6 is comprised of three subunits encompassing 489 ac (199 ha) on private land in Holmes and Washington Counties, Florida.

Subunit A

Unit FL-6, Subunit A encompasses 162 ac (66 ha) on private land in Holmes County, Florida. This currently occupied unit is located just west of Hwy. 173 and approximately 5.5 mi (8.8 km) north of Bonifay, Florida. Threats to the flatwoods salamander and its habitat that may require special management of the PCEs include the potential for fire suppression, potential expansion of agriculture into the unit, potential detrimental alterations in forestry practices that could destroy the below-ground soil structure, and potential hydrologic changes resulting from adjacent roads that could alter the ecology of the breeding pond and surrounding terrestrial habitat.

Subunit B

Unit FL-6, Subunit B encompasses 162 ac (66 ha) in Washington County, Florida. Within this unit, 14 ac (6 ha) occur on the Pine Log State Forest (managed by the State of Florida/Division of Forestry) and 148 ac (60 ha) on private land. This currently occupied unit is located just south of Hwy. 170 and approximately 3.5 mi (5.6 km) west of Vernon, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Subunit C

Unit FL-6, Subunit C encompasses 165 ac (67 ha) on private land in Washington County, Florida. This currently occupied unit is located just south of Hwy. 278 and approximately 4 mi (6.4 km) west of Vernon, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Unit FL-7

Unit FL-7 is comprised of three subunits encompassing 759 ac (308 ha) on private land in Jackson County, Florida.

Subunit A

Unit FL-7, Subunit A encompasses 157 ac (64 ha) on private land in western Jackson County, Florida near the Jackson/Washington County line. This currently occupied unit is located just south of Hwy. 90 and east of Hwy. 195 approximately 10 mi (16 km) west of Mariana, Florida. Threats to the flatwoods salamander and its habitat that may require special management of the PCEs include the potential for fire suppression, potential expansion of agriculture and residential development into the unit, potential detrimental alterations in forestry practices that could destroy the below-ground soil structure, and potential hydrologic changes resulting from adjacent roads that could alter the ecology of the breeding pond and surrounding terrestrial habitat.

Subunit B

Unit FL-7, Subunit B encompasses 358 ac (145 ha) on private land in Jackson County, Florida. This currently occupied unit is located just east of Hwy. 71 and south of Hwy. 90, between Old Spanish Trail and the CSX railroad. This locality is approximately 4 mi (6.4 km) southeast of Marianna, Florida. Threats to the flatwoods salamander and its habitat that may require special management of the PCEs include the potential for fire suppression, potential expansion of agriculture and residential development into the unit, potential detrimental alterations in forestry practices that could destroy the below-ground soil structure, and potential hydrologic changes resulting from adjacent roads that could alter the ecology of the breeding pond and surrounding terrestrial habitat.

Subunit C

Unit FL-7, Subunit C encompasses 244 acres (99 ha) on private land in Jackson County, Florida. This currently occupied unit is bisected by Hwy. 275, south of Interstate 10 near Wolf Slough. Threats to the flatwoods salamander and its habitat that may require special management of the PCEs include the potential for fire suppression, potential expansion of agriculture and residential development into the unit, potential detrimental alterations in forestry practices that could destroy the below-ground soil structure, and potential hydrologic changes resulting from adjacent roads that could alter the ecology of the breeding pond and surrounding terrestrial habitat.

Unit FL-8

Unit FL-8 is comprised of three subunits encompassing 486 acres (198 ha) on private land in Calhoun County, Florida.

Subunit A

Unit FL-8, Subunit A encompasses 162 acres (66 ha) on private land in Calhoun County, Florida. This currently occupied unit is bisected by a county road in the vicinity of Broad Branch and is on the south side of Hwy. 392 (Youngstown Scotts Ferry Road) approximately 4 mi (6.4 km) west of Kinard, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Subunit B

Unit FL-8, Subunit B encompasses 162 acres (66 ha) on private land in Calhoun County, Florida. This currently occupied unit is bisected by a county road and is approximately 5 mi (8 km) south of Hwy. 71 at Scotts Ferry, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Subunit C

Unit FL-8, Subunit C encompasses 162 acres (66 ha) on private land in Calhoun County, Florida. This currently occupied unit is bisected by a county road and is approximately 3 mi (4.8 km) south of Hwy. 71 at Scotts Ferry, Florida. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Unit FL-9

Unit FL-9 is comprised of 11 subunits encompassing 23,073 ac (9,338 ha) in Liberty and Franklin Counties, Florida. Most of the subunits are comprised primarily of U. S. Forest Service land lying within the Apalachicola National Forest.

Subunit A

Unit FL-9, Subunit A encompasses 162 acres (66 ha) on private land in Liberty County, Florida. This currently occupied unit is east of Hwy. 12 near Estiffanulga, Florida. Threats to the flatwoods salamander and its habitat that may require special management of the PCEs include the potential for fire suppression, potential urban and agricultural development, potential detrimental alterations in forestry practices that could destroy the below-ground soil structure, and potential hydrologic changes resulting from adjacent roads that could alter the ecology of the breeding pond and surrounding terrestrial habitat.

Subunits B Through K

Subunits B through K are comprised primarily of U. S. Forest Service land lying within the Apalachicola National Forest in Liberty and Franklin counties, Florida. The combined acreage of these currently occupied units is 22,911 ac (9,272 ha). Within the units, 21,728 ac (8,793 ha) are in the Apalachicola National Forest, 46 ac (19 ha) are under State management, and 1,137 ac (460 ha) are in private ownership. Lands within these units owned by the U.S. Forest Service are likely protected from direct agricultural and urban development; however, threats remain to the flatwoods salamander and its habitat that may require special management of the PCEs. These subunits require special management to address threats including the potential for fire suppression, potential detrimental alterations in forestry practices that could destroy the below-ground soil structure, and potential hydrologic changes resulting from adjacent highways and roads that could alter the ecology of the breeding pond and surrounding terrestrial habitat.

Subunit B

Unit FL-9, Subunit B encompasses 3,357 ac (1, 359 ha). Within this unit, 2,846 ac (1,152 ha) are in the Apalachicola National Forest and 511 ac (207 ha) are in private ownership.

Subunit C

Unit FL-9, Subunit C encompasses 1,116 ac (452 ha). Within this unit, 1,084 ac (439 ha) are in the Apalachicola National Forest and 32 ac (13 ha) are in private ownership.

Subunit D

Unit FL-9, Subunit D encompasses 333 ac (135 ha). All of this unit is within the Apalachicola National Forest.

Subunit E

Unit FL-9, Subunit E encompasses 1,790 ac (725 ha). Within this unit, 1,739 ac (704 ha) are in the Apalachicola National Forest and 51 ac (21 ha) are in private ownership.

Subunit F

Unit FL-9, Subunit F encompasses 5,200 ac (2,105 ha). Within this unit, 4,969 ac (2,011 ha) are in the Apalachicola National Forest and 231 ac (94 ha) are in private ownership.

Subunit G

Unit FL-9, Subunit G encompasses 258 ac (104 ha). All of this unit is within the Apalachicola National Forest.

Subunit H

Unit FL-9, Subunit H encompasses 8,481 ac (3,432 ha). Within this unit, 8,176 ac (3,309 ha) are in the Apalachicola National Forest and 305 ac (123 ha) are in private ownership.

Subunit I

Unit FL-9, Subunit I encompasses 1,255 ac (508 ha). Within this unit, 1,209 ac (489 ha) are in the Apalachicola National Forest and 46 ac (19 ha) are under State management. This unit was not known to be occupied at the time of listing, but is currently occupied. It is considered essential habitat for the flatwoods salamander. The currently occupied habitat of the flatwoods salamander is highly localized and fragmented. Flatwoods salamanders are particularly susceptible to drought, as breeding cannot occur if breeding ponds do not receive adequate rainfall. These small populations are at a high risk of extinction due to stochastic events such as drought, and human-induced threats such as urban/agricultural development and habitat degradation due to fire suppression and hydrological alterations. Thus, to ensure the persistence and conservation of this species throughout its current geographic and ecological distribution despite fluctuations in the status of subpopulations, we have determined that the two units known to be occupied since the time of listing are essential to the conservation of the species.

Subunit J

Unit FL-9, Subunit J encompasses 312 ac (126 ha). All of this unit is within the Apalachicola National Forest. This unit was not known to be occupied at the time of listing, but is currently occupied. It is considered essential habitat for the flatwoods salamander. The currently occupied habitat of the flatwoods salamander is highly localized and fragmented. Flatwoods salamanders are particularly susceptible to drought, as breeding cannot occur if breeding ponds do not receive adequate rainfall. These small populations are at a high risk of extinction due to stochastic events such as drought, and human-induced threats such as urban/agricultural development and habitat degradation due to fire suppression and hydrological alterations. Thus, to ensure the persistence and conservation of this species throughout its current geographic and ecological distribution despite fluctuations in the status of subpopulations, we have determined that the two units known to be occupied since the time of listing are essential to the conservation of the species.

Subunit K

Unit FL-9, Subunit K encompasses 809 ac (328 ha). Within this unit, 802 ac (325 ha) are in the Apalachicola National Forest and 7 ac (3 ha) are in private ownership.

Unit FL-10

Unit FL-10 encompasses 162 ac (66 ha) on Tate's Hell State Forest (managed by the State of Florida's Division of Forestry) in Franklin County, Florida. Since this unit is owned by the State of Florida, it is likely protected from direct agricultural and urban development; however, threats remain to the flatwoods salamander and its habitat that may require special management of the PCEs. They include the potential for fire suppression, potential detrimental alterations in forestry practices that could destroy the below-ground soil structure, and potential hydrologic changes resulting from adjacent highways and roads that could alter the ecology of the breeding pond and surrounding terrestrial habitat.

Unit FL-11

Unit FL-11 is comprised of five subunits encompassing 1,841 ac (746 ha) in Wakulla and Jefferson Counties, Florida.

Subunit A

Unit FL-11, Subunit A encompasses 919 ac (372 ha) on private land/Flint Rock Wildlife Management Area (managed by private entity at this time) in Wakulla County, Florida. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Subunit B

Unit FL-11, Subunit B encompasses 162 ac (66 ha) on private land/Flint Rock Wildlife Management Area (managed by private entity at this time) in Wakulla County, Florida. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Subunit C

Unit FL-11, Subunit C encompasses 435 ac (176 ha) on private land/Flint Rock Wildlife Management Area (managed by private entity at this time) in Wakulla and Jefferson counties, Florida. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Subunit D

Unit FL-11, Subunit D encompasses 162 ac (66 ha) on private land in Jefferson County, Florida. This currently occupied unit is approximately 1.7 mi (2.7 km) south of U.S. Hwy. 98 and approximately 1.3 mi (2.1 km) east of the Jefferson/Wakulla County line. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Subunit E

Unit FL-11, Subunit E encompasses 163 ac (66 ha) in Jefferson County, Florida. Within this unit, 85 ac (34 ha) are in the Aucilla Wildlife Management Area managed by the State of Florida and 78 ac (32 ha) are in private ownership. This currently occupied unit is bisected by State Hwy. 59, 5.3 mi (8.4 km) north of U.S. Hwy. 98 approximately 2 mi (3.2 km) east of the Jefferson/Wakulla County line. Threats to the flatwoods salamander and its habitat that may require special management of the PCEs include the potential for fire suppression, potential detrimental alterations in forestry practices that could destroy the below-ground soil structure, and potential hydrologic changes resulting from adjacent roads that could alter the ecology of the breeding pond and surrounding terrestrial habitat.

Unit FL-12

Unit FL-12 is comprised of two subunits encompassing 1,109 ac (449 ha) on Osceola NF and 162 ac (66 ha) in private ownership both in Baker County, Florida.

Subunit A

Unit FL-12, Subunit A encompasses 1,109 ac (449 ha) on Osceola National Forest in Baker County, Florida. This currently occupied unit is located adjacent and south of Interstate 10 in the southwestern corner of Baker County between state highway 250 and 229. Since it is owned by the U.S. Forest Service, it is likely protected from direct agricultural and urban development; however, threats remain to the flatwoods salamander and its habitat that may require special management of the PCEs. They include the potential for fire suppression, potential detrimental alterations in forestry practices that could destroy the below-ground soil structure, and potential hydrologic changes resulting from adjacent highways and roads that could alter the ecology of the breeding pond and surrounding terrestrial habitat.

Subunit B

Unit FL-12, Subunit B encompasses 162 ac (66 ha) on private land in Baker County, Florida. This currently occupied unit occurs approximately 2 mi (3.2 km) south of Hwy. 229 and 3.5 mi (5.6 km) north of Interstate 10. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Georgia Critical Habitat Units (GA)

There is one Georgia unit, divided into three subunits encompassing 609 ac (247 ha) across two counties of Georgia. All subunits meet the definition of critical habitat based on the discussion above and all units contain all PCEs. All subunits were known to be occupied at the time of listing and are currently occupied.

Unit GA-1

Unit GA-1 encompasses 609 ac (247 ha) in Miller and Baker Counties, Georgia. Within this unit 163 ac (66 ha) are located on Mayhaw Wildlife Management Area (managed by the State of Georgia) in Miller County, Georgia, 269 ac (109 ha) are located on private land adjacent to State Highway 200 in southwestern Baker County, Georgia, and 177 ac (72 ha) are located on private land south of State Highway 200 in southwestern Baker County, Georgia.

Subunit A

Unit GA-1, Subunit A encompasses 163 ac (66 ha) on Mayhaw Wildlife Management Area (managed by the State of Georgia) in Miller County, Georgia. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Subunit B

Unit GA-1, Subunit B encompasses 269 ac (109 ha) on private land adjacent to State Highway 200 in southwestern Baker County, Georgia. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

Subunit C

Unit GA-1, Subunit C encompasses 177 ac (72 ha) on private land south of State Highway 200 in southwestern Baker County, Georgia. Threats to the flatwoods salamander and its habitat that may require special management of the PCEs include the potential for fire suppression, potential detrimental alterations in forestry practices that could destroy the below-ground soil structure, and potential hydrologic changes resulting from adjacent highways and roads that could alter the ecology of the breeding pond and surrounding terrestrial habitat.

South Carolina Critical Habitat Units (SC)

There are four South Carolina units encompassing 1,130 ac (457 ha) across three counties of South Carolina. All units meet the definition of critical habitat based on the discussion above and all units contain all PCEs. All units were known to be occupied at the time of listing and are currently occupied. The northern-most known occurrences of the flatwoods salamander are represented by populations in South Carolina.

Unit SC-1

Unit SC-1 encompasses 163 ac (66 ha) on private land in Jasper County, South Carolina. This currently occupied unit is bisected by Hwy. 46 and occurs near a rapidly developing area of Jasper County. Threats to the flatwoods salamander and its habitat that may require special management of the PCEs include the potential for fire suppression, potential detrimental alterations in forestry practices that could destroy the below-ground soils structure, potential hydrologic changes resulting from adjacent roads that could alter the ecology of the breeding pond and surrounding terrestrial habitat, and future habitat destruction due to urban and commercial development.

Unit SC-2

Unit SC-2 encompasses 183 acres (74 ha) on private land in Jasper County, South Carolina. This currently occupied unit is bisected by County Road 31, approximately 1 mi (1.6 km) from U.S. Hwy. 321 at Hardeeville, South Carolina. Threats to the flatwoods salamander and its habitat that may require special management of the PCEs include the potential for fire suppression, potential detrimental alterations in forestry practices that could destroy the below-ground soils structure, potential hydrologic changes resulting from adjacent roads that could alter the ecology of the breeding pond and surrounding terrestrial habitat, and future habitat destruction due to urban and commercial development.

Unit SC-3

Unit SC-3 encompasses 622 ac (252 ha) on Francis Marion National Forest in Berkeley County, South Carolina. Land within this unit is owned by the U.S. Forest Service and is likely protected from direct agricultural and urban development; however, threats remain to the flatwoods salamander and its habitat that may require special management of the PCEs. They include the potential for fire suppression, potential detrimental alterations in forestry practices that could destroy the below-ground soil structure, and potential hydrologic changes resulting from adjacent highways and roads that could alter the ecology of the breeding pond and surrounding terrestrial habitat.

Unit SC-4

Unit SC-4 encompasses 162 ac (66 ha) on the Santee Coastal Reserve (managed by the state of South Carolina) in Charleston County, South Carolina. Since this currently occupied unit is owned by the State of South Carolina, it is likely protected from direct agricultural and urban development; however, threats remain to the flatwoods salamander and its habitat that may require special management of the PCEs. They include the potential for fire suppression, potential detrimental alterations in forestry practices that could destroy the below-ground soil structure, and potential hydrologic changes resulting from adjacent highways and roads that could alter the ecology of the breeding pond and surrounding terrestrial habitat.

Effects of Critical Habitat Designation

Section 7 Consultation

Section 7 of the Act requires Federal agencies, including the Service, to ensure that actions they fund, authorize, or carry out are not likely to destroy or adversely modify critical habitat. In our regulations at 50 CFR 402.02, we define destruction or adverse modification as “a direct or indirect alteration that appreciably diminishes the value of critical habitat for both the survival and recovery of a listed species. Such alterations include, but are not limited to, alterations adversely modifying any of those physical or biological features that were the basis for determining the habitat to be critical.” However, recent decisions by the 5th and 9th Circuit Courts of Appeals have invalidated this definition (see Gifford Pinchot Task Force v. U.S. Fish and Wildlife Service, 378 F.3d 1059 (9th Cir 2004) and Sierra Club v. U.S. Fish and Wildlife Service et al., 245 F.3d 434, 442F (5th Cir 2001)). Pursuant to current national policy and the statutory provisions of the Act, destruction or adverse modification is determined on the basis of whether, with implementation of the proposed Federal action, the affected critical habitat would remain functional (or retain the current ability for the primary constituent elements to be functionally established) to serve the intended conservation role for the species.

Section 7(a) of the Act requires Federal agencies, including the Service, to evaluate their actions with respect to any species that is proposed or listed as endangered or threatened and with respect to its critical habitat, if any is proposed or designated. Regulations implementing this interagency cooperation provision of the Act are codified at 50 CFR part 402.

Section 7(a)(4) of the Act requires Federal agencies to confer with us on any action that is likely to jeopardize the continued existence of a proposed species or result in destruction or adverse modification of proposed critical habitat. This is a procedural requirement only. However, once a proposed species becomes listed, or proposed critical habitat is designated as final, the full prohibitions of section 7(a)(2) apply to any Federal action. The primary utility of the conference procedures is to maximize the opportunity for a Federal agency to adequately consider proposed species and critical habitat and avoid potential delays in implementing its proposed action as a result of the section 7(a)(2) compliance process, should those species be listed or the critical habitat designated.

Under conference procedures, the Service may provide advisory conservation recommendations to assist the agency in eliminating conflicts that may be caused by the proposed action. The Service may conduct either informal or formal conferences. Informal conferences are typically used if the proposed action is not likely to have any adverse effects to the proposed species or proposed critical habitat. Formal conferences are typically used when the Federal agency or the Service believes the proposed action is likely to cause adverse effects to proposed species or critical habitat, inclusive of those that may cause jeopardy or adverse modification.

The results of an informal conference are typically transmitted in a conference report while the results of a formal conference are typically transmitted in a conference opinion. Conference opinions on proposed critical habitat are typically prepared according to 50 CFR 402.14, as if the proposed critical habitat were already designated. We may adopt the conference opinion as the biological opinion when the critical habitat is designated, if no substantial new information or changes in the action alter the content of the opinion (see 50 CFR 402.10(d)). As noted above, any conservation recommendations in a conference report or opinion are strictly advisory.

If a species is listed or critical habitat is designated, section 7(a)(2) of the Act requires Federal agencies to ensure that activities they authorize, fund, or carry out are not likely to jeopardize the continued existence of such a species or to destroy or adversely modify its critical habitat. If a Federal action may affect a listed species or its critical habitat, the responsible Federal agency (action agency) must enter into consultation with us. As a result of this consultation, compliance with the requirements of section 7(a)(2) will be documented through the Service's issuance of: (1) A concurrence letter for Federal actions that may affect, but are not likely to adversely affect, listed species or critical habitat; or (2) a biological opinion for Federal actions that may affect, and are likely to adversely affect, listed species or critical habitat.

When we issue a biological opinion concluding that a project is likely to result in jeopardy to a listed species or the destruction or adverse modification of critical habitat, we also provide reasonable and prudent alternatives to the project, if any are identifiable. “Reasonable and prudent alternatives” are defined at 50 CFR 402.02 as alternative actions identified during consultation that can be implemented in a manner consistent with the intended purpose of the action, that are consistent with the scope of the Federal agency's legal authority and jurisdiction, that are economically and technologically feasible, and that the Director believes would avoid jeopardy to the listed species or destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where a new species is listed or critical habitat is subsequently designated that may be affected and the Federal agency has retained discretionary involvement or control over the action or such discretionary involvement or control is authorized by law. Consequently, some Federal agencies may request reinitiation of consultation with us on actions for which formal consultation has been completed, if those actions may affect subsequently listed species or designated critical habitat or adversely modify or destroy proposed critical habitat.

Federal activities that may affect the flatwoods salamander or its designated critical habitat will require section 7 consultation under the Act. Activities on State, Tribal, local or private lands requiring a Federal permit (such as a permit from the Corps under section 404 of the Clean Water Act or a permit under section 10(a)(1)(B) of the Act from the Service) or involving some other Federal action (such as funding from the Federal Highway Administration, Federal Aviation Administration, or the Federal Emergency Management Agency) will also be subject to the section 7 consultation process. Federal actions not affecting listed species or critical habitat, and actions on State, Tribal, local or private lands that are not federally funded, authorized, or permitted, do not require section 7 consultations.

Application of the Jeopardy and Adverse Modification Standards for Actions Involving Effects to the Flatwoods Salamander and Its Critical Habitat

Jeopardy Standard

Prior to the proposed designation of critical habitat, the Service has applied an analytical framework for flatwoods salamander jeopardy analyses that relies heavily on the importance of populations to the survival and recovery of the flatwoods salamander. The section 7(a)(2) analysis is focused not only on these populations but also on the habitat conditions necessary to support them.

The jeopardy analysis usually expresses the survival and recovery needs of the flatwoods salamander in a qualitative fashion without making distinctions between what is necessary for survival and what is necessary for recovery. Generally, if a proposed Federal action is incompatible with the viability of the affected core area population(s), inclusive of associated habitat conditions, a jeopardy finding is warranted because of the relationship of each core area population to the survival and recovery of the species as a whole.

Adverse Modification Standard

For the reasons described in the Director's December 9, 2004, memorandum, the key factor related to the adverse modification determination is whether, with implementation of the proposed Federal action, the affected critical habitat would remain functional (or retain the current ability for the primary constituent elements to be functionally established) to serve the intended conservation role for the species. Generally, the conservation role of flatwoods salamander critical habitat units is to support viable core area populations.

Section 4(b)(8) of the Act requires us to briefly evaluate and describe in any proposed or final regulation that designates critical habitat those activities involving a Federal action that may destroy or adversely modify such habitat, or that may be affected by such designation. Activities that may destroy or adversely modify critical habitat may also jeopardize the continued existence of the species.

Activities that may destroy or adversely modify critical habitat are those that alter the PCEs to an extent that the conservation value of critical habitat for the flatwoods salamander is appreciably reduced. Activities that, when carried out, funded, or authorized by a Federal agency, may affect critical habitat and therefore result in consultation for the flatwoods salamander include, but are not limited to:

(1) Actions that would significantly alter water chemistry in flatwoods salamander breeding ponds. Such activities could include, but are not limited to, the release of chemicals, biological pollutants, or sedimentation into the surface water or connected groundwater at a point source or by dispersed release (non-point source) via road construction, urban and agricultural development, ditching, timber harvest, off-road vehicle use, and other watershed disturbances. These activities could alter the condition of the water beyond the tolerances of the flatwoods salamander and its food base, resulting in direct or cumulative adverse affects to individuals and their life cycles.

(2) Actions that would significantly alter the hydroperiod and vegetation of a flatwoods salamander breeding pond. Such activities could include, but are not limited to, road construction, urban and agricultural development, dredging, ditching, or filling ponds, fire suppression, and timber harvest/replanting. These activities could alter the hydrologic timing, duration, or water flows of a pond basin, as well as alter the constituent vegetation. They could also increase the connectivity of breeding ponds to more permanent waters, which would allow the invasion of predatory fish. As a result, the habitat necessary for flatwoods salamander reproduction and the growth and development of eggs and juvenile salamanders would be reduced or eliminated.

(3) Actions that would significantly alter the terrestrial forested habitat of the flatwoods salamander. Such activities could include, but are not limited to, road construction, urban and agricultural development, dredging, ditching, fire suppression, and timber harvest/re-planting. These activities may lead to changes in soil moisture, soil below-ground structure, soil temperatures, and vegetation that would degrade or eliminate the terrestrial habitat of the flatwoods salamander.

We consider all of the units proposed as critical habitat, as well as those that have been proposed for exclusion or not included, to contain features essential to the conservation of the flatwoods salamander. All units are within the geographic range of the species, all were occupied by the species at the time of or since listing (based on observations made within the last 9 years), and are likely to be used by the flatwoods salamander. Federal agencies already consult with us on activities in areas currently occupied by the flatwoods salamander, or if the species may be affected by the action, to ensure that their actions do not jeopardize the continued existence of the flatwoods salamander.

Application of Section 3(5)(A) and 4(a)(3) and Exclusions Under Section 4(b)(2) of the Act

Application of Section 3(5)(A)

Section 3(5)(A) of the Act defines critical habitat as the specific areas within the geographic area occupied by the species on which are found those physical and biological features (i) essential to the conservation of the species, and (ii) which may require special management considerations or protection. Therefore, areas within the geographic area occupied by the species that do not contain the features essential to the conservation of the species are not, by definition, critical habitat. Similarly, areas within the geographic area occupied by the species that require no special management or protection also are not, by definition, critical habitat.

There are multiple ways to provide management for species habitat. Statutory and regulatory frameworks that exist at a local level can provide such protection and management, as can lack of pressure for change, such as areas too remote for anthropogenic disturbance. Finally, State, local, or private management plans, as well as management under Federal agencies jurisdictions, can provide protection and management to avoid the need for designation of critical habitat. When we consider a plan to determine its adequacy in protecting habitat, we consider whether the plan as a whole will provide the same level of protection that designation of critical habitat would provide. The plan need not lead to exactly the same result as a designation in every individual application, as long as the protection it provides is equivalent overall. In making this determination, we examine whether the plan provides management, protection, or enhancement of the PCEs that is at least equivalent to that provided by a critical habitat designation, and whether there is a reasonable expectation that the management, protection, or enhancement actions will continue into the foreseeable future. Each review is particular to the species and the plan, and some plans may be adequate for some species and inadequate for others.

Application of Section 3(5)(A)—St. Marks National Wildlife Refuge

Approximately 1,907 ac (778 ha) on St. Marks National Wildlife Refuge (Refuge) in Florida have features essential to the conservation of the flatwoods salamander.

The Refuge finalized its Comprehensive Conservation Plan (CCP) in August 2006. This document details proposed conservation actions for the Refuge over a 15-year period and outlines an objective specifically addressing the species (U.S. Fish and Wildlife Service 2006, p. 50, 56, 79, 81, 91). This objective consists of strategies to identify flatwoods salamander distribution and habitat on the refuge and implement appropriate habitat management. Many other objectives (e.g., eradication or control of terrestrial exotic and invasive animals) will also benefit the flatwoods salamander. The Service has a statutory mandate to manage the Refuge for the conservation of listed species, and the CCP provides a detailed implementation plan. We believe that the CCP provides a substantial conservation benefit to the species, and there are assurances that it will be implemented properly and in an effective fashion within portions of the Refuge with habitat that contains the features essential to the conservation of the flatwoods salamander. Accordingly, we believe that these portions of the Refuge do not meet the definition of critical habitat under section 3(5)(A) of the Act because a secure management plan is already in place to provide for the conservation of the flatwoods salamander, and no special management or protection will be required.

Application of Section 4(a)(3)

The Sikes Act Improvement Act of 1997 (Sikes Act) (16 U.S.C. 670a) required each military installation that includes land and water suitable for the conservation and management of natural resources to complete, by November 17, 2001, an Integrated Natural Resource Management Plan (INRMP). An INRMP integrates implementation of the military mission of the installation with stewardship of the natural resources found on the base. Each INRMP includes an assessment of the ecological needs on the installation, including the need to provide for the conservation of listed species; a statement of goals and priorities; a detailed description of management actions to be implemented to provide for these ecological needs; and a monitoring and adaptive management plan. Among other things, each INRMP must, to the extent appropriate and applicable, provide for fish and wildlife management, fish and wildlife habitat enhancement or modification, wetland protection, enhancement, and restoration where necessary to support fish and wildlife and enforcement of applicable natural resource laws.

The National Defense Authorization Act for Fiscal Year 2004 (Public Law No. 108-136) amended the Act to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 101 of the Sikes Act (16 U.S.C. 670a), if the Secretary determines in writing that such plan provides a benefit to the species for which critical habitat is proposed for designation.”

We consult with the military on the development and implementation of INRMPs for installations with listed species. The Service reviewed each of the INRMPs described below prior to their finalization and has provided input into strategies for monitoring and management of endangered species including the flatwoods salamander. Each military facility has been conducting surveys and habitat management to benefit the flatwoods salamander and reporting the results of their efforts to the Service. Cooperation between the military facilities and the Service continues and the goal of our efforts is to implement an annual review cycle for all INRMPs. INRMPs developed by military installations located within the range of the proposed critical habitat designation for the flatwoods salamander were analyzed for exemption under the authority of 4(a)(3) of the Act.

Based on the above considerations, and in accordance with section 4(a)(3)(B)(i) of the Act, we have determined that conservation efforts identified in the INRMPs will provide benefits to the flatwoods salamander occurring in habitats within or adjacent to Whiting Field's Out-Lying Landing Field Holley (290 ac (117 ha)), Eglin Air Force Base (3,191 ac (1,291 ha)), and Hurlburt Field in Florida (1,103 ac (446 ha)); and Townsend Bombing Range (162 ac (66 ha)) and Fort Stewart Military Installation in Georgia (5,121 ac (2,072 ha)). In total, this accounts for approximately 9,867 ac (3,993 ha) of habitat on these installations that is not included in this proposed critical habitat designation under to section 4(a)(3) of the Act. Following is an installation-by-installation discussion of the applicability of section 4(a)(3).

Application of Section 4(a)(3) of the Act—Whiting Field's Out-Lying Landing Field Holley (Holley Field)

Holley Field is located in Santa Rosa County, Florida, and has approximately 290 ac (117 ha) of habitat with features essential to the conservation of the flatwoods salamander. The U.S. Department of the Navy (DoN) drafted a revision of its 2001 INRMP for Naval Air Station Whiting Field Complex, of which Holley Field is a part, in 2006 (DoN 2006, p. 5-68, 5-70, 5-73, 5-76, 5-77, 6-22, 6-23, A-16). The revised INRMP outlines management for the next 10 years (2007-2016). We have examined this document and determined that it does provide conservation measures for the flatwoods salamander, as well as for the management of important wetland and upland habitats at Holley Field. The area of Holley Field where flatwoods salamander habitat is located has been designated as a Protected Area. The INRMP outlines a Special Management Initiative for the flatwoods salamander which includes a prescribed burning program, strategies to identify salamander distribution and habitat, controlling invasive species, enforcing restrictions on off-road vehicle use, and forestry management consistent with recommendations in the final listing rule (64 FR 15691).

Based on the above considerations, and consistent with the direction provided in section 4(a)(3)B)(i) of the Act, we have determined that conservation identified in the INRMP will provide benefits to the flatwoods salamander and the features essential to the species' conservation occurring on Whiting Field's Out-Lying Landing Field Holley. Therefore, approximately 290 ac (117 ha) of habitat with features essential to the conservation of the flatwoods salamander within Whiting Field's Out-Lying Landing Field Holley are exempt from this proposed designation of critical habitat for the flatwoods salamander under section 4(a)(3) of the Act.

Hurlburt Field

Hurlburt Field is located in Okaloosa County, Florida, and has approximately 1,103 ac (446 ha) of habitat with features essential to the conservation of the flatwoods salamander. The U.S. Department of the Defense and Air Force (DoD) completed an INRMP for Hurlburt Field in 2001 (DoD 2001, p. 37, 40, 51). The INRMP covers a period of 10 years. We have examined this document and determined that it does provide conservation measures for the flatwoods salamander, as well as for the management of important wetland and upland habitats at Hurlburt Field. The INRMP outlines goals and objectives for the flatwoods salamander and its habitat which include a prescribed burning program, strategies to identify and monitor salamander distribution and habitat, controlling invasive species, and forestry management consistent with recommendations in the final listing rule (64 FR 15691).

Based on the above considerations, and consistent with the direction provided in section 4(a)(3)B)(i) of the Act, we have determined that conservation identified in the INRMP will provide benefits to the flatwoods salamander and the features essential to the species' conservation occurring on Hurlburt Field. Therefore, approximately 1,103 ac (446 ha) of habitat with features essential to the conservation of the flatwoods salamander within Hurlburt Field is exempt from this proposed designation of critical habitat for the flatwoods salamander under section 4(a)(3) of the Act.

Eglin Air Force Base (Eglin)

Eglin is located in Santa Rosa and Okaloosa Counties, Florida, and has approximately 3,191 ac (1,291 ha) of habitat with features essential to the conservation of the flatwoods salamander. The DoD completed its INRMP for Eglin in 2002 (DoD 2002, p. 45. 65, 176). This INRMP covers a period of 4 years and is under review for renewal for another period of 4 years (2007 through 2011). We have examined this document and determined that it does provide conservation measures for the flatwoods salamander, as well as for the management of important wetland and upland habitats on Eglin. The INRMP outlines a management direction for the flatwoods salamander which includes a prescribed burning program, strategies to identify and monitor salamander distribution and habitat, controlling invasive species, and forestry management consistent with recommendations in the final listing rule (64 FR 15691).

Based on the above considerations, and consistent with the direction provided in section 4(a)(3)B)(i) of the Act, we have determined that conservation identified in the INRMP will provide benefits to the flatwoods salamander and the features essential to the species' conservation occurring on Eglin Air Force Base. Therefore, approximately 3,191 ac (1,291 ha) of habitat with features essential to the conservation of the flatwoods salamander within Eglin Air Force Base is exempt from this proposed designation of critical habitat for the flatwoods salamander under section 4(a)(3) of the Act.

Fort Stewart Military Installation (Fort Stewart)

Fort Stewart, U.S. Army installation, is located Bryan, Evans, Liberty, Long, and Tattnall Counties, Georgia and has approximately 5,121 ac (2,072 ha) of habitat with features essential to the conservation of the flatwoods salamander. The first INRMP (INRMP I) for Fort Stewart was completed in 2001 and updated in 2005 (DoD 2005, pp. 1, 22, 34, 76-77). Each INRMP covers a period of five years with a subsequent review and update every five years. Additionally, an annual review of management implementation is conducted and, if necessary, the INRMP is adapted to address needed improvements. The management direction from INRMP I is being continued in the review. We have examined this document and determined that it does provide conservation measures for the flatwoods salamander, as well as for the management of important wetland and upland habitats at Fort Stewart. The INRMP outlines management activities to be conducted for the flatwoods salamander (DoD 2005, p. 22). These include a prescribed burning program, strategies to identify and monitor flatwoods salamander distribution and habitat, controlling invasive species, and forestry management consistent with recommendations in the final listing rule (64 FR 15691).

Based on the above considerations, and consistent with the direction provided in section 4(a)(3)B)(i) of the Act, we have determined that conservation identified in the INRMP will provide benefits to the flatwoods salamander and the features essential to the species' conservation occurring on Fort Stewart Military Installation. Therefore, approximately 5,121 ac (2,072 ha) of habitat with features essential to the conservation of the flatwoods salamander within Fort Stewart Military Installation is exempt from this proposed designation of critical habitat for the flatwoods salamander under section 4(a)(3) of the Act.

Townsend Bombing Range (Townsend)

Townsend is located in McIntosh County, Georgia, and contains approximately 162 ac (66 ha) of habitat with features essential to the conservation of the flatwoods salamander. The property is owned by the U.S. Department of the Navy and the land is managed by Marine Corps Air Station, Beaufort, South Carolina (MCAS Beaufort). The original INRMP written in 2001 for Townsend has been renewed to cover the period November 2006 through October 2011 (DoD 2006, pp. ES-1, ES-2, 1-3, 1-8, 1-9, 1-10, 3-15, 4-4, 4-8, 4-9, 4-10, 4-11, 4-19, 4-20, 4-22, 4-23, 4-27, 4-28, 4-29). We have examined this document and determined that it does provide conservation measures for the flatwoods salamander, as well as for the management of important wetland and upland habitats at Townsend. The INRMP includes activities to maintain or increase the salamander's population on Townsend through improvement of terrestrial habitat through use of prescribed fire and improvement of water quality and hydrologic regime of the breeding ponds. The INRMP provides biological goals and objectives, measures of success, provisions for annual monitoring and adaptive management, and provisions for reporting. The INRMP outlines projects which would benefit the flatwoods salamander including a prescribed burning program, strategies to identify and monitor salamander distribution and habitat, controlling invasive species, and conducting forestry management consistent with recommendations in the final listing rule (64 FR 15691).

Based on the above considerations, and consistent with the direction provided in section 4(a)(3)B)(i) of the Act, we have determined that conservation identified in the INRMP will provide benefits to the flatwoods salamander and the features essential to the species' conservation occurring on Townsend Bombing Range. Therefore, approximately 162 ac (66 ha) of habitat with features essential to the conservation of the flatwoods salamander within Townsend Bombing Range is exempt from this proposed designation of critical habitat for the flatwoods salamander under section 4(a)(3) of the Act.

Exclusions Under Section 4(b)(2) of the Act

Section 4(b)(2) of the Act states that critical habitat shall be designated, and revised, on the basis of the best available scientific data after taking into consideration the economic impact, national security impact, and any other relevant impact, of specifying any particular area as critical habitat. The Secretary may exclude an area from critical habitat if he determines that the benefits of such exclusion outweigh the benefits of specifying such area as part of the critical habitat, unless he determines, based on the best scientific data available, that the failure to designate such area as critical habitat will result in the extinction of the species. In making that determination, the Congressional record is clear that the Secretary is afforded broad discretion regarding which factor(s) to use and how much weight to give to any factor.

Under section 4(b)(2), in considering whether to exclude a particular area from the designation, we must identify the benefits of including the area in the designation, identify the benefits of excluding the area from the designation, determine whether the benefits of exclusion outweigh the benefits of inclusion. If an exclusion is contemplated, then we must determine whether excluding the area would result in the extinction of the species. In the following sections, we address a number of general issues that are relevant to the exclusions we considered. In addition, the Service is conducting an economic analysis of the impacts of the proposed critical habitat designation and related factors, which will be available for public review and comment. Based on public comment on that document, the proposed designation itself, and the information in the final economic analysis, additional areas beyond those identified in this assessment may be excluded from critical habitat by the Secretary under the provisions of section 4(b)(2) of the Act. This is provided for in the Act and in our implementing regulations at 50 CFR 242.19.

General Principles of Section 7 Consultations Used in the 4(b)(2) Balancing Process

The most direct, and potentially largest, regulatory benefit of critical habitat is that federally authorized, funded, or carried out activities require consultation under section 7 of the Act to ensure that they are not likely to destroy or adversely modify critical habitat. There are two limitations to this regulatory effect. First, it only applies where there is a Federal nexus—if there is no Federal nexus, designation itself does not restrict actions that destroy or adversely modify critical habitat. Second, it only limits destruction or adverse modification. By its nature, the prohibition on adverse modification is designed to ensure those areas that contain the physical and biological features essential to the conservation of the species or unoccupied areas that are essential to the conservation of the species are not eroded. Critical habitat designation alone, however, does not require specific steps toward recovery.

Once consultation under section 7 of the Act is triggered, the process may conclude informally when the Service concurs in writing that the proposed Federal action is not likely to adversely affect the listed species or its critical habitat. However, if the Service determines through informal consultation that adverse impacts are likely to occur, then formal consultation would be initiated. Formal consultation concludes with a biological opinion issued by the Service on whether the proposed Federal action is likely to jeopardize the continued existence of a listed species or result in destruction or adverse modification of critical habitat, with separate analyses being made under both the jeopardy and the adverse modification standards. For critical habitat, a biological opinion that concludes in a determination of no destruction or adverse modification may contain discretionary conservation recommendations to minimize adverse effects to primary constituent elements, but it would not contain any mandatory reasonable and prudent measures or terms and conditions. Mandatory measures and terms and conditions to implement such measures are only specified when the proposed action would result in the incidental take of a listed animal or species. Reasonable and prudent alternatives to the proposed Federal action would only be suggested when the biological opinion results in a jeopardy or adverse modification conclusion.

We also note that for 30 years prior to the Ninth Circuit Court's decision in Gifford Pinchot the Service conflated the jeopardy standard with the standard for destruction or adverse modification of critical habitat when evaluating Federal actions that affect currently occupied critical habitat. The Court ruled that the two standards are distinct and that adverse modification evaluations require consideration of impacts on the recovery of species. Thus, under the Gifford Pinchot decision, critical habitat designations may provide greater benefits to the recovery of a species. However, we believe the conservation achieved through implementing HCPs or other habitat management plans is typically greater than would be achieved through multiple site-by-site, project-by-project, section 7 consultations involving consideration of critical habitat. Management plans commit resources to implement long-term management and protection to particular habitat for at least one and possibly other listed or sensitive species. Section 7 consultations only commit Federal agencies to prevent adverse modification to critical habitat caused by the particular project, and they are not committed to provide conservation or long-term benefits to areas not affected by the proposed project. Thus, any HCP or management plan that considers enhancement or recovery as the management standard will often provide as much or more benefit than a consultation for critical habitat designation conducted under the standards required by the Ninth Circuit in the Gifford Pinchot decision.

Exclusions Under Section 4(b)(2)—National Forests

We have evaluated the Forest Management Plans for Francis Marion, Osceola, and Apalachicola National Forests with respect to providing adequate protection and management for the flatwoods salamander. At this time, none of these Plans provide sufficient protection and management to satisfy the criteria necessary for proposed exclusion from critical habitat (i.e., at this point the benefits of possible exclusion do not outweigh the benefits of inclusion). However, it is possible that improvements in National Forest management, through amendment to forest plans, development of species-specific management prescriptions, or other management approaches, coupled with assurances of implementation, will enable us to exclude one or more of these National Forests from the final designation of critical habitat. Therefore, we are specifically soliciting public comment on the possible exclusion of the units in these National Forests from critical habitat in the final designation.

Economic Analysis

An analysis of the economic impacts of proposing critical habitat for the flatwoods salamander is being prepared. We will announce the availability of the draft economic analysis as soon as it is completed, at which time we will seek public review and comment. At that time, copies of the draft economic analysis will be available for downloading from the Internet at http://www.fws.gov/southeast/hotissues/, or by contacting the Mississippi Fish and Wildlife Office directly (see ADDRESSES section).

Peer Review

In accordance with our joint policy published in the Federal Register on July 1, 1994 (59 FR 34270), we will seek the expert opinions of at least three appropriate and independent specialists regarding this proposed rule. The purpose of such review is to ensure that our critical habitat designation is based on scientifically sound data, assumptions, and analyses. We will send copies of this proposed rule to these peer reviewers immediately following publication in the Federal Register. We will invite these peer reviewers to comment, during the public comment period, on the specific assumptions and conclusions regarding the proposed designation of critical habitat.

We will consider all comments and information received during the comment period on this proposed rule during preparation of a final rulemaking. Accordingly, the final decision may differ from this proposal.

Public Hearings

The Act provides for one or more public hearings on this proposal, if requested. Requests for public hearings must be made in writing at least 15 days prior to the close of the public comment period. We will schedule public hearings on this proposal, if any are requested, and announce the dates, times, and places of those hearings in the Federal Register and local newspapers at least 15 days prior to the first hearing.

Clarity of the Rule

Executive Order 12866 (Regulatory Planning and Review) requires each agency to write regulations and notices that are easy to understand. We invite your comments on how to make this proposed rule easier to understand, including answers to questions such as the following: (1) Are the requirements in the proposed rule clearly stated? (2) Does the proposed rule contain technical jargon that interferes with the clarity? (3) Does the format of the proposed rule (grouping and order of the sections, use of headings, paragraphing, and so forth) aid or reduce its clarity? (4) Is the description of the notice in the SUPPLEMENTARY INFORMATION section of the preamble helpful in understanding the proposed rule? (5) What else could we do to make this proposed rule easier to understand?

Send a copy of any comments on how we could make this proposed rule easier to understand to: Office of Regulatory Affairs, Department of the Interior, Room 7229, 1849 C Street, NW., Washington, DC 20240. You may e-mail your comments to this address: Exsec@ios.doi.gov.

Required Determinations

Regulatory Planning and Review

In accordance with Executive Order 12866, this document is a significant rule in that it may raise novel legal and policy issues, but it is not anticipated to have an annual effect on the economy of $100 million or more or affect the economy in a material way. Due to the tight timeline for publication in the Federal Register, the Office of Management and Budget (OMB) has not formally reviewed this rule. We are preparing a draft economic analysis of this proposed action, which will be available for public comment, to determine the economic consequences of designating the specific area as critical habitat. This economic analysis also will be used to determine compliance with Executive Order 12866, Regulatory Flexibility Act, Small Business Regulatory Enforcement Fairness Act, and Executive Order 12630, Executive 13211, and Executive Order 12875.

Further, Executive Order 12866 directs Federal Agencies promulgating regulations to evaluate regulatory alternatives (Office of Management and Budget, Circular A-4, September 17, 2003). Pursuant to Circular A-4, once it has been determined that the Federal regulatory action is appropriate, then the agency will need to consider alternative regulatory approaches. Since the determination of critical habitat is a statutory requirement pursuant to the Endangered Species Act of 1973, as amended (Act) (16 U.S.C. 1531 et seq.), we must then evaluate alternative regulatory approaches, where feasible, when promulgating a designation of critical habitat.

In developing our designation of critical habitat, we consider economic impacts, impacts to national security, and other relevant impacts pursuant to section 4(b)(2) of the Act. Based on the discretion allowable under this provision, we may exclude any particular area from the designation of critical habitat providing that the benefits of such exclusion outweigh the benefits of specifying the area as critical habitat and that such exclusion would not result in the extension of the subspecies. As such, we believe that the evaluation of the inclusion or exclusion of particular areas, or combination thereof, in a designation constitutes our regulatory alternative analysis.

Within these areas, the types of Federal actions or authorized activities that we have identified as potential concerns are listed above in the section on Section 7 Consultation. The availability of the draft economic analysis will be announced in the Federal Register and in local newspapers so that it is available for public review and comments. The draft economic analysis can be obtained from the internet Web site at http://www.fws.gov/southeast/hotissues/, or by contacting the Mississippi Fish and Wildlife Office directly (see ADDRESSES section).

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the Regulatory Flexibility Act (RFA) to require Federal agencies to provide a statement of the factual basis for certifying that the rule will not have a significant economic impact on a substantial number of small entities.

At this time, the Service lacks the available economic information necessary to provide an adequate factual basis for the required RFA finding. Therefore, the RFA finding is deferred until completion of the draft economic analysis prepared pursuant to section 4(b)(2) of the Act and E.O. 12866. This draft economic analysis will provide the required factual basis for the RFA finding. Upon completion of the draft economic analysis, the Service will publish a notice of availability of the draft economic analysis of the proposed designation and reopen the public comment period for the proposed designation for an additional 60 days. The Service will include with the notice of availability, as appropriate, an initial regulatory flexibility analysis or a certification that the rule will not have a significant economic impact on a substantial number of small entities accompanied by the factual basis for that determination. The Service has concluded that deferring the RFA finding until completion of the draft economic analysis is necessary to meet the purposes and requirements of the RFA. Deferring the RFA finding in this manner will ensure that the Service makes a sufficiently informed determination based on adequate economic information and provides the necessary opportunity for public comment.

Executive Order 13211

On May 18, 2001, the President issued an Executive Order (E.O. 13211; Actions Concerning Regulations that Significantly Affect Energy Supply, Distribution, or Use) on regulations that significantly affect energy supply, distribution, and use. Executive Order 13211 requires agencies to prepare Statements of Energy Effects when undertaking certain actions. While this proposed rule to designate critical habitat for the flatwoods salamander is a significant regulatory action under Executive Order 12866, it is not expected to significantly affect energy supplies, distribution, or use. Therefore, this action is not a significant energy action and no Statement of Energy Effects is required.

Unfunded Mandates Reform Act (2 U.S.C. 1501 et seq.)

In accordance with the Unfunded Mandates Reform Act (2 U.S.C. 1501), the Service makes the following findings:

(a) This rule will not produce a Federal mandate. In general, a Federal mandate is a provision in legislation, statute or regulation that would impose an enforceable duty upon State, local, Tribal governments, or the private sector and includes both “Federal intergovernmental mandates” and “Federal private sector mandates.” These terms are defined in 2 U.S.C. 658(5)-(7). “Federal intergovernmental mandate” includes a regulation that “would impose an enforceable duty upon State, local, or Tribal governments” with two exceptions. It excludes “a condition of Federal assistance.” It also excludes “a duty arising from participation in a voluntary Federal program,” unless the regulation “relates to a then-existing Federal program under which $500,000,000 or more is provided annually to State, local, and Tribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.”

The designation of critical habitat does not impose a legally binding duty on non-Federal government entities or private parties. Under the Act, the only regulatory effect is that Federal agencies must ensure that their actions do not destroy or adversely modify critical habitat under section 7. While non-Federal entities that receive Federal funding, assistance, or permits, or that otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply; nor would critical habitat shift the costs of the large entitlement programs listed above on to State governments.

(b) We do not believe that this rule will significantly or uniquely affect small governments because it is not likely to produce a Federal mandate of $100 million or greater in any year, that is, it is not a “significant regulatory action” under the Unfunded Mandates Reform Act. Most lands being proposed for critical habitat designation owned by a government entity are Federal or State properties. In addition, the designation of critical habitat imposes no obligations on State or local governments. As such, a Small Government Agency Plan is not required. However, as we conduct our economic analysis, we will further evaluate this issue.

Takings

In accordance with Executive Order 12630 (“Government Actions and Interference with Constitutionally Protected Private Property Rights”), we have analyzed the potential takings implications of designating critical habitat for the flatwoods salamander in a takings implications assessment. The takings implications assessment concludes that this designation of critical habitat for the flatwoods salamander does not pose significant takings implications. However, we will further evaluate this issue as we conduct our economic analysis and review and revise this assessment as warranted.

Federalism

In accordance with Executive Order 13132 (Federalism), the rule does not have significant Federalism effects. A Federalism assessment is not required. In keeping with Department of the Interior and Department of Commerce policy, we requested information from, and coordinated development of, this proposed critical habitat designation with appropriate State resource agencies in Florida, Georgia, and South Carolina. The designation of critical habitat in areas currently occupied by the flatwoods salamander imposes no additional restrictions to those currently in place and, therefore, has little incremental impact on State and local governments and their activities. The designation may have some benefit to these governments in that the areas that contain the features essential to the conservation of the species are more clearly defined, and the primary constituent elements of the habitat necessary to the conservation of the species are specifically identified. While making this definition and identification does not alter where and what federally sponsored activities may occur, it may assist these local governments in long-range planning (rather than waiting for case-by-case section 7 consultations to occur).

Civil Justice Reform

In accordance with Executive Order 12988 (Civil Justice Reform), the Office of the Solicitor has determined that the rule does not unduly burden the judicial system and meets the requirements of sections 3(a) and 3(b)(2) of the Order. We have proposed designating critical habitat in accordance with the provisions of the Endangered Species Act. This proposed rule uses standard property descriptions and identifies the primary constituent elements within the designated areas to assist the public in understanding the habitat needs of the flatwoods salamander.

Paperwork Reduction Act of 1995 (44 U.S.C. 3501 et seq.)

This rule does not contain any new collections of information that require approval by OMB under the Paperwork Reduction Act. This rule will not impose recordkeeping or reporting requirements on State or local governments, individuals, businesses, or organizations. An agency may not conduct or sponsor, and a person is not required to respond to, a collection of information unless it displays a currently valid OMB control number.

National Environmental Policy Act

It is our position that, outside the Tenth Circuit, we do not need to prepare environmental analyses as defined by the NEPA in connection with designating critical habitat under the Endangered Species Act of 1973, as amended. We published a notice outlining our reasons for this determination in the Federal Register on October 25, 1983 (48 FR 49244). This assertion was upheld in the courts of the Ninth Circuit (Douglas County v. Babbitt, 48 F.3d 1495 (9th Cir. Ore. 1995), cert. denied 116 S. Ct. 698 (1996).

Government-to-Government Relationship With Tribes

In accordance with the President's memorandum of April 29, 1994, “Government-to-Government Relations with Native American Tribal Governments” (59 FR 22951), Executive Order 13175, and the Department of Interior's manual at 512 DM 2, we readily acknowledge our responsibility to communicate meaningfully with recognized Federal Tribes on a government-to-government basis. We have determined that there are no tribal lands occupied at the time of listing that contain the features essential for the conservation and no tribal lands that are unoccupied areas that are essential for the conservation of the flatwoods salamander. Therefore, designation of critical habitat for the flatwoods salamander has not been designated on Tribal lands.

References Cited

A complete list of all references cited in this rulemaking is available upon request from the Field Supervisor, Mississippi Fish and Wildlife Office (see ADDRESSES section).

Author(s)

The primary author of this package is Linda LaClaire of the Mississippi Fish and Wildlife Office (see ADDRESSES section).

List of Subjects in 50 CFR Part 17

Endangered and threatened species, Exports, Imports, Reporting and recordkeeping requirements, Transportation.

Proposed Regulation Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.11(h), revise the entry for “Salamander, flatwoods” under “AMPHIBIANS” to read as follows:

§ 17.11 Endangered and threatened wildlife.

* * * * *

(h) * * *

Species: Common name | Species: Scientific name | Historic range | Vertebrate population where endangered or threatened | Status | When listed | Critical habitat | Special rules
* * * * * * *
Amphibians
* * * * * * *
Salamander, flatwoods | Ambystoma cingulatum | U.S.A. (AL, FL, GA, SC) | Entire | T | 658 | 17.95(d) | NA
* * * * * * *

3. Amend § 17.95(d) by adding an entry for “Flatwoods salamander (Ambystoma cingulatum)” in the same order that the species appears in the table at § 17.11(h), to read as follows:

§ 17.95 Critical habitat—fish and wildlife.

* * * * *

(d) Amphibians.

* * * * *

Flatwoods salamander (Ambystoma cingulatum)

(1) Critical habitat units are depicted for Baker, Calhoun, Franklin, Holmes, Jackson, Jefferson, Liberty, Santa Rosa, Wakulla, Walton, and Washington Counties in Florida; Baker and Miller Counties in Georgia; and Berkeley, Charleston, and Jasper Counties in South Carolina, on the maps below.

(2) The primary constituent elements of critical habitat for the flatwoods salamander are the habitat components that provide:

(i) Breeding habitat. Small (generally <1 to 10 acres (ac) (<0.4 to 4.0 hectares (ha)), acidic, depressional standing bodies of freshwater (wetlands) that:

(A) Are seasonally-flooded by rainfall in late fall or early winter and dry in late spring or early summer;

(B) Are geographically isolated from other water bodies;

(C) Occur within pine-flatwoods/savanna communities;

(D) Are dominated by grasses and grass-like species in the ground layer and overstories of pond cypress, blackgum, and slash pine;

(E) Have a relatively open canopy, necessary to maintain the herbaceous component which serves as cover for flatwoods salamander larvae and their aquatic invertebrate prey; and

(F) Typically have a burrowing crayfish fauna, but, due to periodic drying, the breeding ponds typically lack large, predatory fish (e.g., Lepomis (sunfish), Micropterus (bass), Amia calva (bowfin)).

(ii) Non-breeding habitat. Upland pine flatwoods/savanna habitat that is open, mesic woodland maintained by frequent fires and that:

(A) Is within 1,500 ft (457 m) of adjacent and accessible breeding ponds;

(B) Contains crayfish burrows or other underground habitat that the flatwoods salamander depends upon for food, shelter, and protection from the elements and predation;

(C) Has an organic hardpan in the soil profile, which inhibits subsurface water penetration and typically results in moist soils with water often at or near the surface under normal conditions; and

(D) Often has wiregrasses as the dominant grasses in the abundant herbaceous ground cover, which supports the rich herbivorous invertebrates that serve as a food source for the flatwoods salamander.

(iii) Dispersal habitat. Upland habitat areas between non-breeding and breeding habitat that allow for salamander movement between such sites and that is characterized by:

(A) A mix of vegetation types representing a transition between wetland and upland vegetation (ecotone);

(B) An open canopy and abundant native herbaceous species; and

(C) Moist soils as described in PCE 2, and underground structure, such as deep litter cover or burrows that provide shelter for salamanders during seasonal movements.

(3) Critical habitat does not include manmade structures existing on the effective date of this rule and not containing one or more of the primary constituent elements, such as buildings, aqueducts, airports, and roads, and the land on which such structures are located.

(4) Critical habitat map units. Data layers defining map units were created on a base of USGS 7.5′ quadrangles, and critical habitat units were then mapped using Universal Transverse Mercator (UTM) coordinates.

(5) Note: Index maps (Map 1, Map 1A, Map 1B, Map 1C) follow.

BILLING CODE 4310-55-P

BILLING CODE 4310-55-C

(6) Florida: Baker, Calhoun, Franklin, Holmes, Jackson, Jefferson, Liberty, Santa Rosa, Wakulla, Walton, Washington Counties, Florida.

(i) Unit FL-1, Subunit A: Santa Rosa County, Florida. From USGS 1:24,000 scale quadrangle map Garcon Point, Florida.

(A) Land bounded by the following UTM Zone 16N, North American Datum of 1983 (NAD83) coordinates (E, N): 492422.51, 3371035.69; 492456.21, 3371479.58; 492471.93, 3371471.14; 492500.45, 3371474.38; 492529.13, 3371475.82; 492557.84, 3371475.46; 492586.47, 3371473.29; 492614.90, 3371469.33; 492643.03, 3371463.60; 492670.75, 3371456.10; 492675.19, 3371454.60; 492697.94, 3371446.89; 492724.50, 3371435.98; 492750.32, 3371423.43; 492775.30, 3371409.28; 492799.35, 3371393.59; 492822.36, 3371376.42; 492844.25, 3371357.84; 492864.93, 3371337.93; 492876.81, 3371324.95; 492884.31, 3371316.75; 492902.33, 3371294.40; 492918.91, 3371270.96; 492933.99, 3371246.52; 492947.50, 3371221.19; 492959.39, 3371195.06; 492969.63, 3371168.23; 492978.15, 3371140.82; 492984.94, 3371112.92; 492989.96, 3371084.65; 492993.20, 3371056.13; 492994.64, 3371027.45; 492994.27, 3370998.74; 492992.11, 3370970.12; 492988.15, 3370941.68; 492982.41, 3370913.55; 492974.92, 3370885.83; 492965.70, 3370858.64; 492954.80, 3370832.08; 492942.25, 3370806.26; 492928.10, 3370781.28; 492912.41, 3370757.23; 492895.24, 3370734.22; 492876.66, 3370712.33; 492856.74, 3370691.66; 492835.57, 3370672.27; 492813.21, 3370654.25; 492789.77, 3370637.67; 492765.34, 3370622.59; 492740.01, 3370609.08; 492713.88, 3370597.19; 492687.05, 3370586.96; 492659.63, 3370578.43; 492631.74, 3370571.64; 492603.47, 3370566.62; 492574.94, 3370563.38; 492546.27, 3370561.94; 492517.56, 3370562.31; 492488.93, 3370564.47; 492460.49, 3370568.43; 492432.36, 3370574.17; 492404.65, 3370581.66; 492377.45, 3370590.88; 492350.90, 3370601.78; 492320.09, 3370617.55; 492291.56, 3370614.31; 492262.89, 3370612.87; 492234.18, 3370613.24; 492205.55, 3370615.41; 492177.11, 3370619.36; 492148.98, 3370625.10; 492121.26, 3370632.59; 492094.07, 3370641.81; 492067.52, 3370652.72; 492041.69, 3370665.27; 492016.71, 3370679.42; 491992.67, 3370695.11; 491969.66, 3370712.28; 491947.77, 3370730.86; 491927.09, 3370750.78; 491907.71, 3370771.96; 491889.69, 3370794.31; 491873.11, 3370817.75; 491858.03, 3370842.18; 491850.39, 3370856.51; 491902.30, 3370927.81; 491965.58, 3371021.19; 492053.40, 3371139.60; 492103.96, 3371211.52; 492141.74, 3371263.97; 492176.40, 3371309.07; 492207.16, 3371350.78; 492243.77, 3371397.26; 492331.54, 3371520.26; 492359.67, 3371514.52; 492387.39, 3371507.03; 492414.58, 3371497.81; 492441.14, 3371486.91; 492456.21, 3371479.58.

(B) Map depicting Unit FL-1, Subunit A is provided at paragraph (6)(ii)(B) of this entry.

(ii) Unit FL-1, Subunit B: Santa Rosa County, Florida. From USGS 1:24,000 scale quadrangle map Garcon Point, Florida.

(A) Land bounded by the following UTM Zone 16N, NAD83 coordinates (E, N): 493473.94, 3373125.21; 493511.18, 3372669.71; 493482.50, 3372668.27; 493453.79, 3372668.64; 493425.16, 3372670.80; 493396.73, 3372674.76; 493368.60, 3372680.50; 493340.88, 3372687.99; 493313.69, 3372697.21; 493287.13, 3372708.12; 493261.31, 3372720.67; 493236.33, 3372734.82; 493212.29, 3372750.51; 493189.27, 3372767.68; 493167.39, 3372786.26; 493146.71, 3372806.18; 493127.32, 3372827.35; 493109.30, 3372849.71; 493107.12, 3372852.80; 493092.72, 3372873.15; 493077.65, 3372897.58; 493064.14, 3372922.91; 493052.24, 3372949.04; 493042.01, 3372975.87; 493033.49, 3373003.29; 493026.70, 3373031.18; 493021.68, 3373059.45; 493018.45, 3373087.98; 493017.01, 3373116.65; 493017.10, 3373124.25; 493017.37, 3373145.36; 493019.54, 3373173.99; 493023.50, 3373202.43; 493029.23, 3373230.56; 493036.73, 3373258.27; 493045.94, 3373285.46; 493056.85, 3373312.02; 493069.40, 3373337.84; 493083.55, 3373362.82; 493099.24, 3373386.87; 493116.41, 3373409.88; 493134.99, 3373431.77; 493154.91, 3373452.45; 493176.09, 3373471.83; 493198.44, 3373489.85; 493221.88, 3373506.43; 493246.31, 3373521.51; 493271.65, 3373535.02; 493297.78, 3373546.91; 493324.60, 3373557.14; 493352.02, 3373565.66; 493379.92, 3373572.45; 493408.18, 3373577.47; 493436.71, 3373580.71; 493465.39, 3373582.15; 493494.09, 3373581.78; 493522.72, 3373579.62; 493551.16, 3373575.66; 493572.90, 3373571.22; 493579.29, 3373569.92; 493607.01, 3373562.43; 493634.20, 3373553.21; 493660.76, 3373542.30; 493686.58, 3373529.75; 493711.56, 3373515.60; 493735.60, 3373499.91; 493758.61, 3373482.74; 493776.62, 3373467.45; 493780.50, 3373464.16; 493801.18, 3373444.24; 493820.57, 3373423.07; 493838.58, 3373400.71; 493855.16, 3373377.28; 493870.24, 3373352.84; 493883.75, 3373327.51; 493895.64, 3373301.38; 493905.87, 3373274.55; 493914.40, 3373247.13; 493921.18, 3373219.24; 493926.21, 3373190.97; 493929.44, 3373162.44; 493930.88, 3373133.77; 493930.52, 3373105.06; 493928.35, 3373076.43; 493924.39, 3373047.99; 493918.65, 3373019.86; 493911.16, 3372992.15; 493901.94, 3372964.96; 493891.04, 3372938.40; 493878.48, 3372912.58; 493864.33, 3372887.60; 493848.64, 3372863.55; 493831.48, 3372840.54; 493812.90, 3372818.65; 493792.98, 3372797.98; 493771.80, 3372778.59; 493749.45, 3372760.57; 493726.01, 3372743.99; 493701.57, 3372728.92; 493676.24, 3372715.40; 493650.11, 3372703.51; 493623.28, 3372693.28; 493595.87, 3372684.76; 493567.97, 3372677.97; 493539.70, 3372672.95; 493511.18, 3372669.71.

(B) Map of Unit FL-1 (Map 2) follows:

BILLING CODE 4310-55-P

BILLING CODE 4310-55-C

(iii) Unit FL-2, Subunit A: Santa Rosa County, Florida. From USGS 1:24,000 scale quadrangle map Harold, Florida.

(A) Land bounded by the following UTM Zone 16N, NAD83 coordinates (E, N): 501542.29, 3392875.54; 501578.59, 3392419.96; 501549.91, 3392418.58; 501521.21, 3392419.01; 501492.58, 3392421.23; 501464.15, 3392425.25; 501436.03, 3392431.05; 501408.33, 3392438.59; 501381.16, 3392447.87; 501354.63, 3392458.83; 501328.83, 3392471.44; 501303.88, 3392485.64; 501279.87, 3392501.38; 501256.89, 3392518.59; 501235.04, 3392537.22; 501214.40, 3392557.18; 501195.06, 3392578.39; 501177.09, 3392600.78; 501160.55, 3392624.26; 501145.53, 3392648.72; 501132.07, 3392674.08; 501120.23, 3392700.24; 501110.06, 3392727.09; 501101.59, 3392754.52; 501094.86, 3392782.43; 501089.89, 3392810.71; 501086.72, 3392839.24; 501085.34, 3392867.92; 501085.34, 3392868.35; 501085.76, 3392896.63; 501086.36, 3392904.40; 501087.98, 3392925.25; 501092.00, 3392953.68; 501097.80, 3392981.80; 501105.35, 3393009.50; 501114.62, 3393036.67; 501125.58, 3393063.21; 501138.19, 3393089.01; 501152.39, 3393113.96; 501168.13, 3393137.97; 501185.34, 3393160.95; 501203.97, 3393182.80; 501223.93, 3393203.43; 501245.15, 3393222.78; 501267.54, 3393240.75; 501291.01, 3393257.28; 501315.47, 3393272.31; 501340.83, 3393285.76; 501366.99, 3393297.61; 501393.84, 3393307.78; 501421.27, 3393316.25; 501449.18, 3393322.98; 501477.46, 3393327.94; 501506.00, 3393331.12; 501534.67, 3393332.50; 501563.38, 3393332.08; 501585.04, 3393330.39; 501592.00, 3393329.85; 501614.07, 3393326.73; 501620.43, 3393325.83; 501648.55, 3393320.04; 501676.25, 3393312.49; 501703.43, 3393303.22; 501729.96, 3393292.25; 501755.76, 3393279.65; 501780.71, 3393265.45; 501804.72, 3393249.71; 501827.70, 3393232.49; 501849.55, 3393213.87; 501870.18, 3393193.91; 501889.53, 3393172.69; 501907.50, 3393150.30; 501924.03, 3393126.83; 501939.06, 3393102.36; 501952.52, 3393077.00; 501964.36, 3393050.84; 501974.53, 3393024.00; 501983.00, 3392996.56; 501989.73, 3392968.65; 501994.69, 3392940.37; 501997.87, 3392911.84; 501999.25, 3392883.16; 501998.83, 3392854.45; 501996.60, 3392825.83; 501992.58, 3392797.40; 501986.79, 3392769.28; 501979.24, 3392741.58; 501969.97, 3392714.41; 501959.01, 3392687.87; 501946.40, 3392662.08; 501932.20, 3392637.13; 501916.46, 3392613.11; 501899.24, 3392590.14; 501880.62, 3392568.29; 501860.66, 3392547.65; 501839.44, 3392528.31; 501817.05, 3392510.33; 501793.58, 3392493.80; 501769.11, 3392478.78; 501743.75, 3392465.32; 501717.60, 3392453.48; 501690.75, 3392443.30; 501663.31, 3392434.84; 501635.40, 3392428.11; 501607.13, 3392423.14; 501578.59, 3392419.96.

(B) Map depicting Unit FL-2, Subunit A is provided at paragraph (6)(vii)(B) of this entry.

(iv) Unit FL-2, Subunit B: Santa Rosa County, Florida. From USGS 1:24,000 scale quadrangle map Floridale, Florida.

(A) Land bounded by the following UTM Zone 16N, NAD83 coordinates (E, N): 518979.00, 3390846.88; 519015.30, 3390391.30; 518986.62, 3390389.92; 518957.92, 3390390.34; 518929.29, 3390392.56; 518900.86, 3390396.58; 518872.74, 3390402.38; 518845.04, 3390409.93; 518817.87, 3390419.20; 518791.34, 3390430.16; 518765.54, 3390442.77; 518740.59, 3390456.97; 518716.58, 3390472.71; 518693.60, 3390489.92; 518671.75, 3390508.55; 518651.11, 3390528.51; 518631.77, 3390549.73; 518613.80, 3390572.12; 518597.26, 3390595.59; 518582.24, 3390620.06; 518568.78, 3390645.42; 518556.94, 3390671.57; 518546.76, 3390698.42; 518538.30, 3390725.85; 518531.57, 3390753.76; 518526.60, 3390782.04; 518523.42, 3390810.58; 518522.04, 3390839.25; 518522.47, 3390867.96; 518524.69, 3390896.59; 518528.71, 3390925.02; 518534.50, 3390953.14; 518542.05, 3390980.84; 518551.33, 3391008.01; 518562.29, 3391034.54; 518574.89, 3391060.34; 518589.10, 3391085.29; 518604.84, 3391109.30; 518622.05, 3391132.28; 518640.68, 3391154.13; 518660.64, 3391174.77; 518681.85, 3391194.11; 518704.24, 3391212.08; 518727.72, 3391228.62; 518752.18, 3391243.64; 518777.54, 3391257.10; 518803.70, 3391268.94; 518830.55, 3391279.11; 518857.98, 3391287.58; 518885.89, 3391294.31; 518914.17, 3391299.28; 518942.70, 3391302.46; 518971.38, 3391303.84; 519000.09, 3391303.41; 519028.71, 3391301.19; 519057.14, 3391297.17; 519085.26, 3391291.37; 519112.96, 3391283.83; 519140.13, 3391274.55; 519166.67, 3391263.59; 519192.47, 3391250.98; 519217.42, 3391236.78; 519241.43, 3391221.04; 519264.41, 3391203.83; 519286.26, 3391185.20; 519306.90, 3391165.24; 519326.24, 3391144.03; 519344.21, 3391121.64; 519360.74, 3391098.16; 519375.77, 3391073.70; 519389.23, 3391048.34; 519401.07, 3391022.18; 519410.40, 3390997.55; 519411.24, 3390995.33; 519419.71, 3390967.90; 519426.44, 3390939.99; 519431.40, 3390911.71; 519434.58, 3390883.17; 519435.96, 3390854.50; 519435.54, 3390825.79; 519433.31, 3390797.16; 519429.30, 3390768.74; 519423.50, 3390740.62; 519415.95, 3390712.92; 519406.68, 3390685.74; 519395.72, 3390659.21; 519383.11, 3390633.41; 519368.91, 3390608.46; 519353.17, 3390584.45; 519335.95, 3390561.47; 519317.33, 3390539.62; 519297.37, 3390518.98; 519276.15, 3390499.64; 519253.76, 3390481.67; 519230.29, 3390465.14; 519205.82, 3390450.11; 519180.46, 3390436.65; 519154.31, 3390424.81; 519127.46, 3390414.64; 519100.03, 3390406.17; 519072.12, 3390399.44; 519043.84, 3390394.47; 519025.24, 3390392.40; 519015.30, 3390391.30.

(B) Map depicting Unit FL-2, Subunit B is provided at paragraph (6)(vii)(B) of this entry.

(v) Unit FL-3, Subunit A: Santa Rosa County, Florida. From USGS 1:24,000 scale quadrangle map Holley, Florida.

(A) Land bounded by the following UTM Zone 16N NAD83 coordinates (E, N): 503186.07, 3363994.26; 503230.28, 3364372.04; 503258.98, 3364371.15; 503287.56, 3364368.46; 503315.92, 3364363.98; 503343.94, 3364357.72; 503371.51, 3364349.72; 503398.53, 3364340.00; 503424.88, 3364328.61; 503450.47, 3364315.58; 503475.18, 3364300.97; 503498.93, 3364284.84; 503521.62, 3364267.25; 503543.17, 3364248.27; 503563.47, 3364227.98; 503582.47, 3364206.45; 503600.07, 3364183.77; 503616.21, 3364160.02; 503630.84, 3364135.32; 503643.88, 3364109.74; 503655.29, 3364083.39; 503665.02, 3364056.38; 503673.04, 3364028.81; 503679.31, 3364000.80; 503683.81, 3363972.44; 503686.52, 3363943.86; 503687.43, 3363915.16; 503694.97, 3363895.81; 503703.22, 3363883.46; 503713.35, 3363875.12; 503720.86, 3363866.05; 503726.38, 3363856.93; 503733.33, 3363843.23; 503741.24, 3363817.66; 503752.71, 3363781.60; 503757.94, 3363757.28; 503766.29, 3363740.97; 503653.05, 3363741.51; 503643.99, 3363720.56; 503630.97, 3363694.98; 503615.43, 3363669.20; 503614.54, 3363723.63; 503603.42, 3363776.80; 503601.25, 3363799.28; 503594.63, 3363834.14; 503562.99, 3363830.54; 503563.95, 3363824.13; 503558.80, 3363820.38; 503559.45, 3363810.82; 503555.67, 3363800.19; 503543.48, 3363787.42; 503527.74, 3363771.34; 503514.01, 3363772.21; 503464.39, 3363773.02; 503448.84, 3363749.30; 503448.43, 3363557.73; 503320.61, 3363559.24; 503273.41, 3363560.17; 503273.48, 3363572.21; 503279.12, 3363573.41; 503279.02, 3363592.17; 503284.42, 3363598.01; 503277.69, 3363622.31; 503272.10, 3363658.41; 503256.99, 3363658.98; 503220.25, 3363657.15; 503211.45, 3363656.39; 503211.32, 3363632.31; 503198.98, 3363600.14; 503189.64, 3363604.87; 503175.36, 3363660.76; 503174.54, 3363689.45; 503175.29, 3363734.75; 503170.11, 3363757.09; 503161.90, 3363768.12; 503127.36, 3363772.57; 503100.69, 3363791.38; 503033.43, 3363789.75; 502978.95, 3363827.29; 502954.54, 3363827.17; 502938.00, 3363826.77; 502928.94, 3363817.96; 502929.55, 3363684.52; 502929.72, 3363568.90; 502821.78, 3363569.58; 502821.25, 3363591.37; 502814.34, 3363603.10; 502789.73, 3363607.79; 502751.21, 3363612.80; 502704.59, 3363623.55; 502670.46, 3363638.58; 502640.33, 3363787.82; 502630.36, 3363843.74; 502624.75, 3363883.90; 502620.13, 3363937.30; 502612.77, 3363994.60; 502605.85, 3364010.35; 502632.98, 3364029.88; 502667.62, 3364048.56; 502682.22, 3364046.94; 502713.21, 3364052.31; 502771.51, 3364051.09; 502794.67, 3364051.65; 502805.44, 3364083.14; 502816.83, 3364109.49; 502829.86, 3364135.08; 502844.47, 3364159.79; 502860.60, 3364183.55; 502878.19, 3364206.24; 502897.17, 3364227.78; 502917.47, 3364248.09; 502939.00, 3364267.08; 502961.68, 3364284.68; 502985.42, 3364300.83; 503010.13, 3364315.45; 503035.70, 3364328.49; 503062.05, 3364339.90; 503089.06, 3364349.63; 503116.63, 3364357.65; 503144.64, 3364363.92; 503173.00, 3364368.42; 503201.58, 3364371.13; 503230.28, 3364372.04.

(B) Map depicting Unit FL-3, Subunit A is provided at paragraph (6)(vii)(B) of this entry.

(vi) Unit FL-3, Subunit B: Santa Rosa County, Florida. From USGS 1:24,000 scale quadrangle map Holley, Florida.

(A) Land bounded by the following UTM Zone 16N, NAD83 coordinates (E, N): 507847.52, 3364062.79; 508038.94, 3364260.07; 508159.63, 3364258.28; 508179.03, 3364261.58; 508239.92, 3364260.82; 508239.28, 3364132.07; 508237.99, 3363955.72; 508155.42, 3363957.25; 508106.06, 3363958.06; 508068.35, 3363958.68; 508035.07, 3363959.23; 508033.84, 3363843.00; 507952.80, 3363843.73; 507885.20, 3363844.33; 507885.39, 3363854.86; 507685.16, 3363854.79; 507684.91, 3363836.82; 507612.21, 3363835.57; 507612.77, 3363907.18; 507612.91, 3363927.06; 507638.84, 3363927.49; 507639.00, 3363939.65; 507583.60, 3364018.18; 507491.87, 3364016.04; 507493.28, 3364096.00; 507471.91, 3364095.49; 507455.13, 3364095.09; 507457.47, 3364243.37; 507529.64, 3364242.64; 507566.35, 3364269.51; 507830.21, 3364270.70; 507890.36, 3364270.81; 507890.10, 3364262.24; 507967.95, 3364261.12; 508038.94, 3364260.07.

(B) Map depicting Unit FL-3, Subunit B is provided at paragraph (6)(vii)(B) of this entry.

(vii) Unit FL-3, Subunit C: Santa Rosa County, Florida. From USGS 1:24,000 scale quadrangle map Navarre, Florida.

(A) Land bounded by the following UTM Zone 16N, NAD83 coordinates (E, N): 516524.27, 3365506.24; 516614.06, 3365794.38; 516619.13, 3365768.07; 516719.88, 3365817.25; 516735.84, 3365826.31; 516744.39, 3365831.14; 516874.86, 3365831.13; 516879.33, 3365827.24; 516878.63, 3365813.17; 516883.46, 3365805.36; 516900.89, 3365796.54; 516929.88, 3365775.45; 516958.07, 3365759.62; 516979.85, 3365735.70; 516994.78, 3365720.87; 517001.14, 3365704.51; 517008.87, 3365686.20; 517014.29, 3365653.96; 517017.30, 3365612.41; 517019.98, 3365556.98; 517021.74, 3365512.09; 517032.24, 3365489.23; 517042.50, 3365475.60; 517057.95, 3365466.73; 517042.10, 3365402.56; 517026.34, 3365368.94; 517024.79, 3365359.93; 517026.56, 3365353.73; 517031.18, 3365347.99; 517059.28, 3365329.77; 517063.29, 3365325.79; 517065.23, 3365320.52; 517064.86, 3365314.91; 517062.23, 3365309.97; 517055.28, 3365301.88; 517050.92, 3365295.83; 517045.96, 3365285.82; 517043.24, 3365276.08; 517039.76, 3365257.17; 517035.61, 3365234.71; 517031.42, 3365212.25; 517027.22, 3365189.79; 517022.89, 3365166.84; 517018.06, 3365154.36; 517012.70, 3365146.64; 517006.03, 3365140.13; 516993.88, 3365133.00; 516975.29, 3365127.63; 516953.13, 3365121.74; 516930.79, 3365115.89; 516908.44, 3365110.03; 516886.77, 3365104.34; 516863.77, 3365097.23; 516854.53, 3365091.17; 516846.45, 3365082.43; 516843.18, 3365076.97; 516839.62, 3365067.62; 516797.67, 3365057.37; 516752.53, 3365046.60; 516732.46, 3365041.21; 516716.95, 3365036.33; 516701.44, 3365031.45; 516685.89, 3365026.57; 516656.30, 3365017.26; 516606.14, 3364999.47; 516567.77, 3365025.84; 516552.88, 3365039.46; 516543.26, 3365047.07; 516537.86, 3365046.61; 516522.73, 3365045.31; 516507.60, 3365044.01; 516492.46, 3365042.72; 516464.55, 3365040.34; 516459.18, 3365038.47; 516434.23, 3365029.82; 516385.85, 3365014.06; 516347.70, 3365014.77; 516325.35, 3365015.20; 516309.78, 3365015.50; 516282.34, 3365016.10; 516255.12, 3365015.23; 516227.49, 3365017.30; 516200.05, 3365017.89; 516172.65, 3365018.48; 516145.21, 3365019.08; 516117.76, 3365019.68; 516090.36, 3365020.27; 516062.92, 3365020.87; 516033.95, 3365021.50; 515983.68, 3365022.59; 515983.31, 3365034.30; 515983.56, 3365125.46; 515983.59, 3365135.61; 516140.14, 3365133.60; 516177.33, 3365131.61; 516210.21, 3365116.20; 516239.31, 3365112.85; 516252.58, 3365116.07; 516265.20, 3365122.17; 516271.24, 3365136.22; 516273.03, 3365157.69; 516271.59, 3365178.29; 516271.13, 3365197.10; 516272.62, 3365214.12; 516272.74, 3365235.92; 516270.34, 3365253.04; 516263.95, 3365270.73; 516255.22, 3365323.47; 516250.15, 3365370.65; 516169.94, 3365371.07; 516084.15, 3365371.52; 515984.90, 3365372.04; 515985.04, 3365418.80; 515985.64, 3365438.67; 515985.79, 3365487.89; 515985.90, 3365523.80; 515986.24, 3365620.99; 515986.80, 3365640.85; 515987.01, 3365700.00; 515997.92, 3365699.87; 516023.61, 3365699.55; 516049.25, 3365699.22; 516074.90, 3365698.91; 516100.58, 3365698.59; 516125.69, 3365698.29; 516151.91, 3365697.97; 516177.56, 3365697.65; 516203.20, 3365697.34; 516228.88, 3365697.03; 516254.34, 3365696.52; 516312.23, 3365695.66; 516273.14, 3365827.54; 516376.04, 3365829.23; 516409.75, 3365829.34; 516418.20, 3365843.68; 516435.68, 3365873.59; 516451.35, 3365900.75; 516465.80, 3365926.13; 516478.16, 3365947.89; 516498.05, 3365958.21; 516511.93, 3365962.88; 516527.93, 3365968.28; 516543.50, 3365970.28; 516556.18, 3365959.98; 516567.94, 3365950.45; 516576.02, 3365939.68; 516591.33, 3365926.01; 516596.36, 3365899.82; 516599.89, 3365872.92; 516604.92, 3365846.75; 516607.51, 3365830.43; 516608.99, 3365820.69; 516614.06, 3365794.38.

(B) Map of Units FL-2 and FL-3 (Map 3) follows:

BILLING CODE 4310-55-P

BILLING CODE 4310-55-C

(viii) Unit FL-4: Walton County, Florida. From USGS 1:24,000 scale quadrangle map Point Washington, Florida.

(A) Land bounded by the following UTM Zone 16N, NAD83 coordinates (E, N): 587515.35, 3355152.48; 587506.79, 3355609.46; 587535.50, 3355609.10; 587564.13, 3355606.93; 587592.57, 3355602.97; 587620.71, 3355597.23; 587648.42, 3355589.74; 587675.62, 3355580.52; 587702.18, 3355569.61; 587728.00, 3355557.06; 587752.99, 3355542.90; 587777.03, 3355527.21; 587800.05, 3355510.04; 587821.94, 3355491.46; 587842.61, 3355471.54; 587862.00, 3355450.36; 587880.02, 3355428.01; 587896.60, 3355404.56; 587911.68, 3355380.13; 587925.19, 3355354.79; 587937.09, 3355328.66; 587947.32, 3355301.83; 587955.84, 3355274.41; 587962.63, 3355246.51; 587967.65, 3355218.24; 587970.89, 3355189.71; 587972.33, 3355161.03; 587971.96, 3355132.32; 587969.80, 3355103.69; 587965.84, 3355075.25; 587960.10, 3355047.12; 587952.61, 3355019.40; 587943.39, 3354992.21; 587932.48, 3354965.65; 587919.92, 3354939.82; 587905.77, 3354914.84; 587890.08, 3354890.79; 587872.91, 3354867.78; 587854.33, 3354845.89; 587834.41, 3354825.21; 587813.23, 3354805.82; 587790.87, 3354787.80; 587767.43, 3354771.22; 587743.00, 3354756.14; 587717.66, 3354742.63; 587691.53, 3354730.74; 587664.70, 3354720.51; 587637.28, 3354711.98; 587609.38, 3354705.19; 587581.11, 3354700.17; 587552.58, 3354696.94; 587523.90, 3354695.50; 587495.19, 3354695.86; 587466.56, 3354698.03; 587438.12, 3354701.99; 587409.99, 3354707.73; 587382.27, 3354715.22; 587355.07, 3354724.44; 587328.51, 3354735.35; 587302.69, 3354747.90; 587277.71, 3354762.05; 587253.66, 3354777.74; 587230.65, 3354794.91; 587208.76, 3354813.50; 587188.08, 3354833.42; 587168.69, 3354854.60; 587150.67, 3354876.95; 587134.09, 3354900.39; 587119.01, 3354924.83; 587105.50, 3354950.16; 587093.61, 3354976.30; 587083.38, 3355003.13; 587074.85, 3355030.54; 587068.06, 3355058.44; 587063.04, 3355086.72; 587059.80, 3355115.25; 587058.37, 3355143.92; 587058.73, 3355172.63; 587060.90, 3355201.27; 587064.86, 3355229.70; 587070.59, 3355257.84; 587078.09, 3355285.56; 587087.31, 3355312.75; 587098.21, 3355339.31; 587110.77, 3355365.13; 587124.92, 3355390.12; 587140.61, 3355414.16; 587157.78, 3355437.18; 587176.36, 3355459.07; 587196.28, 3355479.75; 587217.46, 3355499.13; 587239.82, 3355517.15; 587263.26, 3355533.74; 587287.70, 3355548.81; 587313.03, 3355562.32; 587339.17, 3355574.22; 587365.99, 3355584.45; 587393.41, 3355592.97; 587421.31, 3355599.76; 587449.58, 3355604.78; 587478.11, 3355608.02; 587506.79, 3355609.46.

(B) Map depicting Unit FL-4 is provided at paragraph (6)(xiii)(B) of this entry.

(ix) Unit FL-5, Subunit A: Walton County, Florida. From USGS 1:24,000 scale quadrangle map Bruce, Florida.

(A) Land bounded by the following UTM Zone 16N, NAD83 coordinates (E, N): 601647.75, 3373576.77; 601493.33, 3374109.03; 601522.04, 3374108.60; 601550.67, 3374106.38; 601579.10, 3374102.36; 601607.23, 3374096.56; 601634.93, 3374089.01; 601662.11, 3374079.74; 601688.65, 3374068.77; 601714.44, 3374056.17; 601739.40, 3374041.96; 601763.41, 3374026.22; 601786.39, 3374009.00; 601808.25, 3373990.37; 601828.89, 3373970.41; 601848.23, 3373949.19; 601866.21, 3373926.80; 601882.74, 3373903.32; 601897.76, 3373878.85; 601911.23, 3373853.49; 601923.07, 3373827.33; 601933.24, 3373800.48; 601941.71, 3373773.04; 601948.44, 3373745.13; 601953.40, 3373716.84; 601956.58, 3373688.31; 601957.96, 3373659.62; 601957.54, 3373630.91; 601955.31, 3373602.29; 601951.29, 3373573.85; 601945.50, 3373545.73; 601937.95, 3373518.03; 601932.81, 3373498.30; 602077.97, 3373412.75; 602148.71, 3373370.38; 602189.04, 3373346.29; 602226.02, 3373324.08; 602242.81, 3373314.59; 602251.57, 3373308.87; 602249.73, 3373302.87; 602248.52, 3373298.22; 602244.07, 3373290.84; 602232.30, 3373285.25; 602226.49, 3373279.16; 602219.36, 3373273.03; 602212.40, 3373260.30; 602203.50, 3373245.54; 602189.89, 3373207.54; 602185.07, 3373188.25; 602182.00, 3373178.92; 602174.92, 3373170.82; 602167.16, 3373163.35; 602161.52, 3373150.66; 602159.44, 3373128.14; 602152.20, 3373073.77; 602147.72, 3373041.28; 602068.26, 3373014.83; 602046.87, 3372996.45; 602018.93, 3372975.27; 601977.95, 3372972.42; 601920.70, 3372984.20; 601893.12, 3373001.35; 601867.36, 3373025.15; 601844.26, 3373048.36; 601816.50, 3373072.78; 601799.99, 3373071.04; 601789.68, 3373059.55; 601764.95, 3373042.41; 601751.13, 3373012.99; 601725.10, 3372994.49; 601700.34, 3373005.10; 601680.55, 3373028.40; 601659.92, 3373058.94; 601630.17, 3373083.30; 601595.72, 3373083.76; 601568.63, 3373081.76; 601562.85, 3373153.48; 601546.32, 3373152.40; 601512.87, 3373139.67; 601482.57, 3373133.62; 601457.54, 3373128.37; 601443.06, 3373124.70; 601441.20, 3373198.67; 601422.79, 3373201.67; 601394.66, 3373207.46; 601366.96, 3373215.01; 601339.78, 3373224.29; 601313.25, 3373235.25; 601287.45, 3373247.86; 601262.49, 3373262.06; 601238.48, 3373277.81; 601215.50, 3373295.02; 601193.65, 3373313.65; 601173.01, 3373333.62; 601153.66, 3373354.84; 601135.69, 3373377.23; 601119.15, 3373400.70; 601104.13, 3373425.17; 601090.67, 3373450.54; 601078.83, 3373476.70; 601068.65, 3373503.55; 601060.18, 3373530.98; 601053.45, 3373558.90; 601048.49, 3373587.18; 601045.31, 3373615.72; 601043.93, 3373644.40; 601044.35, 3373673.11; 601046.58, 3373701.74; 601050.60, 3373730.17; 601056.39, 3373758.30; 601063.95, 3373786.00; 601073.22, 3373813.17; 601084.18, 3373839.71; 601096.79, 3373865.51; 601111.00, 3373890.47; 601126.74, 3373914.48; 601143.96, 3373937.46; 601162.58, 3373959.31; 601182.55, 3373979.95; 601203.77, 3373999.30; 601226.16, 3374017.27; 601249.64, 3374033.81; 601274.11, 3374048.83; 601299.47, 3374062.29; 601325.63, 3374074.13; 601352.48, 3374084.31; 601379.92, 3374092.78; 601407.83, 3374099.51; 601436.11, 3374104.47; 601464.65, 3374107.65; 601493.33, 3374109.03.

(B) Map depicting Unit FL-5, Subunit A is provided at paragraph (6)(xiii)(B) of this entry.

(x) Unit FL-5, Subunit B: Washington County, Florida. From USGS 1:24,000 scale quadrangle map Bruce, Florida.

(A) Land bounded by the following UTM Zone 16N, NAD83 coordinates (E, N): 607444.16, 3365585.74; 607435.59, 3366042.75; 607464.30, 3366042.38; 607492.93, 3366040.22; 607521.37, 3366036.26; 607549.51, 3366030.52; 607577.23, 3366023.03; 607604.42, 3366013.81; 607630.98, 3366002.90; 607656.81, 3365990.35; 607681.79, 3365976.20; 607705.84, 3365960.50; 607728.86, 3365943.33; 607750.75, 3365924.75; 607771.43, 3365904.83; 607790.82, 3365883.65; 607808.84, 3365861.30; 607825.42, 3365837.85; 607840.50, 3365813.42; 607854.02, 3365788.08; 607865.91, 3365761.94; 607876.14, 3365735.11; 607884.67, 3365707.70; 607891.46, 3365679.79; 607896.48, 3365651.52; 607899.72, 3365622.99; 607901.16, 3365594.31; 607900.79, 3365565.60; 607898.63, 3365536.97; 607894.67, 3365508.53; 607888.93, 3365480.39; 607881.44, 3365452.67; 607872.22, 3365425.48; 607861.31, 3365398.91; 607848.76, 3365373.09; 607834.61, 3365348.10; 607818.91, 3365324.06; 607801.74, 3365301.04; 607783.16, 3365279.15; 607763.24, 3365258.47; 607742.06, 3365239.08; 607719.71, 3365221.06; 607696.26, 3365204.48; 607671.83, 3365189.40; 607646.49, 3365175.88; 607620.36, 3365163.99; 607593.53, 3365153.76; 607566.11, 3365145.23; 607538.21, 3365138.44; 607509.93, 3365133.42; 607481.40, 3365130.18; 607452.72, 3365128.74; 607424.01, 3365129.11; 607395.38, 3365131.27; 607366.94, 3365135.23; 607338.80, 3365140.97; 607311.08, 3365148.46; 607283.89, 3365157.68; 607257.33, 3365168.59; 607231.50, 3365181.14; 607206.52, 3365195.29; 607182.47, 3365210.99; 607159.45, 3365228.16; 607137.56, 3365246.74; 607116.88, 3365266.66; 607097.49, 3365287.84; 607079.47, 3365310.19; 607062.89, 3365333.64; 607047.81, 3365358.07; 607034.30, 3365383.41; 607022.40, 3365409.54; 607012.17, 3365436.37; 607003.64, 3365463.79; 606996.85, 3365491.69; 606991.83, 3365519.97; 606988.59, 3365548.50; 606987.15, 3365577.18; 606987.52, 3365605.89; 606989.68, 3365634.52; 606993.64, 3365662.96; 606999.38, 3365691.10; 607006.87, 3365718.82; 607016.09, 3365746.01; 607027.00, 3365772.57; 607039.55, 3365798.40; 607053.70, 3365823.38; 607069.40, 3365847.43; 607086.57, 3365870.45; 607105.15, 3365892.34; 607125.07, 3365913.02; 607146.25, 3365932.41; 607168.60, 3365950.43; 607192.05, 3365967.01; 607216.48, 3365982.09; 607241.82, 3365995.60; 607267.95, 3366007.50; 607294.78, 3366017.73; 607322.20, 3366026.26; 607350.10, 3366033.05; 607378.38, 3366038.07; 607406.91, 3366041.31; 607435.59, 3366042.75.

(B) Map depicting Unit FL-5, Subunit B is provided at paragraph (6)(xiii)(B) of this entry.

(xi) Unit FL-6, Subunit A: Holmes County, Florida. From USGS 1:24,000 scale quadrangle map Bonifay, Florida.

(A) Land bounded by the following UTM Zone 16N, NAD83 coordinates (E, N): 630429.91, 3415116.39; 630422.24, 3415573.43; 630450.95, 3415573.01; 630479.58, 3415570.79; 630508.01, 3415566.77; 630536.14, 3415560.98; 630563.84, 3415553.43; 630591.02, 3415544.16; 630617.56, 3415533.20; 630643.36, 3415520.59; 630668.32, 3415506.39; 630692.34, 3415490.65; 630715.32, 3415473.44; 630737.18, 3415454.81; 630757.82, 3415434.85; 630777.17, 3415413.63; 630795.15, 3415391.24; 630811.68, 3415367.76; 630826.71, 3415343.29; 630840.18, 3415317.93; 630852.02, 3415291.77; 630862.20, 3415264.92; 630870.67, 3415237.48; 630877.41, 3415209.57; 630882.38, 3415181.28; 630885.56, 3415152.74; 630886.94, 3415124.06; 630886.52, 3415095.35; 630884.30, 3415066.72; 630880.28, 3415038.28; 630874.49, 3415010.16; 630866.94, 3414982.45; 630857.67, 3414955.27; 630846.71, 3414928.73; 630834.11, 3414902.93; 630819.91, 3414877.97; 630804.17, 3414853.95; 630786.95, 3414830.97; 630768.32, 3414809.11; 630748.36, 3414788.47; 630727.15, 3414769.12; 630704.75, 3414751.14; 630681.28, 3414734.60; 630656.81, 3414719.57; 630631.45, 3414706.11; 630605.29, 3414694.26; 630578.44, 3414684.08; 630551.00, 3414675.61; 630523.09, 3414668.88; 630494.81, 3414663.91; 630466.27, 3414660.73; 630437.59, 3414659.34; 630408.87, 3414659.76; 630380.24, 3414661.99; 630351.81, 3414666.00; 630323.69, 3414671.79; 630295.98, 3414679.34; 630268.80, 3414688.61; 630242.26, 3414699.58; 630216.46, 3414712.18; 630191.50, 3414726.38; 630167.49, 3414742.12; 630144.51, 3414759.34; 630122.65, 3414777.97; 630102.01, 3414797.93; 630082.66, 3414819.15; 630064.68, 3414841.54; 630048.14, 3414865.01; 630033.11, 3414889.48; 630019.65, 3414914.85; 630007.80, 3414941.01; 629997.63, 3414967.86; 629989.15, 3414995.29; 629982.42, 3415023.21; 629977.45, 3415051.49; 629974.27, 3415080.03; 629972.89, 3415108.72; 629973.31, 3415137.43; 629975.53, 3415166.06; 629979.54, 3415194.49; 629985.34, 3415222.62; 629992.88, 3415250.32; 630002.16, 3415277.50; 630013.12, 3415304.04; 630025.72, 3415329.85; 630039.92, 3415354.81; 630055.66, 3415378.82; 630072.88, 3415401.81; 630091.50, 3415423.66; 630111.46, 3415444.31; 630132.68, 3415463.65; 630155.07, 3415481.63; 630178.55, 3415498.17; 630203.02, 3415513.20; 630228.38, 3415526.67; 630254.54, 3415538.51; 630281.39, 3415548.69; 630308.82, 3415557.16; 630336.74, 3415563.90; 630365.02, 3415568.87; 630393.56, 3415572.05; 630422.24, 3415573.43.

(B) Map depicting Unit FL-6, Subunit A is provided at paragraph (6)(xiii)(B) of this entry.

(xii) Unit FL-6, Subunit B: Washington County, Florida. From USGS 1:24,000 quadrangle map Hinsons Crossroads, Florida.

(A) Land bounded by the following UTM Zone 16N, NAD83 coordinates (E, N): 619116.72, 3390830.14; 619109.08, 3391287.18; 619137.79, 3391286.76; 619166.42, 3391284.53; 619194.85, 3391280.51; 619222.98, 3391274.72; 619250.69, 3391267.17; 619277.86, 3391257.89; 619304.40, 3391246.93; 619330.20, 3391234.32; 619355.16, 3391220.12; 619379.18, 3391204.38; 619402.16, 3391187.16; 619424.01, 3391168.53; 619444.65, 3391148.57; 619464.00, 3391127.35; 619481.98, 3391104.96; 619498.51, 3391081.48; 619513.54, 3391057.01; 619527.00, 3391031.65; 619538.85, 3391005.49; 619549.02, 3390978.64; 619557.49, 3390951.20; 619564.22, 3390923.28; 619569.19, 3390895.00; 619572.37, 3390866.46; 619573.75, 3390837.78; 619573.33, 3390809.06; 619571.10, 3390780.44; 619567.09, 3390752.00; 619561.29, 3390723.88; 619553.74, 3390696.17; 619544.47, 3390669.00; 619533.50, 3390642.45; 619520.90, 3390616.65; 619506.69, 3390591.70; 619490.95, 3390567.68; 619473.73, 3390544.70; 619455.11, 3390522.85; 619435.14, 3390502.20; 619413.92, 3390482.86; 619391.53, 3390464.88; 619368.05, 3390448.35; 619343.58, 3390433.32; 619318.22, 3390419.85; 619292.06, 3390408.01; 619265.21, 3390397.83; 619237.77, 3390389.36; 619209.85, 3390382.63; 619181.57, 3390377.67; 619153.03, 3390374.49; 619124.35, 3390373.11; 619095.64, 3390373.53; 619067.01, 3390375.75; 619038.57, 3390379.77; 619010.45, 3390385.57; 618982.74, 3390393.12; 618955.57, 3390402.39; 618929.03, 3390413.35; 618903.23, 3390425.96; 618878.27, 3390440.16; 618854.25, 3390455.91; 618831.27, 3390473.12; 618809.42, 3390491.75; 618788.78, 3390511.71; 618769.43, 3390532.93; 618751.45, 3390555.33; 618734.92, 3390578.80; 618719.89, 3390603.27; 618706.43, 3390628.64; 618694.58, 3390654.80; 618684.41, 3390681.65; 618675.94, 3390709.09; 618669.20, 3390737.00; 618664.24, 3390765.29; 618661.06, 3390793.83; 618659.68, 3390822.51; 618660.10, 3390851.22; 618662.33, 3390879.85; 618666.34, 3390908.28; 618672.14, 3390936.41; 618679.69, 3390964.11; 618688.96, 3390991.29; 618699.93, 3391017.83; 618712.53, 3391043.63; 618726.74, 3391068.59; 618742.48, 3391092.60; 618759.70, 3391115.59; 618778.32, 3391137.44; 618798.29, 3391158.08; 618819.51, 3391177.43; 618841.90, 3391195.40; 618865.38, 3391211.94; 618889.85, 3391226.97; 618915.21, 3391240.43; 618941.37, 3391252.27; 618968.22, 3391262.45; 618995.66, 3391270.92; 619023.57, 3391277.65; 619051.86, 3391282.62; 619080.40, 3391285.80; 619109.08, 3391287.18.

(B) Map depicting Unit FL-6, Subunit B is provided at paragraph (6)(xiii)(B) of this entry.

(xiii) Unit FL-6, Subunit C: Washington County, Florida. From USGS 1:24,000 quadrangle map Millers Ferry, Florida.

(A) Land bounded by the following UTM Zone 16N, NAD83 coordinates (E, N): 618603.41, 3387429.45; 618699.68, 3387966.18; 618708.26, 3387969.49; 618723.71, 3387970.50; 618726.33, 3387965.00; 618725.78, 3387937.80; 618728.76, 3387918.09; 618732.40, 3387896.55; 618738.22, 3387886.81; 618755.97, 3387870.57; 618776.73, 3387857.50; 618803.06, 3387844.57; 618839.32, 3387830.66; 618872.53, 3387815.43; 618904.43, 3387802.63; 618918.85, 3387795.58; 618926.43, 3387789.59; 618930.96, 3387781.67; 618931.79, 3387748.94; 618930.13, 3387716.76; 618932.43, 3387674.79; 618932.53, 3387646.37; 618934.03, 3387611.79; 618948.87, 3387588.07; 618962.97, 3387569.26; 618980.28, 3387545.60; 618995.92, 3387515.09; 619007.01, 3387492.50; 619018.24, 3387464.98; 619025.65, 3387441.06; 619035.64, 3387413.50; 619042.95, 3387393.91; 619052.14, 3387373.13; 619059.11, 3387348.17; 619055.09, 3387319.74; 619049.30, 3387291.61; 619041.75, 3387263.91; 619032.48, 3387236.73; 619021.51, 3387210.19; 619008.91, 3387184.39; 618994.70, 3387159.43; 618978.96, 3387135.42; 618961.74, 3387112.44; 618943.12, 3387090.58; 618923.15, 3387069.94; 618901.93, 3387050.59; 618879.54, 3387032.62; 618856.06, 3387016.08; 618831.60, 3387001.05; 618806.23, 3386987.59; 618780.07, 3386975.75; 618753.22, 3386965.57; 618725.78, 3386957.10; 618697.87, 3386950.37; 618669.59, 3386945.41; 618641.05, 3386942.23; 618612.37, 3386940.85; 618583.65, 3386941.27; 618555.02, 3386943.49; 618526.59, 3386947.51; 618498.47, 3386953.31; 618470.76, 3386960.86; 618443.59, 3386970.13; 618417.05, 3386981.10; 618391.25, 3386993.70; 618366.29, 3387007.91; 618342.28, 3387023.65; 618319.30, 3387040.87; 618297.44, 3387059.49; 618276.80, 3387079.46; 618257.46, 3387100.68; 618239.48, 3387123.07; 618222.95, 3387146.55; 618207.92, 3387171.02; 618194.46, 3387196.38; 618182.61, 3387222.54; 618172.44, 3387249.39; 618163.97, 3387276.83; 618157.24, 3387304.75; 618152.27, 3387333.03; 618149.09, 3387361.57; 618147.71, 3387390.25; 618148.13, 3387418.97; 618150.36, 3387447.59; 618154.38, 3387476.03; 618160.17, 3387504.15; 618167.72, 3387531.86; 618177.00, 3387559.03; 618187.96, 3387585.58; 618200.57, 3387611.37; 618214.77, 3387636.33; 618230.51, 3387660.35; 618247.73, 3387683.33; 618266.36, 3387705.18; 618286.32, 3387725.82; 618307.54, 3387745.17; 618329.93, 3387763.15; 618353.41, 3387779.68; 618377.88, 3387794.71; 618403.24, 3387808.17; 618429.40, 3387820.02; 618456.25, 3387830.19; 618483.69, 3387838.66; 618511.60, 3387845.39; 618552.33, 3387867.90; 618598.24, 3387912.94; 618635.11, 3387948.48; 618647.90, 3387956.84; 618666.90, 3387964.74; 618689.14, 3387966.53; 618699.68, 3387966.18.

(B) Map of Units FL-4, FL-5, and FL-6 (Map 4) follows:

BILLING CODE 4310-55-P

BILLING CODE 4310-55-C

(xiv) Unit FL-7, Subunit A: Jackson County, Florida. From USGS 1:24,000 quadrangle map Cottondale West, Florida.

(A) Land bounded by the following UTM Zone 16N, NAD83 coordinates (E, N): 652835.14, 3407158.35; 652861.06, 3407462.20; 652926.44, 3407468.50; 652983.24, 3407473.93; 653013.53, 3407480.65; 653102.73, 3407487.57; 653220.85, 3407503.16; 653213.54, 3407478.51; 653208.06, 3407459.86; 653203.98, 3407437.94; 653198.50, 3407419.28; 653188.65, 3407390.60; 653180.13, 3407361.30; 653173.97, 3407343.29; 653172.95, 3407331.36; 653175.84, 3407322.18; 653182.86, 3407306.49; 653196.77, 3407280.41; 653209.97, 3407256.28; 653225.16, 3407232.21; 653240.92, 3407211.46; 653254.75, 3407188.68; 653269.91, 3407165.27; 653285.84, 3407137.91; 653302.44, 3407110.57; 653319.71, 3407082.58; 653334.40, 3407051.89; 653354.94, 3407025.31; 653370.79, 3407001.25; 653387.81, 3406983.18; 653410.30, 3406957.97; 653436.67, 3406936.83; 653465.05, 3406914.42; 653479.59, 3406894.17; 653572.80, 3406719.38; 653636.15, 3406632.42; 653038.02, 3406583.61; 653039.18, 3406691.92; 653028.57, 3406721.18; 653006.55, 3406734.40; 652986.39, 3406751.60; 652981.54, 3406786.91; 652980.43, 3406830.19; 652979.67, 3406859.70; 652965.63, 3406869.19; 652941.78, 3406876.45; 652916.11, 3406877.76; 652884.59, 3406876.95; 652859.18, 3406868.42; 652831.89, 3406855.91; 652800.52, 3406849.20; 652767.02, 3406848.34; 652747.17, 3406853.74; 652732.87, 3406873.06; 652724.33, 3406898.44; 652743.83, 3406906.81; 652763.39, 3406913.22; 652758.74, 3406940.66; 652753.99, 3406972.04; 652760.86, 3407011.59; 652764.09, 3407039.23; 652761.57, 3407060.82; 652749.49, 3407070.36; 652725.65, 3407077.62; 652709.68, 3407085.09; 652701.20, 3407108.49; 652698.57, 3407134.02; 652696.09, 3407153.64; 652674.12, 3407164.89; 652656.23, 3407170.34; 652642.04, 3407185.72; 652620.14, 3407175.05; 652594.55, 3407165.80; 652583.46, 3407159.57; 652578.33, 3407152.82; 652573.28, 3407143.44; 652569.58, 3407132.77; 652565.24, 3407121.42; 652555.67, 3407107.29; 652545.45, 3407092.48; 652535.85, 3407079.68; 652526.16, 3407070.17; 652517.58, 3407069.29; 652507.43, 3407077.62; 652495.88, 3407089.23; 652486.90, 3407103.54; 652483.22, 3407117.99; 652480.80, 3407135.12; 652478.24, 3407157.53; 652480.37, 3407177.42; 652480.51, 3407197.92; 652475.78, 3407201.76; 652465.72, 3407206.79; 652458.25, 3407213.87; 652449.33, 3407226.21; 652438.04, 3407227.24; 652428.85, 3407224.36; 652417.75, 3407218.12; 652411.37, 3407208.70; 652407.64, 3407199.35; 652404.20, 3407178.77; 652402.01, 3407160.86; 652397.94, 3407138.94; 652395.00, 3407124.32; 652386.76, 3407110.23; 652373.71, 3407102.62; 652360.44, 3407103.60; 652343.53, 3407117.72; 652333.43, 3407124.07; 652322.15, 3407125.10; 652314.14, 3407127.54; 652305.95, 3407137.25; 652296.58, 3407140.97; 652287.20, 3407145.36; 652274.56, 3407147.68; 652268.06, 3407142.89; 652261.53, 3407139.41; 652255.03, 3407134.62; 652248.60, 3407127.18; 652243.50, 3407119.78; 652238.44, 3407110.39; 652237.44, 3407097.81; 652241.12, 3407083.36; 652242.82, 3407068.86; 652245.24, 3407051.73; 652244.24, 3407039.14; 652236.01, 3407024.39; 652221.05, 3407014.09; 652203.25, 3407010.99; 652190.56, 3407015.29; 652182.47, 3407021.03; 652175.50, 3407034.74; 652172.53, 3407047.22; 652173.53, 3407059.81; 652170.75, 3407065.03; 652164.64, 3407070.82; 652155.26, 3407075.21; 652145.32, 3407075.61; 652133.44, 3407073.99; 652119.02, 3407068.33; 652106.60, 3407062.06; 652100.97, 3407049.36; 652097.32, 3407036.70; 652077.38, 3407039.50; 652052.56, 3407052.08; 652042.52, 3407056.45; 652034.12, 3407074.09; 652048.98, 3407088.35; 652061.11, 3407105.85; 652085.32, 3407117.05; 652106.16, 3407130.80; 652105.19, 3407142.68; 652106.02, 3407161.87; 652112.91, 3407177.25; 652135.31, 3407181.79; 652182.83, 3407187.64; 652215.86, 3407190.47; 652257.41, 3407196.82; 652295.04, 3407201.09; 652314.35, 3407205.65; 652308.49, 3407218.63; 652292.89, 3407233.43; 652266.52, 3407254.57; 652238.70, 3407280.96; 652220.19, 3407305.61; 652212.44, 3407323.92; 652210.01, 3407341.05; 652209.77, 3407350.30; 652210.11, 3407362.87; 652213.26, 3407375.54; 652299.80, 3407383.66; 652374.80, 3407395.52; 652472.45, 3407408.60; 652594.12, 3407426.43; 652663.66, 3407439.95; 652719.80, 3407445.35; 652756.73, 3407450.93; 652822.76, 3407457.91; 652861.06, 3407462.20.

(B) Map depicting Unit FL-7, Subunit A is provided at paragraph (6)(xix)(B) of this entry.

(xv) Unit FL-7, Subunit B: Jackson County, Florida. From USGS 1:24,000 scale quadrangle map Oakdale, Florida.

(A) Land bounded by the following UTM Zone 16N, NAD83 coordinates (E, N): 674995.60, 3401690.28; 673875.85, 3402158.93; 674341.17, 3402164.28; 674675.84, 3402154.41; 674910.48, 3402162.13; 675034.90, 3402087.99; 675083.93, 3402061.49; 675233.86, 3401974.12; 675401.89, 3401877.97; 675485.18, 3401832.51; 675531.62, 3401803.30; 675583.62, 3401764.31; 675781.28, 3401546.61; 675851.43, 3401471.73; 675878.14, 3401437.38; 675932.68, 3401376.64; 675959.66, 3401349.36; 675970.87, 3401333.99; 675981.97, 3401314.44; 676115.36, 3401200.87; 676086.59, 3401161.12; 676052.69, 3401114.62; 676041.90, 3401096.49; 676016.12, 3401069.38; 675998.03, 3401051.73; 675964.86, 3401028.39; 675934.93, 3401007.79; 675918.10, 3400992.81; 675908.38, 3400984.62; 675897.49, 3400970.46; 675889.97, 3400953.73; 675879.31, 3400879.41; 675844.53, 3400893.06; 675327.40, 3401121.69; 674861.39, 3401328.81; 674684.03, 3401401.59; 674391.31, 3401530.89; 673876.29, 3401753.54; 673877.85, 3402081.41; 673875.85, 3402158.93.

(B) Map depicting Unit FL-7, Subunit B is provided at paragraph (6)(xix)(B) of this entry.

(xvi) Unit FL-7, Subunit C: Jackson County, Florida. From USGS 1:24,000 scale quadrangle map Cypress, Florida.

(A) Land bounded by the following UTM Zone 16N, NAD83 coordinates (E, N): 683829.73, 3393074.70; 684023.32, 3393574.80; 684052.04, 3393574.38; 684080.68, 3393572.16; 684109.12, 3393568.14; 684137.25, 3393562.34; 684164.96, 3393554.79; 684192.15, 3393545.52; 684218.69, 3393534.55; 684244.50, 3393521.94; 684269.46, 3393507.74; 684293.49, 3393491.99; 684316.47, 3393474.77; 684338.33, 3393456.14; 684358.98, 3393436.17; 684378.33, 3393414.95; 684396.32, 3393392.55; 684412.86, 3393369.07; 684427.89, 3393344.60; 684441.36, 3393319.23; 684453.20, 3393293.06; 684463.38, 3393266.20; 684471.86, 3393238.76; 684478.59, 3393210.84; 684483.56, 3393182.55; 684486.74, 3393154.00; 684488.12, 3393125.31; 684487.70, 3393096.59; 684485.48, 3393067.96; 684481.46, 3393039.52; 684475.66, 3393011.38; 684468.11, 3392983.67; 684458.84, 3392956.49; 684447.87, 3392929.94; 684435.27, 3392904.13; 684421.06, 3392879.17; 684405.32, 3392855.15; 684388.09, 3392832.16; 684369.46, 3392810.30; 684349.50, 3392789.65; 684328.27, 3392770.30; 684305.87, 3392752.32; 684282.39, 3392735.78; 684257.92, 3392720.75; 684232.55, 3392707.28; 684206.38, 3392695.43; 684179.52, 3392685.25; 684152.08, 3392676.78; 684124.16, 3392670.04; 684095.87, 3392665.08; 684067.32, 3392661.89; 684038.63, 3392660.51; 684009.91, 3392660.93; 683981.28, 3392663.16; 683966.02, 3392656.75; 683947.05, 3392647.66; 683923.43, 3392639.12; 683903.85, 3392628.04; 683886.86, 3392619.00; 683867.12, 3392613.87; 683843.82, 3392618.55; 683819.20, 3392623.21; 683789.11, 3392634.33; 683770.46, 3392638.47; 683744.30, 3392651.02; 683720.12, 3392664.28; 683706.10, 3392668.55; 683685.47, 3392672.64; 683658.43, 3392667.97; 683632.03, 3392664.65; 683606.95, 3392661.36; 683585.89, 3392656.18; 683542.11, 3392633.24; 683512.11, 3392615.27; 683479.46, 3392597.24; 683450.00, 3392583.92; 683423.91, 3392568.70; 683385.42, 3392545.89; 683371.14, 3392534.94; 683348.35, 3392519.81; 683332.69, 3392510.81; 683315.62, 3392505.08; 683294.59, 3392498.59; 683272.28, 3392490.74; 683253.15, 3392487.60; 683203.24, 3392496.89; 683207.64, 3392582.95; 683209.99, 3392696.72; 683212.45, 3392729.84; 683218.34, 3392783.54; 683218.66, 3392796.77; 683214.15, 3392817.81; 683194.50, 3392886.06; 683182.83, 3392927.40; 683174.68, 3392960.91; 683171.34, 3392987.93; 683171.38, 3393011.73; 683174.93, 3393028.35; 683181.19, 3393042.39; 683179.64, 3393050.95; 683179.13, 3393070.77; 683177.70, 3393100.48; 683176.50, 3393146.73; 683179.16, 3393171.92; 683183.14, 3393197.15; 683188.54, 3393219.10; 683190.03, 3393238.31; 683189.67, 3393252.19; 683214.05, 3393256.78; 683227.92, 3393258.46; 683266.03, 3393270.03; 683309.50, 3393279.08; 683347.79, 3393284.04; 683367.66, 3393283.89; 683389.34, 3393286.52; 683469.22, 3393300.40; 683524.08, 3393304.46; 683580.93, 3393308.57; 683593.71, 3393300.97; 683608.59, 3393292.07; 683614.08, 3393305.37; 683626.69, 3393331.18; 683640.90, 3393356.14; 683656.64, 3393380.17; 683673.86, 3393403.15; 683692.49, 3393425.01; 683712.46, 3393445.66; 683733.68, 3393465.01; 683756.08, 3393482.99; 683779.56, 3393499.53; 683804.04, 3393514.57; 683829.41, 3393528.03; 683855.57, 3393539.88; 683882.43, 3393550.06; 683909.88, 3393558.54; 683937.80, 3393565.27; 683966.09, 3393570.24; 683994.63, 3393573.42; 684023.32, 3393574.80.

(B) Map depicting Unit FL-7, Subunit C is provided at paragraph (6)(xix)(B) of this entry.

(xvii) Unit FL-8, Subunit A: Calhoun County, Florida. From USGS 1:24,000 scale quadrangle map Broad Branch, Florida.

(A) Land bounded by the following UTM Zone 16N, NAD83 coordinates (E, N): 664818.75, 3351879.40; 664810.75, 3352336.50; 664839.47, 3352336.10; 664868.11, 3352333.90; 664896.55, 3352329.90; 664924.68, 3352324.13; 664952.40, 3352316.60; 664979.59, 3352307.34; 665006.14, 3352296.40; 665031.95, 3352283.81; 665056.93, 3352269.63; 665080.96, 3352253.90; 665103.96, 3352236.70; 665125.83, 3352218.08; 665146.49, 3352198.13; 665165.86, 3352176.93; 665183.85, 3352154.54; 665200.41, 3352131.08; 665215.46, 3352106.61; 665228.94, 3352081.26; 665240.81, 3352055.10; 665251.01, 3352028.25; 665259.50, 3352000.82; 665266.26, 3351972.90; 665271.25, 3351944.62; 665274.45, 3351916.08; 665275.85, 3351887.39; 665275.45, 3351858.67; 665273.25, 3351830.04; 665269.26, 3351801.60; 665263.48, 3351773.46; 665255.95, 3351745.75; 665246.70, 3351718.56; 665235.75, 3351692.00; 665223.16, 3351666.19; 665208.98, 3351641.22; 665193.25, 3351617.18; 665176.05, 3351594.19; 665157.44, 3351572.31; 665137.49, 3351551.65; 665116.28, 3351532.29; 665093.90, 3351514.29; 665070.43, 3351497.73; 665045.97, 3351482.68; 665020.61, 3351469.20; 664994.45, 3351457.33; 664967.61, 3351447.13; 664940.17, 3351438.64; 664912.26, 3351431.89; 664883.97, 3351426.90; 664855.43, 3351423.70; 664826.74, 3351422.29; 664798.03, 3351422.69; 664769.39, 3351424.89; 664740.95, 3351428.89; 664712.82, 3351434.66; 664685.10, 3351442.19; 664657.91, 3351451.45; 664631.36, 3351462.39; 664605.54, 3351474.98; 664580.57, 3351489.17; 664556.54, 3351504.89; 664533.54, 3351522.09; 664511.67, 3351540.71; 664491.01, 3351560.66; 664471.64, 3351581.87; 664453.64, 3351604.25; 664437.09, 3351627.72; 664422.04, 3351652.18; 664408.55, 3351677.53; 664396.69, 3351703.69; 664386.49, 3351730.54; 664377.99, 3351757.97; 664371.24, 3351785.89; 664366.25, 3351814.17; 664363.05, 3351842.71; 664361.65, 3351871.40; 664362.05, 3351900.12; 664364.25, 3351928.75; 664368.24, 3351957.19; 664374.02, 3351985.33; 664381.55, 3352013.04; 664390.80, 3352040.23; 664401.74, 3352066.79; 664414.33, 3352092.60; 664428.52, 3352117.57; 664444.24, 3352141.60; 664461.45, 3352164.60; 664480.06, 3352186.47; 664500.01, 3352207.14; 664521.22, 3352226.50; 664543.60, 3352244.50; 664567.07, 3352261.06; 664591.53, 3352276.11; 664616.89, 3352289.59; 664643.04, 3352301.46; 664669.89, 3352311.66; 664697.33, 3352320.15; 664725.24, 3352326.90; 664753.53, 3352331.89; 664782.07, 3352335.09; 664810.75, 3352336.50.

(B) Map depicting Unit FL-8, Subunit A is provided at paragraph (6)(xix)(B) of this entry.

(xviii) Unit FL-8, Subunit B: Calhoun County, Florida. From USGS 1:24,000 scale quadrangle map Dead Lake, Florida.

(A) Land bounded by the following UTM Zone 16N, NAD83 coordinates (E, N): 676286.61, 3346166.45; 676279.05, 3346623.58; 676307.77, 3346623.16; 676336.40, 3346620.93; 676364.84, 3346616.90; 676392.97, 3346611.10; 676420.68, 3346603.55; 676447.86, 3346594.27; 676474.40, 3346583.30; 676500.21, 3346570.68; 676525.17, 3346556.47; 676549.19, 3346540.72; 676572.17, 3346523.50; 676594.02, 3346504.86; 676614.67, 3346484.89; 676634.01, 3346463.66; 676651.99, 3346441.26; 676668.53, 3346417.78; 676683.55, 3346393.30; 676697.01, 3346367.93; 676708.85, 3346341.76; 676719.03, 3346314.90; 676727.50, 3346287.46; 676734.23, 3346259.54; 676739.19, 3346231.25; 676742.36, 3346202.70; 676743.74, 3346174.01; 676743.31, 3346145.29; 676741.08, 3346116.66; 676737.06, 3346088.22; 676731.26, 3346060.09; 676723.70, 3346032.38; 676714.42, 3346005.20; 676703.45, 3345978.66; 676690.84, 3345952.85; 676676.63, 3345927.89; 676660.88, 3345903.87; 676643.65, 3345880.89; 676625.02, 3345859.04; 676605.05, 3345838.39; 676583.82, 3345819.05; 676561.42, 3345801.07; 676537.93, 3345784.54; 676513.46, 3345769.51; 676488.08, 3345756.05; 676461.92, 3345744.21; 676435.06, 3345734.03; 676407.61, 3345725.56; 676379.69, 3345718.84; 676351.40, 3345713.87; 676322.86, 3345710.70; 676294.17, 3345709.32; 676265.45, 3345709.75; 676236.81, 3345711.98; 676208.37, 3345716.00; 676180.25, 3345721.80; 676152.54, 3345729.36; 676125.35, 3345738.64; 676098.81, 3345749.61; 676073.01, 3345762.22; 676048.05, 3345776.43; 676024.03, 3345792.18; 676001.05, 3345809.41; 675979.19, 3345828.04; 675958.55, 3345848.02; 675939.20, 3345869.24; 675921.22, 3345891.64; 675904.69, 3345915.13; 675889.66, 3345939.60; 675876.20, 3345964.98; 675864.36, 3345991.14; 675854.19, 3346018.00; 675845.72, 3346045.45; 675838.99, 3346073.37; 675834.03, 3346101.66; 675830.85, 3346130.21; 675829.48, 3346158.89; 675829.90, 3346187.61; 675832.13, 3346216.25; 675836.16, 3346244.69; 675841.96, 3346272.81; 675849.51, 3346300.52; 675858.79, 3346327.71; 675869.76, 3346354.25; 675882.38, 3346380.05; 675896.59, 3346405.01; 675912.34, 3346429.03; 675929.56, 3346452.01; 675948.20, 3346473.87; 675968.17, 3346494.51; 675989.40, 3346513.86; 676011.80, 3346531.84; 676035.28, 3346548.37; 676059.76, 3346563.40; 676085.13, 3346576.86; 676111.30, 3346588.70; 676138.16, 3346598.87; 676165.60, 3346607.34; 676193.52, 3346614.07; 676221.81, 3346619.03; 676250.36, 3346622.21; 676279.05, 3346623.58.

(B) Map depicting Unit FL-8, Subunit B is provided at paragraph (6)(xix)(B) of this entry.

(xix) Unit FL-8, Subunit C: Calhoun County, Florida. From USGS 1:24,000 scale quadrangle map Dead Lake, Florida.

(A) Land bounded by the following UTM Zone 16N, NAD83 coordinates (E, N): 679287.57, 3347164.59; 679280.01, 3347621.72; 679308.73, 3347621.30; 679337.37, 3347619.07; 679365.80, 3347615.04; 679393.93, 3347609.24; 679421.65, 3347601.69; 679448.83, 3347592.40; 679475.37, 3347581.44; 679501.17, 3347568.82; 679526.14, 3347554.61; 679550.15, 3347538.86; 679573.14, 3347521.64; 679594.99, 3347503.00; 679615.64, 3347483.03; 679634.98, 3347461.80; 679652.96, 3347439.40; 679669.50, 3347415.92; 679684.52, 3347391.44; 679697.98, 3347366.07; 679709.83, 3347339.90; 679720.00, 3347313.04; 679728.47, 3347285.59; 679735.20, 3347257.67; 679740.16, 3347229.38; 679743.33, 3347200.84; 679744.71, 3347172.15; 679744.28, 3347143.43; 679742.05, 3347114.79; 679738.03, 3347086.35; 679732.23, 3347058.22; 679724.67, 3347030.51; 679715.39, 3347003.33; 679704.42, 3346976.79; 679691.81, 3346950.98; 679677.60, 3346926.02; 679661.85, 3346902.00; 679644.62, 3346879.02; 679625.99, 3346857.16; 679606.02, 3346836.52; 679584.79, 3346817.17; 679562.39, 3346799.20; 679538.90, 3346782.66; 679514.43, 3346767.63; 679489.05, 3346754.17; 679462.89, 3346742.33; 679436.03, 3346732.16; 679408.58, 3346723.69; 679380.66, 3346716.96; 679352.37, 3346712.00; 679323.82, 3346708.82; 679295.13, 3346707.45; 679266.42, 3346707.88; 679237.78, 3346710.10; 679209.34, 3346714.13; 679181.21, 3346719.93; 679153.50, 3346727.49; 679126.32, 3346736.77; 679099.77, 3346747.74; 679073.97, 3346760.35; 679049.01, 3346774.56; 679024.99, 3346790.31; 679002.01, 3346807.54; 678980.15, 3346826.17; 678959.51, 3346846.14; 678940.16, 3346867.37; 678922.19, 3346889.77; 678905.65, 3346913.25; 678890.62, 3346937.73; 678877.16, 3346963.10; 678865.32, 3346989.27; 678855.15, 3347016.13; 678846.68, 3347043.58; 678839.95, 3347071.50; 678834.99, 3347099.79; 678831.81, 3347128.34; 678830.44, 3347157.02; 678830.86, 3347185.74; 678833.09, 3347214.38; 678837.12, 3347242.82; 678842.92, 3347270.95; 678850.47, 3347298.66; 678859.75, 3347325.84; 678870.72, 3347352.38; 678883.34, 3347378.19; 678897.55, 3347403.15; 678913.30, 3347427.17; 678930.52, 3347450.15; 678949.16, 3347472.00; 678969.13, 3347492.65; 678990.36, 3347512.00; 679012.76, 3347529.97; 679036.24, 3347546.51; 679060.72, 3347561.53; 679086.09, 3347575.00; 679112.26, 3347586.84; 679139.12, 3347597.01; 679166.56, 3347605.48; 679194.49, 3347612.21; 679222.78, 3347617.17; 679251.32, 3347620.35; 679280.01, 3347621.72.

(B) Map of Units FL-7 and FL-8 (Map 5) follows:

BILLING CODE 4310-55-P

BILLING CODE 4310-55-C

(xx) Unit FL-9, Subunit A: Liberty County, Florida. From USGS 1:24,000 scale quadrangle map Estiffanulga, Florida.

(A) Land bounded by the following UTM Zone 16N, NAD83 coordinates (E, N): 689490.86, 3351823.52; 689483.29, 3352280.68; 689512.01, 3352280.25; 689540.64, 3352278.02; 689569.09, 3352274.00; 689597.22, 3352268.20; 689624.93, 3352260.64; 689652.11, 3352251.36; 689678.66, 3352240.39; 689704.47, 3352227.78; 689729.43, 3352213.57; 689753.45, 3352197.82; 689776.44, 3352180.59; 689798.29, 3352161.96; 689818.94, 3352141.99; 689838.29, 3352120.76; 689856.27, 3352098.36; 689872.80, 3352074.87; 689887.83, 3352050.39; 689901.30, 3352025.02; 689913.14, 3351998.85; 689923.31, 3351971.99; 689931.78, 3351944.54; 689938.51, 3351916.62; 689943.48, 3351888.33; 689946.65, 3351859.78; 689948.03, 3351831.09; 689947.60, 3351802.37; 689945.37, 3351773.73; 689941.35, 3351745.29; 689935.55, 3351717.16; 689927.99, 3351689.45; 689918.71, 3351662.27; 689907.74, 3351635.72; 689895.13, 3351609.91; 689880.92, 3351584.95; 689865.17, 3351560.93; 689847.94, 3351537.95; 689829.31, 3351516.09; 689809.33, 3351495.45; 689788.11, 3351476.10; 689765.70, 3351458.12; 689742.22, 3351441.58; 689717.74, 3351426.55; 689692.37, 3351413.09; 689666.20, 3351401.25; 689639.34, 3351391.07; 689611.89, 3351382.60; 689583.96, 3351375.87; 689555.67, 3351370.91; 689527.12, 3351367.73; 689498.43, 3351366.36; 689469.71, 3351366.78; 689441.07, 3351369.01; 689412.63, 3351373.04; 689384.50, 3351378.84; 689356.79, 3351386.39; 689329.61, 3351395.67; 689303.06, 3351406.64; 689277.25, 3351419.26; 689252.29, 3351433.47; 689228.27, 3351449.22; 689205.28, 3351466.44; 689183.43, 3351485.08; 689162.78, 3351505.05; 689143.43, 3351526.28; 689125.45, 3351548.68; 689108.92, 3351572.16; 689093.89, 3351596.64; 689080.43, 3351622.01; 689068.58, 3351648.18; 689058.41, 3351675.04; 689049.94, 3351702.49; 689043.21, 3351730.41; 689038.24, 3351758.71; 689035.07, 3351787.25; 689033.69, 3351815.94; 689034.12, 3351844.66; 689036.35, 3351873.30; 689040.37, 3351901.74; 689046.17, 3351929.87; 689053.73, 3351957.58; 689063.01, 3351984.77; 689073.98, 3352011.31; 689086.59, 3352037.12; 689100.80, 3352062.08; 689116.55, 3352086.10; 689133.78, 3352109.08; 689152.41, 3352130.94; 689172.38, 3352151.59; 689193.61, 3352170.94; 689216.02, 3352188.91; 689239.50, 3352205.45; 689263.98, 3352220.48; 689289.35, 3352233.94; 689315.52, 3352245.78; 689342.38, 3352255.96; 689369.83, 3352264.43; 689397.76, 3352271.16; 689426.05, 3352276.12; 689454.59, 3352279.30; 689483.29, 3352280.68.

(B) Map depicting Unit FL-9, Subunit A is provided at paragraph (6)(xxx)(B) of this entry.

(xxi) Unit FL-9, Subunit B: Liberty County, Florida. From USGS 1:24,000 scale quadrangle maps Estiffanulga, Woods, Orange, and Wilma, Florida.

(A) Land bounded by the following UTM Zone 16N, NAD83 coordinates (E, N): 691779.59, 3350672.99; 690287.06, 3353381.83; 691154.03, 3353692.19; 691852.55, 3352833.72; 692553.20, 3351878.20; 693253.86, 3350922.68; 693661.24, 3350057.79; 693684.72, 3348990.27; 693222.97, 3347912.08; 692056.32, 3347983.53; 691150.93, 3349420.02; 689874.45, 3350071.60; 690047.19, 3351046.33; 690019.43, 3352307.92; 690287.06, 3353381.83.

(B) Map depicting Unit FL-9, Subunit B is provided at paragraph (6)(xxx)(B) of this entry.

(xxii) Unit FL-9, Subunit C: Liberty County, Florida. From USGS 1:24,000 scale quadrangle map Orange, Florida.

(A) Land bounded by the following UTM Zone 16N, NAD83 coordinates (E, N): 689990.64, 3341015.20; 690237.03, 3342409.32; 691013.36, 3342426.37; 691228.75, 3341460.18; 690564.37, 3340765.95; 690096.20, 3339978.94; 689433.95, 3339187.68; 688752.53, 3339269.83; 688821.89, 3340533.53; 689285.79, 3341514.62; 690237.03, 3342409.32.

(B) Map depicting Unit FL-9, Subunit C is provided at paragraph (6)(xxx)(B) of this entry.

(xxiii) Unit FL-9, Subunit D: Liberty County, Florida. From USGS 1:24,000 scale quadrangle map Wilma, Florida.

(A) Land bounded by the following UTM Zone 16N, NAD83 coordinates (E, N): 696265.46, 3342271.68; 696046.86, 3343119.45; 696833.88, 3342651.26; 696945.85, 3341974.06; 696374.23, 3341476.04; 695585.08, 3342041.28; 696046.86, 3343119.45.

(B) Map depicting Unit FL-9, Subunit D is provided at paragraph (6)(xxx)(B) of this entry.

(xxiv) Unit FL-9, Subunit E: Liberty County, Florida. From USGS 1:24,000 scale quadrangle map Wilma, Florida.

(A) Land bounded by the following UTM Zone 16N, NAD83 coordinates (E, N): 697156.42, 3338443.91; 694866.24, 3339403.96; 695935.87, 3339330.34; 696914.84, 3338963.44; 697781.87, 3339273.75; 698843.00, 3339588.32; 700115.26, 3339130.76; 699651.32, 3338149.62; 698493.14, 3337832.93; 697328.58, 3337807.38; 696353.86, 3337980.19; 695381.28, 3338055.95; 694600.66, 3338233.01; 694197.57, 3338903.82; 694866.24, 3339403.96.

(B) Map depicting Unit FL-9, Subunit E is provided at paragraph (6)(xxx)(B) of this entry.

(xxv) Unit FL-9, Subunit F: Liberty County, Florida. From USGS 1:24,000 scale quadrangle maps Orange, and Kennedy Creek, Florida.

(A) Land bounded by the following UTM Zone 16N, NAD83 coordinates (E, N): 686998.58, 3332648.82; 686827.48, 3334081.83; 688276.71, 3334404.86; 689441.20, 3334430.38; 690331.59, 3333673.16; 689958.32, 3332985.34; 688998.53, 3332478.86; 688237.09, 3331782.55; 686988.31, 3331172.66; 686420.95, 3330480.61; 686250.24, 3329408.89; 685092.14, 3329092.27; 684195.41, 3330140.61; 683688.96, 3331100.40; 683665.57, 3332167.86; 684228.67, 3333054.00; 684595.56, 3334032.92; 685160.78, 3334822.02; 685934.97, 3334936.08; 686827.48, 3334081.83.

(B) Map depicting Unit FL-9, Subunit F is provided at paragraph (6)(xxx)(B) of this entry.

(xxvi) Unit FL-9, Subunit G: Liberty County, Florida. From USGS 1:24,000 scale quadrangle map Kennedy Creek, Florida.

(A) Land bounded by the following UTM Zone 16N, NAD83 coordinates (E, N): 687255.71, 3327893.29; 686571.11, 3328056.66; 687047.82, 3328455.45; 687729.23, 3328373.27; 687940.30, 3327601.17; 687073.31, 3327290.93; 686571.11, 3328056.66.

(B) Map depicting Unit FL-9, Subunit G is provided at paragraph (6)(xxx)(B) of this entry.

(xxvii) Unit FL-9, Subunit H: Liberty County, Florida. From USGS 1:24,000 scale quadrangle maps Kennedy Creek and Sumatra, Florida.

(A) Land bounded by the following UTM Zone 16N, NAD83 coordinates (E, N): 693182.05, 3325786.18; 690209.80, 3330369.39; 690697.14, 3330282.96; 691488.36, 3329620.64; 691024.39, 3328639.57; 690935.85, 3328249.27; 691722.81, 3327781.03; 692971.63, 3328390.91; 694226.84, 3328709.67; 695115.12, 3328049.46; 694463.41, 3326772.98; 694474.03, 3326287.75; 695153.35, 3326302.61; 696511.99, 3326332.34; 697298.98, 3325864.09; 697702.03, 3325193.24; 697818.18, 3324321.93; 697446.97, 3323537.06; 696381.59, 3323416.67; 695588.24, 3324176.07; 694712.71, 3324254.01; 694151.66, 3323270.81; 692603.20, 3323042.77; 691246.72, 3322916.03; 691408.97, 3324375.95; 691972.12, 3325262.09; 691664.00, 3326032.09; 690596.53, 3326008.74; 690128.31, 3325221.77; 688868.89, 3325097.14; 688545.91, 3326546.43; 688813.67, 3327620.28; 689180.60, 3328599.22; 689543.26, 3329772.25; 690209.80, 3330369.39.

(B) Map depicting Unit FL-9, Subunit H is provided at paragraph (6)(xxx)(B) of this entry.

(xxviii) Unit FL-9, Subunit I: Liberty County, Florida. From USGS 1:24,000 scale quadrangle map Sumatra and Owens Bridge, Florida.

(A) Land bounded by the following UTM Zone 16N, NAD83 coordinates (E, N): 705471.22, 3324970.20; 704472.05, 3326409.40; 705159.89, 3326036.06; 705759.18, 3325272.38; 706522.85, 3325871.68; 707409.05, 3325308.47; 707042.07, 3324329.45; 705782.53, 3324204.81; 704902.71, 3324476.86; 704029.26, 3324457.76; 703533.40, 3324932.41; 703999.54, 3325816.48; 704472.05, 3326409.40.

(B) Map depicting Unit FL-9, Subunit I is provided at paragraph (6)(xxx)(B) of this entry.

(xxix) Unit FL-9, Subunit J: Liberty County, Florida. From USGS 1:24,000 scale quadrangle map Owens Bridge, Florida.

(A) Land bounded by the following UTM Zone 16N, NAD83 coordinates (E, N): 712287.91, 3326471.46; 712320.50, 3327163.72; 712712.97, 3326978.10; 712924.07, 3326205.90; 712447.29, 3325807.07; 711767.91, 3325792.21; 711651.75, 3326663.58; 712320.50, 3327163.72.

(B) Map depicting Unit FL-9, Subunit J is provided at paragraph (6)(xxx)(B) of this entry.

(xxx) Unit FL-9, Subunit K: Franklin County, Florida. From USGS 1:24,000 scale quadrangle map Fort Gadsden, Florida.

(A) Land bounded by the following UTM Zone 16N, NAD83 coordinates (E, N): 696532.91, 3312509.19; 695399.94, 3313685.97; 696374.63, 3313513.06; 696680.59, 3312840.09; 697165.82, 3312850.67; 698045.59, 3312578.59; 697866.31, 3311895.03; 697096.30, 3311586.96; 696115.25, 3312051.02; 695623.67, 3312331.57; 695020.23, 3313289.32; 695399.94, 3313685.97.

(B) Map of Unit FL-9 (Map 6) follows:

BILLING CODE 4310-55-P

BILLING CODE 4310-55-C

(xxxi) Unit FL-10: Franklin County, Florida. From USGS 1:24,000 scale quadrangle map Green Point, Florida.

(A) Land bounded by the following UTM Zone 16N, NAD83 coordinates (E, N): 713163.69, 3302378.99; 713155.25, 3302836.18; 713183.97, 3302835.81; 713212.61, 3302833.63; 713241.06, 3302829.66; 713269.21, 3302823.91; 713296.94, 3302816.41; 713324.14, 3302807.18; 713350.71, 3302796.26; 713376.54, 3302783.69; 713401.53, 3302769.53; 713425.59, 3302753.82; 713448.61, 3302736.64; 713470.50, 3302718.04; 713491.18, 3302698.11; 713510.57, 3302676.91; 713528.60, 3302654.55; 713545.18, 3302631.09; 713560.26, 3302606.64; 713573.77, 3302581.29; 713585.66, 3302555.14; 713595.89, 3302528.29; 713604.41, 3302500.86; 713611.19, 3302472.95; 713616.21, 3302444.66; 713619.44, 3302416.12; 713620.87, 3302387.43; 713620.50, 3302358.71; 713618.32, 3302330.06; 713614.35, 3302301.61; 713608.61, 3302273.47; 713601.10, 3302245.74; 713591.87, 3302218.54; 713580.95, 3302191.97; 713568.38, 3302166.13; 713554.22, 3302141.14; 713538.52, 3302117.09; 713521.33, 3302094.07; 713502.73, 3302072.18; 713482.80, 3302051.49; 713461.61, 3302032.10; 713439.24, 3302014.08; 713415.78, 3301997.50; 713391.33, 3301982.42; 713365.98, 3301968.91; 713339.83, 3301957.02; 713312.99, 3301946.79; 713285.55, 3301938.27; 713257.64, 3301931.49; 713229.36, 3301926.47; 713200.81, 3301923.24; 713172.12, 3301921.81; 713143.40, 3301922.18; 713114.75, 3301924.35; 713086.30, 3301928.32; 713058.16, 3301934.07; 713030.43, 3301941.58; 713003.23, 3301950.81; 712976.66, 3301961.73; 712950.83, 3301974.29; 712925.84, 3301988.46; 712901.78, 3302004.16; 712878.76, 3302021.35; 712856.87, 3302039.94; 712836.19, 3302059.88; 712816.80, 3302081.07; 712798.77, 3302103.44; 712782.19, 3302126.90; 712767.11, 3302151.35; 712753.60, 3302176.70; 712741.71, 3302202.85; 712731.48, 3302229.69; 712722.96, 3302257.12; 712716.18, 3302285.04; 712711.16, 3302313.32; 712707.93, 3302341.87; 712706.50, 3302370.56; 712706.87, 3302399.28; 712709.05, 3302427.92; 712713.02, 3302456.37; 712718.76, 3302484.52; 712726.27, 3302512.25; 712735.50, 3302539.45; 712746.42, 3302566.02; 712758.99, 3302591.85; 712773.15, 3302616.84; 712788.85, 3302640.89; 712806.04, 3302663.91; 712824.64, 3302685.81; 712844.57, 3302706.49; 712865.76, 3302725.88; 712888.13, 3302743.90; 712911.59, 3302760.49; 712936.04, 3302775.56; 712961.39, 3302789.07; 712987.54, 3302800.97; 713014.38, 3302811.19; 713041.82, 3302819.72; 713069.73, 3302826.50; 713098.01, 3302831.52; 713126.56, 3302834.75; 713155.25, 3302836.18.

(B) Map of Unit FL-10 (Map 7) follows:

BILLING CODE 4310-55-P

BILLING CODE 4310-55-C

(xxxii) Unit FL-11, Subunit A: Wakulla County, Florida. From USGS 1:24,000 scale quadrangle map St. Marks, Florida.

(A) Land bounded by the following UTM Zone 16N, NAD83 coordinates (E, N): 774468.73, 3340147.62; 774190.54, 3341600.79; 774207.58, 3341623.93; 774226.04, 3341645.96; 774245.84, 3341666.79; 774266.91, 3341686.33; 774289.17, 3341704.50; 774312.52, 3341721.25; 774336.88, 3341736.50; 774362.15, 3341750.18; 774388.23, 3341762.25; 774415.01, 3341772.67; 774442.40, 3341781.38; 774470.28, 3341788.35; 774498.54, 3341793.56; 774527.07, 3341796.98; 774555.76, 3341798.61; 774584.50, 3341798.43; 774613.17, 3341796.44; 774641.65, 3341792.66; 774669.85, 3341787.10; 774697.64, 3341779.78; 774724.91, 3341770.73; 774751.56, 3341759.98; 774777.49, 3341747.59; 774802.59, 3341733.58; 774826.75, 3341718.04; 774849.90, 3341701.00; 774871.92, 3341682.54; 774892.75, 3341662.74; 774912.29, 3341641.67; 775378.43, 3341173.51; 775544.42, 3341007.05; 775567.45, 3340989.86; 775589.36, 3340971.26; 775610.05, 3340951.32; 775629.46, 3340930.12; 775647.49, 3340907.75; 775664.08, 3340884.29; 775679.17, 3340859.83; 775692.69, 3340834.47; 775704.60, 3340808.31; 775714.83, 3340781.46; 775723.36, 3340754.02; 775730.15, 3340726.09; 775735.18, 3340697.80; 775738.42, 3340669.25; 775739.85, 3340640.54; 775739.49, 3340611.81; 775737.32, 3340583.15; 775733.35, 3340554.69; 775727.61, 3340526.53; 775720.10, 3340498.79; 775710.88, 3340471.58; 775699.96, 3340444.99; 775687.39, 3340419.15; 775673.22, 3340394.15; 775657.52, 3340370.08; 775640.33, 3340347.05; 775621.73, 3340325.14; 774949.15, 3339783.33; 774965.74, 3339759.90; 774980.82, 3339735.42; 774994.28, 3339710.02; 775006.21, 3339683.91; 775016.43, 3339656.98; 775024.93, 3339629.57; 775031.80, 3339601.67; 775036.75, 3339573.39; 775040.07, 3339544.85; 775041.46, 3339516.15; 775041.12, 3339487.41; 775040.98, 3339485.18; 775057.39, 3339480.71; 775084.52, 3339471.52; 775111.12, 3339460.54; 775136.98, 3339447.98; 775162.02, 3339433.85; 775186.04, 3339418.15; 775209.12, 3339400.97; 775231.00, 3339382.33; 775251.65, 3339362.43; 775271.08, 3339341.17; 775289.09, 3339318.88; 775305.69, 3339295.33; 775320.86, 3339270.97; 775334.32, 3339245.57; 775346.25, 3339219.46; 775356.47, 3339192.53; 775364.97, 3339165.12; 775371.75, 3339137.22; 775376.79, 3339108.94; 775380.02, 3339080.29; 775381.51, 3339051.59; 775381.17, 3339022.96; 775378.99, 3338994.28; 775374.99, 3338965.77; 775369.23, 3338937.67; 775361.73, 3338909.86; 775352.48, 3338882.66; 775341.58, 3338856.09; 775329.02, 3338830.26; 775314.89, 3338805.28; 775299.20, 3338781.14; 775281.94, 3338758.18; 775263.40, 3338736.19; 775243.47, 3338715.50; 775222.26, 3338696.11; 775199.86, 3338678.13; 775176.36, 3338661.56; 775151.96, 3338646.42; 775126.56, 3338632.91; 775100.43, 3338621.05; 775073.60, 3338610.73; 775046.13, 3338602.27; 775018.24, 3338595.47; 774989.92, 3338590.43; 774961.37, 3338587.17; 774932.67, 3338585.78; 774903.93, 3338586.06; 774875.23, 3338588.34; 774846.78, 3338592.29; 774818.68, 3338598.02; 774790.91, 3338605.53; 774763.68, 3338614.73; 774737.09, 3338625.60; 774711.22, 3338638.27; 774686.28, 3338652.40; 774662.16, 3338668.10; 774639.56, 3338684.96; 774638.22, 3338684.81; 774609.52, 3338683.43; 774582.13, 3338683.74; 774581.52, 3338680.84; 774574.02, 3338653.14; 774564.77, 3338625.84; 774553.86, 3338599.27; 774541.30, 3338573.44; 774527.17, 3338548.45; 774511.48, 3338524.43; 774494.21, 3338501.36; 774475.67, 3338479.49; 774455.74, 3338458.80; 774434.54, 3338439.30; 774412.13, 3338421.32; 774388.73, 3338404.76; 774364.23, 3338389.61; 774338.82, 3338376.10; 774312.70, 3338364.25; 774285.86, 3338353.92; 774258.40, 3338345.47; 774230.51, 3338338.67; 774202.19, 3338333.64; 774173.63, 3338330.37; 774144.93, 3338328.99; 774116.19, 3338329.27; 774087.59, 3338331.44; 774059.04, 3338335.50; 774030.94, 3338341.23; 774003.17, 3338348.75; 773975.94, 3338357.95; 773949.44, 3338368.82; 773923.58, 3338381.38; 773898.54, 3338395.62; 773874.52, 3338411.33; 773851.43, 3338428.51; 773829.56, 3338447.05; 773808.82, 3338467.05; 773789.49, 3338488.21; 773771.38, 3338510.61; 773754.79, 3338534.05; 773739.71, 3338558.53; 773726.26, 3338583.82; 773714.32, 3338610.04; 773704.11, 3338636.86; 773695.52, 3338664.27; 773688.75, 3338692.28; 773683.70, 3338720.56; 773680.48, 3338749.10; 773679.09, 3338777.80; 773679.44, 3338806.55; 773681.61, 3338835.23; 773685.54, 3338863.61; 773691.29, 3338891.83; 773698.80, 3338919.53; 773708.05, 3338946.72; 773718.96, 3338973.29; 773731.52, 3338999.23; 773745.65, 3339024.21; 773761.35, 3339048.24; 773778.61, 3339071.30; 773797.15, 3339093.17; 773817.08, 3339113.86; 773838.29, 3339133.25; 773860.69, 3339151.34; 773884.19, 3339167.91; 773908.59, 3339183.05; 773934.00, 3339196.55; 773960.12, 3339208.41; 773986.96, 3339218.62; 774014.42, 3339227.18; 774042.30, 3339233.98; 774070.62, 3339239.02; 774099.18, 3339242.28; 774127.88, 3339243.66; 774155.27, 3339243.24; 774155.87, 3339246.25; 774163.37, 3339273.95; 774172.62, 3339301.25; 774174.07, 3339304.84; 774173.87, 3339305.17; 774162.04, 3339331.28; 774151.73, 3339358.09; 774143.23, 3339385.62; 774136.46, 3339413.52; 774131.41, 3339441.79; 774128.19, 3339470.34; 774126.70, 3339499.04; 774127.14, 3339527.78; 774129.22, 3339556.46; 774133.24, 3339584.85; 774138.99, 3339613.07; 774146.50, 3339640.77; 774150.18, 3339651.73; 774130.12, 3339663.21; 774106.01, 3339678.92; 774083.02, 3339696.10; 774061.06, 3339714.63; 774040.41, 3339734.64; 774020.99, 3339755.79; 774002.98, 3339778.20; 773986.39, 3339801.64; 773971.31, 3339826.11; 773957.76, 3339851.52; 773945.83, 3339877.62; 773935.61, 3339904.44; 773927.12, 3339931.97; 773920.35, 3339959.87; 773915.30, 3339988.14; 773912.08, 3340016.69; 773910.59, 3340045.39; 773910.78, 3340061.14; 773909.48, 3340059.12; 773892.32, 3340036.05; 773873.77, 3340014.18; 773853.75, 3339993.49; 773832.55, 3339974.10; 773810.24, 3339956.01; 773786.75, 3339939.45; 773762.25, 3339924.30; 773736.94, 3339910.80; 773710.82, 3339898.94; 773683.89, 3339888.73; 773656.53, 3339880.17; 773628.54, 3339873.37; 773600.23, 3339868.34; 773571.67, 3339865.07; 773542.98, 3339863.69; 773514.24, 3339863.97; 773485.65, 3339866.15; 773457.20, 3339870.21; 773429.00, 3339875.94; 773401.24, 3339883.46; 773374.02, 3339892.66; 773347.43, 3339903.53; 773321.66, 3339916.09; 773296.62, 3339930.34; 773272.52, 3339946.05; 773249.53, 3339963.22; 773227.66, 3339981.76; 773206.92, 3340001.77; 773187.50, 3340022.92; 773169.49, 3340045.33; 773152.90, 3340068.77; 773137.83, 3340093.25; 773124.28, 3340118.54; 773112.35, 3340144.76; 773102.14, 3340171.58; 773093.65, 3340198.99; 773086.78, 3340226.89; 773081.83, 3340255.28; 773078.52, 3340283.82; 773077.13, 3340312.52; 773077.48, 3340341.27; 773079.66, 3340369.83; 773083.67, 3340398.34; 773089.33, 3340426.55; 773096.84, 3340454.25; 773106.09, 3340481.44; 773117.00, 3340508.00; 773129.56, 3340533.84; 773143.78, 3340558.93; 773159.48, 3340582.95; 773176.64, 3340606.01; 773195.28, 3340627.89; 773215.21, 3340648.58; 773236.41, 3340667.97; 773240.38, 3340671.17; 774190.54, 3341600.79.

(B) Map depicting Unit FL-11, Subunit A is provided at paragraph (6)(xxxvi)(B) of this entry.

(xxxiii) Unit FL-11, Subunit B: Wakulla County, Florida. From USGS 1:24,000 scale quadrangle map St. Marks NE, Florida.

(A) Land bounded by the following UTM Zone 16N, NAD83 coordinates (E, N): 777620.81, 3340587.45; 777609.30, 3341044.76; 777638.03, 3341044.58; 777666.70, 3341042.60; 777695.19, 3341038.82; 777723.39, 3341033.26; 777751.18, 3341025.93; 777778.45, 3341016.88; 777805.10, 3341006.14; 777831.03, 3340993.74; 777856.13, 3340979.74; 777880.29, 3340964.19; 777903.44, 3340947.15; 777925.47, 3340928.69; 777946.29, 3340908.89; 777965.83, 3340887.82; 777984.01, 3340865.56; 778000.76, 3340842.21; 778016.00, 3340817.85; 778029.69, 3340792.58; 778041.76, 3340766.50; 778052.18, 3340739.71; 778060.89, 3340712.33; 778067.86, 3340684.45; 778073.07, 3340656.19; 778076.49, 3340627.65; 778078.11, 3340598.96; 778077.93, 3340570.22; 778075.95, 3340541.55; 778072.17, 3340513.07; 778066.61, 3340484.87; 778059.29, 3340457.08; 778050.24, 3340429.81; 778039.49, 3340403.15; 778027.09, 3340377.23; 778013.09, 3340352.13; 777997.54, 3340327.96; 777980.50, 3340304.82; 777962.05, 3340282.79; 777942.24, 3340261.97; 777921.17, 3340242.43; 777898.91, 3340224.25; 777875.56, 3340207.50; 777851.20, 3340192.25; 777825.93, 3340178.57; 777799.85, 3340166.49; 777773.07, 3340156.08; 777745.68, 3340147.37; 777717.80, 3340140.40; 777689.54, 3340135.19; 777661.01, 3340131.77; 777632.31, 3340130.14; 777603.58, 3340130.32; 777574.91, 3340132.31; 777546.42, 3340136.09; 777518.22, 3340141.65; 777490.43, 3340148.97; 777463.16, 3340158.02; 777436.51, 3340168.77; 777410.58, 3340181.17; 777385.48, 3340195.17; 777361.32, 3340210.72; 777338.17, 3340227.76; 777316.15, 3340246.21; 777295.32, 3340266.02; 777275.78, 3340287.09; 777257.60, 3340309.34; 777240.85, 3340332.70; 777225.61, 3340357.06; 777211.92, 3340382.33; 777199.85, 3340408.41; 777189.44, 3340435.19; 777180.73, 3340462.58; 777173.76, 3340490.46; 777168.55, 3340518.72; 777165.12, 3340547.25; 777163.50, 3340575.94; 777163.68, 3340604.68; 777165.66, 3340633.35; 777169.44, 3340661.84; 777175.00, 3340690.03; 777182.32, 3340717.82; 777191.38, 3340745.10; 777202.12, 3340771.75; 777214.52, 3340797.68; 777228.52, 3340822.77; 777244.07, 3340846.94; 777261.11, 3340870.08; 777279.56, 3340892.11; 777299.37, 3340912.94; 777320.44, 3340932.48; 777342.70, 3340950.66; 777366.05, 3340967.40; 777390.41, 3340982.65; 777415.68, 3340996.34; 777441.76, 3341008.41; 777468.54, 3341018.82; 777495.93, 3341027.53; 777523.81, 3341034.50; 777552.07, 3341039.71; 777580.61, 3341043.14; 777609.30, 3341044.76.

(B) Map depicting Unit FL-11, Subunit B is provided at paragraph (6)(xxxvi)(B) of this entry.

(xxxiv) Unit FL-11, Subunit C: Wakulla and Jefferson counties, Florida. From USGS 1:24,000 scale quadrangle map St. Marks NE, Florida.

(A) Land bounded by the following UTM Zone 16N, NAD83 coordinates (E, N): 779913.58, 3337013.71; 779890.58, 3337030.88; 779868.59, 3337049.51; 779847.93, 3337069.40; 779828.49, 3337090.65; 779810.46, 3337113.05; 779793.95, 3337136.49; 779778.86, 3337160.96; 779765.29, 3337186.35; 779753.44, 3337212.46; 779743.21, 3337239.27; 779734.60, 3337266.79; 779727.81, 3337294.69; 779722.85, 3337322.96; 779719.61, 3337351.51; 779718.11, 3337380.21; 779718.54, 3337408.95; 779720.70, 3337437.63; 779724.60, 3337466.14; 779730.35, 3337494.24; 779737.94, 3337521.95; 779747.08, 3337549.15; 779758.07, 3337575.84; 779770.63, 3337601.67; 779784.74, 3337626.67; 779800.53, 3337650.70; 779817.68, 3337673.77; 779836.32, 3337695.66; 779856.23, 3337716.36; 779877.44, 3337735.76; 779899.74, 3337753.75; 779923.23, 3337770.33; 779947.73, 3337785.49; 779973.04, 3337799.00; 779999.25, 3337810.88; 780026.09, 3337821.10; 780046.47, 3337827.50; 780031.40, 3337836.00; 780007.37, 3337851.69; 779984.27, 3337868.86; 779962.39, 3337887.50; 779941.73, 3337907.38; 779922.28, 3337928.64; 779904.26, 3337951.03; 779887.65, 3337974.46; 779872.56, 3337998.93; 779859.09, 3338024.33; 779847.14, 3338050.43; 779836.91, 3338077.25; 779828.40, 3338104.77; 779821.61, 3338132.67; 779816.55, 3338160.94; 779813.32, 3338189.48; 779811.91, 3338218.19; 779812.24, 3338246.93; 779814.40, 3338275.61; 779818.40, 3338304.12; 779824.15, 3338332.22; 779831.64, 3338359.93; 779840.88, 3338387.13; 779851.77, 3338413.81; 779864.42, 3338439.66; 779878.53, 3338464.65; 779894.22, 3338488.68; 779911.47, 3338511.75; 779930.01, 3338533.64; 779950.02, 3338554.34; 779971.22, 3338573.75; 779993.52, 3338591.74; 780017.01, 3338608.31; 780041.50, 3338623.47; 780066.81, 3338636.99; 780093.02, 3338648.86; 780119.86, 3338659.09; 780147.32, 3338667.67; 780175.21, 3338674.37; 780203.52, 3338679.42; 780232.08, 3338682.70; 780260.78, 3338684.10; 780289.53, 3338683.72; 780318.13, 3338681.57; 781659.14, 3338623.35; 781687.25, 3338617.53; 781715.02, 3338610.03; 781742.26, 3338600.85; 781768.87, 3338589.89; 781794.65, 3338577.34; 781819.70, 3338563.23; 781843.73, 3338547.42; 781866.83, 3338530.26; 781888.71, 3338511.74; 781909.38, 3338491.75; 781928.83, 3338470.61; 781946.86, 3338448.21; 781963.47, 3338424.67; 781978.46, 3338400.21; 781992.04, 3338374.92; 782003.90, 3338348.71; 782014.13, 3338321.90; 782022.74, 3338294.49; 782029.54, 3338266.48; 782034.51, 3338238.21; 782037.75, 3338209.66; 782039.16, 3338180.96; 782038.84, 3338152.22; 782036.68, 3338123.53; 782032.68, 3338095.14; 782029.68, 3338080.53; 782045.61, 3338076.16; 782072.85, 3338066.99; 782099.46, 3338056.02; 782125.24, 3338043.48; 782150.29, 3338029.37; 782174.32, 3338013.56; 782197.43, 3337996.40; 782219.32, 3337977.77; 782239.98, 3337957.88; 782259.43, 3337936.64; 782277.46, 3337914.35; 782293.98, 3337890.81; 782309.07, 3337866.35; 782322.64, 3337841.06; 782334.50, 3337814.85; 782344.74, 3337788.04; 782353.26, 3337760.52; 782360.05, 3337732.62; 782365.12, 3337704.35; 782368.36, 3337675.80; 782369.77, 3337647.10; 782369.45, 3337618.36; 782367.20, 3337589.67; 782363.30, 3337561.28; 782357.56, 3337533.06; 782350.08, 3337505.35; 782340.85, 3337478.15; 782329.86, 3337451.57; 782317.31, 3337425.73; 782303.10, 3337400.73; 782287.42, 3337376.58; 782270.27, 3337353.62; 782251.64, 3337331.73; 782231.72, 3337311.02; 782210.52, 3337291.61; 782188.13, 3337273.51; 782164.64, 3337256.93; 782140.24, 3337241.87; 782114.83, 3337228.35; 780938.29, 3336769.14; 780910.83, 3336760.56; 780882.94, 3336753.74; 780854.61, 3336748.80; 780826.05, 3336745.52; 780797.34, 3336744.12; 780768.59, 3336744.50; 780751.68, 3336745.73; 780740.59, 3336730.80; 780721.95, 3336708.91; 780702.04, 3336688.21; 780680.83, 3336668.80; 780658.43, 3336650.81; 780635.04, 3336634.12; 780610.54, 3336619.07; 780585.23, 3336605.56; 780559.01, 3336593.68; 780532.17, 3336583.45; 780504.70, 3336574.88; 780476.81, 3336568.06; 780448.49, 3336563.12; 780419.92, 3336559.84; 780391.22, 3336558.44; 780362.56, 3336558.82; 780333.86, 3336560.97; 780305.41, 3336564.91; 780277.29, 3336570.63; 780249.52, 3336578.13; 780222.27, 3336587.42; 780195.67, 3336598.28; 780169.88, 3336610.94; 780144.83, 3336625.05; 780120.80, 3336640.75; 780097.79, 3336657.92; 780075.81, 3336676.55; 780055.15, 3336696.44; 780035.80, 3336717.70; 780017.67, 3336740.09; 780001.16, 3336763.52; 779986.07, 3336787.99; 779972.50, 3336813.39; 779960.65, 3336839.49; 779950.42, 3336866.31; 779941.81, 3336893.82; 779935.02, 3336921.72; 779930.06, 3336950.00; 779926.82, 3336978.54; 779925.35, 3337006.02; 779913.58, 3337013.71.

(B) Map depicting Unit FL-11, Subunit C is provided at paragraph (6)(xxxvi)(B) of this entry.

(xxxv) Unit FL-11, Subunit D: Jefferson County, Florida. From USGS 1:24,000 scale quadrangle map St. Marks NE, Florida.

(A) Land bounded by the following UTM Zone 16N, NAD83 coordinates (E, N): 783748.26, 3340815.77; 783736.43, 3341273.09; 783765.17, 3341272.93; 783793.84, 3341270.96; 783822.34, 3341267.20; 783850.54, 3341261.66; 783878.33, 3341254.36; 783905.62, 3341245.33; 783932.28, 3341234.60; 783958.21, 3341222.22; 783983.32, 3341208.23; 784007.50, 3341192.70; 784030.66, 3341175.68; 784052.70, 3341157.24; 784073.54, 3341137.45; 784093.09, 3341116.39; 784111.29, 3341094.14; 784128.05, 3341070.80; 784143.32, 3341046.45; 784157.02, 3341021.19; 784169.11, 3340995.12; 784179.54, 3340968.34; 784188.27, 3340940.95; 784195.27, 3340913.08; 784200.49, 3340884.82; 784203.94, 3340856.29; 784205.58, 3340827.60; 784205.42, 3340798.86; 784203.46, 3340770.18; 784199.70, 3340741.69; 784194.16, 3340713.49; 784186.85, 3340685.70; 784177.82, 3340658.41; 784167.09, 3340631.75; 784154.71, 3340605.82; 784140.73, 3340580.71; 784125.19, 3340556.53; 784108.17, 3340533.37; 784089.73, 3340511.33; 784069.94, 3340490.49; 784048.88, 3340470.94; 784026.64, 3340452.74; 784003.29, 3340435.98; 783978.94, 3340420.71; 783953.68, 3340407.01; 783927.61, 3340394.92; 783900.83, 3340384.49; 783873.45, 3340375.76; 783845.57, 3340368.76; 783817.31, 3340363.54; 783788.78, 3340360.09; 783760.09, 3340358.45; 783731.35, 3340358.61; 783702.68, 3340360.57; 783674.19, 3340364.33; 783645.99, 3340369.87; 783618.19, 3340377.18; 783590.91, 3340386.21; 783564.25, 3340396.94; 783538.31, 3340409.32; 783513.20, 3340423.30; 783489.03, 3340438.84; 783465.87, 3340455.86; 783443.83, 3340474.30; 783422.99, 3340494.09; 783403.43, 3340515.15; 783385.24, 3340537.39; 783368.47, 3340560.74; 783353.21, 3340585.09; 783339.50, 3340610.35; 783327.41, 3340636.42; 783316.98, 3340663.20; 783308.25, 3340690.58; 783301.26, 3340718.46; 783296.03, 3340746.72; 783292.59, 3340775.25; 783290.94, 3340803.94; 783291.10, 3340832.68; 783293.07, 3340861.35; 783296.83, 3340889.84; 783302.37, 3340918.04; 783309.67, 3340945.84; 783318.70, 3340973.12; 783329.43, 3340999.78; 783341.81, 3341025.72; 783355.80, 3341050.82; 783371.33, 3341075.00; 783388.35, 3341098.16; 783406.79, 3341120.20; 783426.58, 3341141.04; 783447.64, 3341160.60; 783469.89, 3341178.79; 783493.23, 3341195.56; 783517.58, 3341210.82; 783542.84, 3341224.53; 783568.91, 3341236.62; 783595.69, 3341247.05; 783623.08, 3341255.78; 783650.95, 3341262.77; 783679.21, 3341268.00; 783707.74, 3341271.44; 783736.43, 3341273.09.

(B) Map depicting Unit FL-11, Subunit D is provided at paragraph (6)(xxxvi)(B) of this entry.

(xxxvi) Unit FL-11, Subunit E: Jefferson County, Florida. From USGS 1:24,000 scale quadrangle map Cody, Florida.

(A) Land bounded by the following UTM Zone 16N, NAD83 coordinates (E, N): 784571.80, 3351736.64; 784608.07, 3351280.60; 784579.36, 3351279.22; 784554.83, 3351279.59; 784550.62, 3351279.65; 784521.97, 3351281.88; 784493.51, 3351285.91; 784465.37, 3351291.71; 784437.64, 3351299.27; 784410.44, 3351308.56; 784383.88, 3351319.54; 784358.06, 3351332.16; 784333.09, 3351346.38; 784309.05, 3351362.14; 784286.06, 3351379.37; 784264.19, 3351398.02; 784243.53, 3351418.00; 784224.17, 3351439.25; 784206.19, 3351461.66; 784189.64, 3351485.16; 784174.61, 3351509.65; 784161.14, 3351535.04; 784149.29, 3351561.22; 784139.11, 3351588.10; 784130.64, 3351615.56; 784123.90, 3351643.50; 784118.94, 3351671.81; 784115.76, 3351700.37; 784114.38, 3351729.08; 784114.81, 3351757.81; 784117.04, 3351786.47; 784121.07, 3351814.92; 784126.87, 3351843.07; 784134.43, 3351870.80; 784143.72, 3351897.99; 784154.70, 3351924.55; 784167.32, 3351950.37; 784181.54, 3351975.35; 784197.30, 3351999.38; 784214.53, 3352022.38; 784233.18, 3352044.25; 784253.16, 3352064.90; 784274.40, 3352084.26; 784296.82, 3352102.25; 784320.32, 3352118.79; 784344.81, 3352133.83; 784370.20, 3352147.30; 784396.38, 3352159.15; 784423.26, 3352169.33; 784450.72, 3352177.80; 784478.66, 3352184.53; 784506.97, 3352189.50; 784535.53, 3352192.68; 784558.55, 3352193.78; 784564.24, 3352194.05; 784592.97, 3352193.63; 784621.63, 3352191.40; 784650.08, 3352187.37; 784678.23, 3352181.56; 784705.96, 3352174.00; 784733.15, 3352164.72; 784759.71, 3352153.74; 784785.53, 3352141.12; 784810.51, 3352126.90; 784834.54, 3352111.14; 784857.54, 3352093.90; 784879.41, 3352075.26; 784900.06, 3352055.27; 784919.42, 3352034.03; 784937.41, 3352011.62; 784953.96, 3351988.12; 784968.99, 3351963.63; 784982.46, 3351938.24; 784994.31, 3351912.06; 785004.49, 3351885.18; 785012.96, 3351857.72; 785019.70, 3351829.78; 785024.66, 3351801.47; 785027.84, 3351772.91; 785029.21, 3351744.20; 785028.79, 3351715.46; 785026.56, 3351686.81; 785022.53, 3351658.36; 785016.72, 3351630.21; 785009.16, 3351602.48; 784999.88, 3351575.28; 784988.90, 3351548.72; 784976.28, 3351522.90; 784962.06, 3351497.93; 784946.30, 3351473.89; 784929.06, 3351450.90; 784910.42, 3351429.03; 784890.43, 3351408.37; 784869.19, 3351389.01; 784846.78, 3351371.03; 784823.28, 3351354.48; 784798.79, 3351339.44; 784773.40, 3351325.98; 784747.21, 3351314.13; 784720.34, 3351303.95; 784692.88, 3351295.47; 784664.94, 3351288.74; 784636.63, 3351283.78; 784608.07, 3351280.60.

(B) Map of Unit FL-11 (Map 8) follows:

BILLING CODE 4310-55-P

BILLING CODE 4310-55-C

(xxxvii) Unit FL-12, Subunit A: Baker County, Florida. From USGS 1:24,000 scale quadrangle maps Big Gum Swamp, Olustee, Sanderson North, and Sanderson South, Florida.

(A) Land bounded by the following UTM Zone 17N, NAD83 coordinates (E, N): 372674.30, 3352411.55; 372690.87, 3352868.36; 372719.52, 3352866.42; 372748.00, 3352862.68; 372776.18, 3352857.17; 372803.96, 3352849.89; 372831.22, 3352840.88; 372857.87, 3352830.18; 372883.80, 3352817.83; 372908.89, 3352803.88; 372933.07, 3352788.37; 372956.22, 3352771.38; 372978.25, 3352752.97; 372999.09, 3352733.21; 373018.65, 3352712.18; 373036.84, 3352689.97; 373053.61, 3352666.65; 373068.88, 3352642.33; 373082.59, 3352617.10; 373094.69, 3352591.06; 373105.13, 3352564.31; 373113.88, 3352536.96; 373120.88, 3352509.11; 373126.13, 3352480.87; 373129.59, 3352452.37; 373131.25, 3352423.70; 373131.11, 3352394.98; 373129.17, 3352366.33; 373125.43, 3352337.86; 373119.92, 3352309.68; 373112.64, 3352281.90; 373103.63, 3352254.63; 373092.93, 3352227.98; 373080.58, 3352202.06; 373066.63, 3352176.96; 373051.12, 3352152.79; 373034.13, 3352129.64; 373015.72, 3352107.60; 372995.96, 3352086.77; 372974.93, 3352067.21; 372952.72, 3352049.01; 372929.40, 3352032.25; 372905.08, 3352016.98; 372879.85, 3352003.27; 372853.81, 3351991.16; 372827.06, 3351980.72; 372799.71, 3351971.98; 372771.86, 3351964.97; 372743.63, 3351959.73; 372715.12, 3351956.27; 372686.45, 3351954.60; 372657.73, 3351954.74; 372629.08, 3351956.68; 372600.61, 3351960.42; 372572.43, 3351965.94; 372544.65, 3351973.22; 372517.38, 3351982.22; 372490.73, 3351992.92; 372464.81, 3352005.27; 372439.71, 3352019.23; 372415.54, 3352034.73; 372392.39, 3352051.73; 372370.35, 3352070.14; 372349.52, 3352089.90; 372329.96, 3352110.92; 372311.76, 3352133.14; 372295.00, 3352156.45; 372279.73, 3352180.77; 372266.02, 3352206.00; 372253.91, 3352232.05; 372243.47, 3352258.80; 372234.73, 3352286.15; 372227.72, 3352314.00; 372222.48, 3352342.23; 372219.02, 3352370.74; 372217.35, 3352399.41; 372217.49, 3352428.12; 372219.44, 3352456.77; 372223.17, 3352485.25; 372228.69, 3352513.43; 372235.97, 3352541.21; 372244.97, 3352568.47; 372255.67, 3352595.12; 372268.02, 3352621.05; 372281.98, 3352646.14; 372297.48, 3352670.31; 372314.48, 3352693.46; 372332.89, 3352715.50; 372352.65, 3352736.34; 372373.67, 3352755.90; 372395.89, 3352774.09; 372419.20, 3352790.86; 372443.52, 3352806.13; 372468.75, 3352819.84; 372494.80, 3352831.94; 372521.55, 3352842.38; 372548.90, 3352851.13; 372576.75, 3352858.13; 372604.98, 3352863.38; 372633.49, 3352866.84; 372662.16, 3352868.50; 372690.87, 3352868.36.

(B) Map depicting Unit FL-12, Subunit A is provided at paragraph (6)(xxxviii)(B) of this entry.

(xxxviii) Unit FL-12, Subunit B: Baker County, Florida. From USGS 1:24,000 scale quadrangle map Sanderson North, Florida.

(A) Land bounded by the following UTM Zone 17N, NAD83 coordinates (E, N): 366810.54, 3347335.55; 365204.92, 3347256.53; 365545.34, 3347671.08; 365785.90, 3347864.83; 366215.16, 3348065.56; 366594.64, 3348161.77; 366950.86, 3348270.32; 367457.49, 3348269.28; 367656.48, 3348217.24; 367983.80, 3348114.94; 368263.73, 3348002.09; 368367.03, 3347893.69; 368445.29, 3347727.16; 368438.75, 3347468.74; 368362.16, 3347235.59; 368183.75, 3347169.56; 367774.48, 3346827.27; 367344.33, 3346591.29; 366962.47, 3346401.11; 366361.04, 3346381.04; 365915.66, 3346474.56; 365542.12, 3346613.29; 365216.87, 3346797.82; 365176.32, 3347057.43; 365204.92, 3347256.53.

(B) Map of Unit FL-12 (Map 9) follows:

BILLING CODE 4310-55-P

BILLING CODE 4310-55-C

(7) Georgia: Baker and Miller Counties, Georgia.

(i) Unit GA-1, Subunit A: Miller County, Georgia. From USGS 1:24,000 scale quadrangle map Donalsonville NE, Georgia.

(A) Land bounded by the following UTM Zone 16N, NAD83 coordinates (E, N): 709773.06, 3456290.97; 709801.78, 3456290.64; 709830.43, 3456288.51; 709858.89, 3456284.58; 709887.04, 3456278.87; 709914.78, 3456271.41; 709942.00, 3456262.22; 709968.58, 3456251.34; 709994.43, 3456238.81; 710019.45, 3456224.68; 710043.52, 3456209.01; 710066.57, 3456191.86; 710088.49, 3456173.30; 710109.20, 3456153.39; 710128.62, 3456132.23; 710146.68, 3456109.89; 710163.30, 3456086.45; 710178.41, 3456062.02; 710191.96, 3456036.69; 710203.89, 3456010.56; 710214.16, 3455983.73; 710222.72, 3455956.31; 710229.54, 3455928.41; 710234.60, 3455900.13; 710237.88, 3455871.59; 710239.35, 3455842.91; 710239.02, 3455814.18; 710236.89, 3455785.53; 710232.96, 3455757.08; 710227.25, 3455728.92; 710219.79, 3455701.18; 710210.60, 3455673.97; 710199.72, 3455647.38; 710187.19, 3455621.53; 710173.06, 3455596.52; 710157.39, 3455572.44; 710140.24, 3455549.40; 710121.68, 3455527.48; 710101.77, 3455506.76; 710080.61, 3455487.34; 710058.27, 3455469.29; 710034.83, 3455452.67; 710010.40, 3455437.56; 709985.07, 3455424.01; 709958.94, 3455412.08; 709932.11, 3455401.81; 709904.69, 3455393.25; 709876.79, 3455386.42; 709848.51, 3455381.36; 709819.97, 3455378.09; 709791.29, 3455376.62; 709762.56, 3455376.95; 709733.91, 3455379.08; 709705.46, 3455383.01; 709677.30, 3455388.71; 709649.56, 3455396.18; 709622.35, 3455405.37; 709595.76, 3455416.25; 709569.91, 3455428.78; 709544.90, 3455442.90; 709520.82, 3455458.57; 709497.78, 3455475.73; 709475.86, 3455494.29; 709455.15, 3455514.19; 709435.72, 3455535.36; 709417.67, 3455557.70; 709401.05, 3455581.13; 709385.94, 3455605.56; 709372.39, 3455630.89; 709360.46, 3455657.02; 709350.19, 3455683.85; 709341.63, 3455711.27; 709334.80, 3455739.18; 709329.75, 3455767.45; 709326.47, 3455795.99; 709325.00, 3455824.68; 709325.33, 3455853.40; 709327.46, 3455882.05; 709331.39, 3455910.51; 709337.10, 3455938.66; 709344.56, 3455966.40; 709353.75, 3455993.62; 709364.63, 3456020.20; 709377.16, 3456046.05; 709391.29, 3456071.07; 709406.96, 3456095.14; 709424.11, 3456118.19; 709442.67, 3456140.11; 709462.57, 3456160.82; 709483.74, 3456180.24; 709506.08, 3456198.30; 709529.51, 3456214.92; 709553.94, 3456230.03; 709579.27, 3456243.58; 709605.40, 3456255.51; 709632.23, 3456265.78; 709659.65, 3456274.34; 709687.56, 3456281.16; 709715.83, 3456286.22; 709744.37, 3456289.49; 709773.06, 3456290.97.

(B) Map depicting Unit GA-1, Subunit A is provided at paragraph (7)(iii)(B) of this entry.

(ii) Unit GA-1, Subunit B: Baker County, Georgia. From USGS 1:24,000 scale quadrangle map Bethany, Georgia.

(A) Land bounded by the following UTM Zone 16N, NAD83 coordinates (E, N): 734056.66, 3462652.99; 733733.16, 3462635.49; 733657.95, 3462793.17; 733648.02, 3462832.82; 733696.56, 3462842.99; 733735.88, 3462866.21; 733795.54, 3462792.40; 733840.01, 3462789.15; 733937.93, 3463111.13; 734037.50, 3463371.05; 734205.36, 3463566.26; 734222.15, 3463602.19; 734311.08, 3463595.69; 734536.48, 3463464.20; 734670.71, 3463423.43; 734774.12, 3463372.96; 734944.36, 3463146.86; 735033.71, 3462958.51; 735083.26, 3462764.67; 735044.83, 3462541.86; 734972.52, 3462424.61; 734940.00, 3462312.85; 734887.73, 3462275.97; 734817.60, 3462243.05; 734637.25, 3462349.13; 734460.51, 3462486.35; 734437.39, 3462521.21; 734056.66, 3462652.99.

(B) Map depicting Unit GA-1, Subunit B is provided at paragraph (7)(iii)(B) of this entry.

(iii) Unit GA-1, Subunit C: Baker County, Georgia. From USGS 1:24,000 scale quadrangle map Bethany, Georgia.

(A) Land bounded by the following UTM Zone 16N, NAD83 coordinates (E, N): 735020.92, 3461631.51; 735054.62, 3461643.75; 735171.74, 3461646.88; 735327.96, 3461601.92; 735452.49, 3461469.20; 735420.30, 3461400.33; 735416.42, 3461404.00; 735438.69, 3461136.30; 735487.70, 3461141.39; 735586.24, 3461132.68; 735699.79, 3461128.15; 735734.35, 3460966.58; 735712.03, 3460811.06; 735690.67, 3460761.36; 735521.91, 3460567.92; 735439.40, 3460543.04; 735388.67, 3460602.15; 734961.33, 3460605.87; 734874.08, 3460758.47; 734820.12, 3460938.41; 734829.24, 3461021.79; 734828.08, 3461206.92; 734832.72, 3461316.63; 734845.31, 3461411.44; 734906.82, 3461515.10; 735020.92, 3461631.51.

(B) Map of Unit GA-1 (Map 10) follows:

BILLING CODE 4310-55-P

BILLING CODE 4310-55-C

(8) South Carolina: Berkeley, Charleston, and Jasper Counties, South Carolina.

(i) Unit SC-1: Jasper County, South Carolina. From USGS 1:24,000 scale quadrangle map Limehouse, South Carolina.

(A) Land bounded by the following UTM Zone 17N, NAD83 coordinates (E, N): 489561.94, 3573503.59; 489453.58, 3573970.39; 489507.35, 3573975.17; 489561.29, 3573977.32; 489615.28, 3573976.84; 489669.17, 3573973.72; 489722.85, 3573967.97; 489813.22, 3573903.16; 489904.81, 3573840.10; 489926.27, 3573824.52; 489946.02, 3573806.80; 489963.82, 3573787.14; 489979.50, 3573765.74; 489992.88, 3573742.83; 490003.82, 3573718.67; 490012.20, 3573693.50; 490017.94, 3573667.60; 490016.20, 3573652.66; 490013.19, 3573637.92; 490015.98, 3573632.12; 490025.87, 3573604.58; 490032.87, 3573576.16; 490036.91, 3573547.18; 490037.03, 3573543.60; 490041.81, 3573520.55; 490043.92, 3573497.11; 490043.41, 3573474.57; 490040.43, 3573452.23; 490035.01, 3573430.36; 490027.22, 3573409.21; 490026.77, 3573385.43; 490023.98, 3573361.81; 490018.89, 3573338.58; 490011.54, 3573315.96; 490002.00, 3573294.17; 489990.37, 3573273.42; 489980.99, 3573259.55; 489970.67, 3573246.37; 489959.67, 3573227.66; 489937.65, 3573195.84; 489913.35, 3573165.71; 489886.91, 3573137.45; 489858.47, 3573111.20; 489828.18, 3573087.11; 489796.21, 3573065.31; 489762.72, 3573045.91; 489727.90, 3573029.02; 489644.36, 3573024.70; 489560.73, 3573022.61; 489477.08, 3573022.74; 489393.46, 3573025.11; 489359.85, 3573040.41; 489327.69, 3573058.58; 489297.23, 3573079.47; 489268.70, 3573102.92; 489242.31, 3573128.76; 489218.27, 3573156.80; 489196.75, 3573186.82; 489177.92, 3573218.59; 489161.92, 3573251.88; 489148.87, 3573286.44; 489138.87, 3573321.99; 489085.29, 3573601.84; 489092.79, 3573641.38; 489103.20, 3573680.27; 489116.45, 3573718.27; 489132.48, 3573755.19; 489151.20, 3573790.83; 489172.50, 3573824.98; 489196.26, 3573857.47; 489214.53, 3573880.49; 489235.17, 3573901.42; 489257.94, 3573920.01; 489282.57, 3573936.04; 489308.78, 3573949.34; 489336.26, 3573959.75; 489364.71, 3573967.15; 489393.78, 3573971.44; 489423.15, 3573972.59; 489452.47, 3573970.58; 489453.58, 3573970.39.

(B) Map depicting Unit SC-1 is provided at paragraph (8)(ii)(B) of this entry.

(ii) Unit SC-2: Jasper County, South Carolina. From USGS 1:24,000 scale quadrangle map Hardeeville, South Carolina.

(A) Land bounded by the following UTM Zone 17N, NAD83 coordinates (E, N): 497825.00, 3566333.83; 497635.59, 3566801.87; 497712.84, 3566808.12; 497984.07, 3566781.17; 497985.26, 3566663.24; 498153.12, 3566557.50; 498167.76, 3566492.09; 498352.14, 3566398.14; 498426.93, 3566302.81; 498448.59, 3566192.51; 498512.79, 3566162.48; 498461.55, 3566058.02; 498346.32, 3565991.72; 498237.70, 3566197.65; 498174.59, 3566272.37; 498083.20, 3566185.16; 498003.97, 3566097.65; 497922.07, 3565900.43; 497748.68, 3565948.43; 497683.38, 3565948.65; 497599.14, 3565928.51; 497467.56, 3565899.32; 497376.85, 3566007.25; 497361.27, 3566156.01; 497363.83, 3566261.26; 497404.53, 3566478.19; 497468.92, 3566622.98; 497536.88, 3566747.36; 497635.59, 3566801.87.

(B) Map of Units SC-1 and SC-2 (Map 11) follows:

BILLING CODE 4310-55-P

BILLING CODE 4310-55-C

(iii) Unit SC-3: Berkeley County, South Carolina. From USGS 1:24,000 scale quadrangle map Cainhoy, South Carolina.

(A) Land bounded by the following UTM Zone 17N, NAD83 coordinates (E, N): 611583.13, 3649078.75; 611126.05, 3649075.08; 611126.72, 3649103.79; 611129.20, 3649132.40; 611133.46, 3649160.79; 611139.50, 3649188.87; 611147.29, 3649216.50; 611156.80, 3649243.60; 611167.99, 3649270.04; 611180.82, 3649295.73; 611195.24, 3649320.57; 611211.19, 3649344.44; 611228.61, 3649367.27; 611247.42, 3649388.97; 611267.57, 3649409.43; 611288.95, 3649428.59; 611311.50, 3649446.38; 611335.12, 3649462.71; 611359.72, 3649477.52; 611385.20, 3649490.76; 611411.46, 3649502.38; 611438.40, 3649512.32; 611465.91, 3649520.55; 611493.88, 3649527.04; 611522.20, 3649531.76; 611550.77, 3649534.69; 611579.46, 3649535.83; 611608.17, 3649535.15; 611636.78, 3649532.68; 611665.17, 3649528.42; 611693.25, 3649522.38; 611720.88, 3649514.59; 611747.98, 3649505.08; 611774.42, 3649493.89; 611800.11, 3649481.05; 611824.94, 3649466.64; 611848.82, 3649450.69; 611871.65, 3649433.27; 611893.34, 3649414.45; 611913.81, 3649394.31; 611932.97, 3649372.93; 611950.75, 3649350.38; 611967.08, 3649326.76; 611981.90, 3649302.16; 611995.14, 3649276.68; 612006.75, 3649250.42; 612016.70, 3649223.48; 612024.93, 3649195.97; 612031.42, 3649168.00; 612036.14, 3649139.67; 612039.07, 3649111.11; 612040.20, 3649082.41; 612039.53, 3649053.71; 612037.06, 3649025.10; 612032.79, 3648996.70; 612026.75, 3648968.63; 612018.96, 3648940.99; 612009.45, 3648913.89; 611998.26, 3648887.45; 611985.43, 3648861.76; 611971.01, 3648836.93; 611955.06, 3648813.05; 611937.64, 3648790.22; 611918.83, 3648768.53; 611898.69, 3648748.06; 611877.30, 3648728.90; 611854.75, 3648711.12; 611831.13, 3648694.79; 611806.53, 3648679.97; 611781.05, 3648666.73; 611754.79, 3648655.12; 611727.85, 3648645.17; 611700.34, 3648636.94; 611672.37, 3648630.45; 611644.05, 3648625.73; 611615.48, 3648622.80; 611586.79, 3648621.67; 611558.08, 3648622.34; 611529.47, 3648624.81; 611501.08, 3648629.08; 611473.01, 3648635.12; 611445.37, 3648642.91; 611418.27, 3648652.42; 611391.83, 3648663.61; 611366.14, 3648676.44; 611341.31, 3648690.86; 611317.43, 3648706.81; 611294.60, 3648724.23; 611272.91, 3648743.04; 611252.44, 3648763.18; 611233.28, 3648784.57; 611215.50, 3648807.12; 611199.17, 3648830.74; 611184.35, 3648855.33; 611171.11, 3648880.81; 611159.50, 3648907.08; 611149.56, 3648934.01; 611141.32, 3648961.52; 611134.84, 3648989.50; 611130.12, 3649017.82; 611127.18, 3649046.39; 611126.05, 3649075.08; 612161.25, 3649359.52; 612163.72, 3649388.16; 612167.98, 3649416.48; 612174.02, 3649444.61; 612181.83, 3649472.19; 612191.34, 3649499.36; 612202.53, 3649525.77; 612215.32, 3649551.42; 612229.80, 3649576.31; 612245.70, 3649600.22; 612263.20, 3649623.04; 612281.92, 3649644.65; 612302.15, 3649665.18; 612323.53, 3649684.27; 612346.03, 3649702.16; 612369.68, 3649718.40; 612394.27, 3649733.20; 612419.73, 3649746.47; 612446.05, 3649758.08; 612472.94, 3649768.03; 612500.42, 3649776.33; 612528.38, 3649782.75; 612556.74, 3649787.51; 612585.30, 3649790.39; 612613.98, 3649791.60; 612622.86, 3649791.37; 612622.46, 3649801.79; 612623.16, 3649830.52; 612625.63, 3649859.15; 612629.89, 3649887.48; 612635.92, 3649915.60; 612643.74, 3649943.19; 612653.24, 3649970.35; 612664.43, 3649996.76; 612677.31, 3650022.41; 612691.70, 3650047.30; 612707.59, 3650071.22; 612725.09, 3650094.04; 612743.91, 3650115.65; 612764.04, 3650136.18; 612785.41, 3650155.27; 612807.92, 3650173.16; 612831.56, 3650189.40; 612856.16, 3650204.21; 612934.82, 3650239.04; 612962.38, 3650247.23; 612990.35, 3650253.76; 613018.61, 3650258.52; 613047.17, 3650261.40; 613075.94, 3650262.51; 613104.64, 3650261.84; 613133.26, 3650259.40; 613161.63, 3650255.18; 613189.73, 3650249.07; 613217.30, 3650241.29; 613244.42, 3650231.85; 613270.90, 3650220.62; 613296.56, 3650207.83; 613321.40, 3650193.37; 613345.22, 3650177.45; 613368.13, 3650159.98; 613389.75, 3650141.15; 613410.26, 3650121.10; 613429.39, 3650099.70; 613447.22, 3650077.06; 613463.56, 3650053.52; 613478.34, 3650028.85; 613491.62, 3650003.39; 613503.23, 3649977.13; 613513.17, 3649950.19; 613521.34, 3649922.68; 613527.83, 3649894.70; 613532.55, 3649866.37; 613535.49, 3649837.79; 613536.66, 3649809.20; 613535.97, 3649780.47; 613533.49, 3649751.83; 613529.24, 3649723.40; 613523.21, 3649695.39; 613515.40, 3649667.68; 613505.90, 3649640.63; 613494.71, 3649614.22; 613481.92, 3649588.46; 613467.44, 3649563.68; 613451.55, 3649539.76; 613434.05, 3649516.94; 613415.24, 3649495.21; 613395.10, 3649474.80; 613373.73, 3649455.59; 613351.23, 3649437.81; 613327.58, 3649421.46; 613302.99, 3649406.65; 613277.53, 3649393.50; 613251.21, 3649381.88; 613224.32, 3649371.93; 613196.84, 3649363.63; 613168.78, 3649357.21; 613140.52, 3649352.44; 613111.95, 3649349.57; 613083.28, 3649348.35; 613074.30, 3649348.58; 613074.70, 3649338.16; 613074.10, 3649309.43; 613071.62, 3649280.80; 613067.37, 3649252.47; 613061.34, 3649224.35; 613053.52, 3649196.76; 613044.02, 3649169.60; 613032.83, 3649143.19; 613019.94, 3649117.54; 613005.56, 3649092.64; 612989.57, 3649068.73; 612972.17, 3649045.91; 612953.35, 3649024.29; 612933.21, 3649003.77; 612911.84, 3648984.67; 612889.33, 3648966.90; 612865.68, 3648950.55; 612841.08, 3648935.74; 612815.63, 3648922.47; 612789.31, 3648910.86; 612762.41, 3648900.91; 612734.93, 3648892.72; 612706.88, 3648886.19; 612678.61, 3648881.43; 612650.04, 3648878.55; 612621.36, 3648877.45; 612592.66, 3648878.11; 612564.03, 3648880.56; 612535.66, 3648884.78; 612507.55, 3648890.89; 612479.89, 3648898.67; 612452.77, 3648908.12; 612426.38, 3648919.35; 612400.72, 3648932.14; 612375.88, 3648946.60; 612351.96, 3648962.52; 612329.14, 3648980.00; 612307.43, 3648998.71; 612287.01, 3649018.88; 612267.79, 3649040.28; 612250.06, 3649062.81; 612233.71, 3649086.47; 612218.85, 3649111.02; 612205.66, 3649136.49; 612194.05, 3649162.86; 612184.12, 3649189.69; 612175.86, 3649217.20; 612169.37, 3649245.18; 612164.66, 3649273.52; 612161.72, 3649302.09; 612160.64, 3649330.80.

(B) Map depicting Unit SC-3 is provided at paragraph (8)(iv)(B) of this entry.

(iv) Unit SC-4: Charleston County, South Carolina. From USGS 1:24,000 quadrangle map Santee, South Carolina.

(A) Land bounded by the following UTM Zone 17N, NAD83 coordinates (E, N): 648576.17, 3668543.24; 648119.03, 3668539.54; 648119.70, 3668568.25; 648122.17, 3668596.86; 648126.43, 3668625.26; 648132.47, 3668653.34; 648140.26, 3668680.98; 648149.77, 3668708.08; 648160.96, 3668734.53; 648173.79, 3668760.22; 648188.21, 3668785.06; 648204.16, 3668808.94; 648221.58, 3668831.78; 648240.40, 3668853.47; 648260.54, 3668873.94; 648281.93, 3668893.11; 648304.48, 3668910.89; 648328.10, 3668927.23; 648352.70, 3668942.05; 648378.18, 3668955.29; 648404.45, 3668966.91; 648431.39, 3668976.86; 648458.90, 3668985.09; 648486.88, 3668991.58; 648515.21, 3668996.30; 648543.78, 3668999.24; 648572.47, 3669000.37; 648601.18, 3668999.70; 648629.80, 3668997.23; 648658.20, 3668992.97; 648686.27, 3668986.93; 648713.92, 3668979.14; 648741.02, 3668969.63; 648767.47, 3668958.44; 648793.16, 3668945.61; 648818.00, 3668931.19; 648841.88, 3668915.24; 648864.71, 3668897.82; 648886.41, 3668879.00; 648906.88, 3668858.86; 648926.05, 3668837.47; 648943.83, 3668814.92; 648960.16, 3668791.30; 648974.98, 3668766.70; 648988.23, 3668741.22; 648999.85, 3668714.96; 649009.79, 3668688.01; 649018.03, 3668660.50; 649024.52, 3668632.52; 649029.24, 3668604.20; 649032.17, 3668575.63; 649033.31, 3668546.93; 649032.64, 3668518.22; 649030.17, 3668489.61; 649025.90, 3668461.21; 649019.87, 3668433.13; 649012.08, 3668405.49; 649002.57, 3668378.39; 648991.37, 3668351.94; 648978.54, 3668326.25; 648964.12, 3668301.41; 648948.17, 3668277.53; 648930.76, 3668254.69; 648911.94, 3668233.00; 648891.80, 3668212.53; 648870.41, 3668193.36; 648847.86, 3668175.58; 648824.24, 3668159.24; 648799.63, 3668144.42; 648774.15, 3668131.18; 648747.89, 3668119.56; 648720.95, 3668109.62; 648693.43, 3668101.38; 648665.46, 3668094.89; 648637.13, 3668090.17; 648608.56, 3668087.23; 648579.86, 3668086.10; 648551.15, 3668086.77; 648522.54, 3668089.24; 648494.14, 3668093.50; 648466.06, 3668099.54; 648438.42, 3668107.33; 648411.32, 3668116.84; 648384.87, 3668128.03; 648359.18, 3668140.86; 648334.34, 3668155.28; 648310.46, 3668171.23; 648287.62, 3668188.65; 648265.93, 3668207.47; 648245.46, 3668227.61; 648226.29, 3668249.00; 648208.50, 3668271.55; 648192.17, 3668295.17; 648177.35, 3668319.77; 648164.11, 3668345.25; 648152.49, 3668371.52; 648142.54, 3668398.46; 648134.31, 3668425.97; 648127.82, 3668453.95; 648123.10, 3668482.28; 648120.16, 3668510.84; 648119.03, 3668539.54.

(B) Map of Units SC-3 and SC-4 (Map 12) follows:

BILLING CODE 4310-55-P

* * * * *

Dated: January 26, 2007.
David M. Verhey,
Assistant Secretary for Fish and Wildlife and Parks.

[FR Doc. 07-470 Filed 2-6-07; 8:45 am]

BILLING CODE 4310-55-C